OFFICE OF PERSONNEL MANAGEMENT

SES Positions That Were Career Reserved During CY 2009

AGENCY: U.S. Office of Personnel Management (OPM).

ACTION: Notice.

SUMMARY: As required by section 3132(b)(4) of title 5, United States Code, this gives notice of all positions in the Senior Executive Service (SES) that were career reserved during calendar year 2009.

FOR FURTHER INFORMATION CONTACT: Roland Edwards, Senior Executive Resource Services, (202) 606-2246.

SUPPLEMENTARY INFORMATION: Below is a list of titles of SES positions that were career reserved at any time during calendar year 2009, regardless of whether those positions were still career reserved as of December 31, 2009. Section 3132(b)(4) of title 5, United States Code, requires that the head of each agency publish such lists by March 1 of the following year. The Office of Personnel Management is publishing a consolidated list for all agencies.

Agency and organization | Career reserved positions
Advisory Council On Historic Preservation:
Office Of The Executive Director | Executive Director
American Battle Monuments Commission:
Director, European Region | Director, European Region
Executive Director | Executive Director
United States Access Board:
Architectural And Transportation Barriers Compliance Board | Director Office Of Technical And Information Services
| Executive Director
Broadcasting Board Of Governors:
International Broadcasting Bureau | Associate Director For Management
| Deputy For Engineering Resource Control
| Deputy For Network Operations
| Director Engineering And Technical Operations
Chemical Safety And Hazard Investigation Board:
Office Of The Chief Operating Officer | Chief Operating Officer
Consumer Product Safety Commission:
Office Of Executive Director | Assistant Executive Director For Compliance And Administrative Litigation
| Assistant Executive Director For Information And Tech Services
| Director, Office Of International Programs And Intergovernmental Affairs
Office Of Hazard Identification And Reduction | Assistant Executive Director For Hazard Identification And Reduction
| Associate Executive Director For Economic Analysis
| Associate Executive Director For Engineering Sciences
| Associate Executive Director For Epidemiology
| Deputy Assistant Executive Director For Hazard Identification And Reduction
Court Services And Offender Supervision Agency For The District Of Columbia:
Court Services And Offender Supervision Agency For The District Of Columbia | Director Of Human Resources
| Associate Director For Management And Administration
| Associate Director For Community Justice Programs
| Associate Director For Community Supervision
| Associate Director For Research And Evaluation
| Attorney (General Counsel)
| Chief Financial Officer
| Chief Information Officer
| Deputy Director
| Director, Legislative, Intergovernmental And Public Affairs
Pretrial Services Agency | Deputy Director
| Director
| Director Of Finance And Administration
| Operations Director
Defense Nuclear Facilities Safety Board:
Defense Nuclear Facilities Safety Board | Deputy General Counsel
| Deputy General Manager
| Deputy Technical Director
| Group Lead For Nuclear Facility Design And Infrastructure
| Group Lead For Nuclear Materials Processing And Stabilization
| Group Lead For Nuclear Programs And Analysis
| Group Lead For Nuclear Weapon Programs
| Technical Advisor For Engineering Studies
| Technical Director
Department Of Agriculture:
Agricultural Marketing Service | Deputy Administrator, Livestock And Seed Programs
| Deputy Administrator For National Organic Programs
| Deputy Administrator, Compliance And Analysis
| Deputy Administrator, Cotton And Tobacco Programs
| Deputy Administrator, Dairy Programs
| Deputy Administrator, Fruit And Vegetable Programs
| Deputy Administrator, Information Technology Services
| Deputy Administrator, Poultry Programs
| Deputy Administrator, Science And Technology Programs
| Deputy Administrator, Transportation And Marketing Programs
| Director, National Organic Program
| Director, National Organic Programs
Agricultural Research Service | Assistant Administrator For Technology Transfer
| Associate Administrator, Research Operations And Management
| Associate Deputy Administrator For Administrative And Financial Management
| Chief Budget Officer
| Deputy Administrator For Administrative And Financial Management
| Deputy Administrator, Animal Production And Protection
| Deputy Administrator, Food Nutrition, Safety And Quality
| Director, National Animal Disease Center
| Director, Office Of International Research Programs
| Director, Office Of Pest Management Policy
Animal And Plant Health Inspection Service | Assistant Deputy Administrator, Emergency And Domestic Programs
| Associate Deputy Administrator For Animal Care
| Associate Deputy Administrator For Marketing And Regulatory Programs—Business Services
| Associate Deputy Administrator, Emerging And International Programs
| Associate Deputy Administrator, Veterinary Services, Emergency Programs
| Associate Deputy Administrator, Wildlife Services
| Chief Operating Officer
| Deputy Administrator For Marketing And Regulatory Programs-Business Services
| Deputy Administrator, Animal Care
| Deputy Administrator, Biotechnology Regulatory Programs
| Deputy Administrator, Legislative And Public Affairs
| Director, Center For Plant Health Science And Technology
| Director, Center For Veterinary Biologics
| Director, Eastern Region, Wildlife Services
| Director, Information Technology Division
| Director, Investigative And Enforcement Services
| Director, National Wildlife Research Center
| Director, Western Region, Wildlife Services
| Executive Associate Deputy Administrator
| Human Resources Officer
| International Services Area Director (Trade)
| Senior Animal And Plant Health Inspection Service International Organization Coordinator
Beltsville Area Office | Associate Director Beltsville Area
| Chief Information Officer
| Director Beltsville Area Office
| Director Plant Sciences Institute
| Director United States National Arboretum
| Director, Animal And Natural Resources Institute
| Director, Beltsville Human Nutrition Research Center
Cooperative State Research, Education And Extension Service | Deputy Administrator, Economic And Community Systems
| Deputy Administrator, Information Systems And Technology Management
| Deputy Administrator, Office Of Extramural Programs
Economic Research Service | Administrator, Economic Research Service
| Associate Administrator, Economic Research Service
| Budget Coordinator And Strategic Planner
| Director, Food And Rural Economics Division
| Director, Information Services Division
| Director, Market And Trade Economics Division
| Director, Resource Economics Division
Farm Service Agency | Assistant Deputy Administrator Farm Programs
| Deputy Administrator For Farm Loan Programs
| Deputy Director, Office Of Budget And Finance
| Director, Conservation Environment Programs Division
| Director, Office Of Budget And Finance
Field Units | Director, Forest Products Laboratory (Madison)
| Director, Pacific Northwest Research Station
| Director, Pacific Southwest Forest And Range Experiment Station (Vallejo)
| Director, Rocky Mountain Forest And Range Experiment Station (Fort Collins)
| Director, Southern Research Station (Asheville)
| Northeast Area Director, State And Private Forestry
| Station Director, North Eastern Forest Experiment Station (Newtown Square)
Food And Nutrition Service | Associate Administrator For Management And Finance
| Associate Administrator For Program Service And Support
| Deputy Administrator For Financial Management
| Deputy Administrator For Management
| Director, Office Of Research, Nutrition And Analysis
Food Safety And Inspection Service | Assistant Administrator
| Assistant Administrator, Office Of Catfish Inspection Programs
| Assistant Administrator, Office Of Field Operations
| Assistant Administrator, Office Of International Affairs
| Assistant Administrator, Office Of Management
| Assistant Administrator, Office Of Policy, Program And Employee Development
| Assistant Administrator, Office Of Program Evaluation Enforcement And Review
| Assistant Administrator, Office Of Public Affairs, Education And Outreach
| Chief Financial Officer
| Chief Information Officer
| Chief Operating Officer
| Deputy Administrator
| Deputy Assistant Administrator, Office Of Field Operations
| Deputy Assistant Administrator, Office Of Food Safety And Emergency
| Deputy Assistant Administrator, Office Of International Affairs
| Deputy Assistant Administrator, Office Of Management
| Deputy Assistant Administrator, Office Of Program Evaluation Enforcement And Review
| Deputy Assistant Administrator, Office Of Public Health Science
| Executive Associate For Laboratory Services, Office Of Public Health Science
| Executive Associate For Policy Analysis And Formulations
| Executive Associate For Public Health
| Executive Associate For Regulatory Operations, Office Of Field Operations
Foreign Agricultural Service | Deputy Administrator, Office Of Scientific And Technical Affairs
| Director, Grain And Feed Division
Forest Service | Associate Deputy Chief For Business Operations
| Associate Deputy Chief, Business Operations/Chief Financial Officer
| Deputy Chief, Business Operations
| Director, Acquisition Management
| Director, Fire And Aviation Staff
| Director, Law Enforcement And Investigations
Grain Inspection, Packers And Stockyards Administration | Director Field Management Division
International Forest System | Director International Institute Of Tropical Forest (Rio Piedras)
Midsouth Area Office | Associate Director, Mid South Area
| Director, Mid-South Area
| Director, Southern Regional Research Center
Midwest Area Office | Associate Director, Midwest Area
| Director, Midwest Area
| Director, National Center For Agriculture Utilization
National Agricultural Statistics Service | Administrator, National Agricultural Statistics Service
| Associate Administrator
| Associate Deputy Administrator (Western United States)
| Associate Deputy Administrator (Eastern United States)
| Deputy Administrator For Field Operations
| Deputy Administrator For Programs And Products
| Director, Census And Survey Division
| Director, Information Technology Division
| Director, Research And Development Division
| Director, Statistics Division
National Finance Center | Deputy Director
| Director, Financial Services Division
| Director, Information Resources Management Division
National Forest System | Director, Ecosystem Management Coordination
| Director, Engineering Staff
| Director, Forest Management Staff
| Director, Lands Management Staff
| Director, Minerals And Geology Management Staff
| Director, Rangeland Management Staff
| Director, Water, Fish, Wasteland, Air And Rare Plants
National Program Staff Office | Associate Administrator, National Programs
| Deputy Administrator For Natural Resources And Sustainable Agriculture Systems
| Deputy Administrator, Crop Production And Protection
Natural Resources Conservation Service | Associate Deputy Chief For Science And Technology
| Deputy Chief For Management
| Deputy Chief For Strategic Planning And Accountability
| Director Ecological Sciences Division
| Director, Animal Husbandry And Clean Water Programs Division
| Director, Conservation Engineering Division
| Director, Conservation Planning And Technical Assistance Division
| Director, Easement Programs Division
| Director, Operations Management And Oversight
| Director, Resource Conservation And Rural Lands Division
| Director, Resource Economics And Social Sciences Division
| Director, Resource Inventory And Assessment Division
| Director, Soil Survey Division
| Financial Manager
| Senior Advisor, Chesapeake Bay Watershed
North Atlantic Area Office | Associate Director, North Atlantic Area
| Director, Eastern Regional Research Center
| Director, North Atlantic Area
Northern Plains Area Office | Associate Director, Northern Plains Area Office
| Director, Northern Plains Area
| Director, United States Meat Animal Research Center
Office Of Operations | Director Office Of Operations
Office Of The Chief Economist | Chairperson
| Director Global Change Program Office
| Director, Office Of Energy Policy And New Uses
| Director, Office Of Risk Assessment And Cost-Benefit Analysis
Office Of The Chief Financial Officer | Associate Chief Financial Officer, Financial Systems Planning And Management
| Deputy Chief Financial Officer
Office Of The Chief Information Officer | Associate Chief Information Officer
| Deputy Chief Information Officer
Office Of The General Counsel | Assistant General Counsel, Legislation, Litigation And General Law
Office Of The Under Secretary For Food Safety Pacific West Area Office | United States Manager For Codex
| Associate Director, Pacific West Area Office
| Director, Pacific West Area Office
| Director, Western Human Nutrition Research Center
| Director, Western Regional Research Center
Plant Protection And Quarantine Service | Director, Eastern Region, Plant Protection And Quarantine
| Director, Plant Health Programs, Plant Protection And Quarantine
| Director, Western Region, Plant Protection And Quarantine
Procurement And Property Management Research | Director, Procurement And Property Management
| Director, Resource Valuation And Use Research Staff
| Director, Science Policy, Planning, And Information Staff
| Director, Vegetation Management And Protection Research Staff
| Director, Wildlife, Fish And Watershed Research Staff
Risk Management Agency | Deputy Administrator For Insurance Services Division
| Deputy Administrator For Research And Development
Rural Housing Service | Administrator, Operations And Management
| Budget Officer
| Chief Financial Officer
| Deputy Administrator For Operations And Management
| Deputy Administrator, Multi-Family Housing
| Director Centralized Servicing Center
South Atlantic Area Office | Associate Director South Atlantic Area
| Director, South Atlantic Area
Southern Plains Area Office | Associate Director, Southern Plains Area
| Director Southern Plains Area
State And Private Forestry | Director Cooperative Forestry
| Director, Forest Health Protection
Veterinary Services | Associate Deputy Administrator, National Animal Health Policy Programs
| Deputy Administrator, Wildlife Services
| Director, Center For Epidemiology And Animal Health
| Director, Eastern Region, Veterinary Services
| Director, Western Region, Veterinary Services
Department Of Agriculture Office Of The Inspector General:
Assistant Inspector General For Audit | Assistant Inspector General For Audit
| Deputy Assistant Inspector General For Audit
Assistant Inspector General For Investigations | Assistant Inspector General For Investigations
| Deputy Assistant Inspector General For Investigations
Assistant Inspector General For Management | Assistant Inspector General For Management
Department Of Agriculture Office Of The Inspector General | Counsel To The Inspector General
| Deputy Inspector General
Department Of Commerce:
Administrative And Customer Services Division | Chief Administrative And Customer Services Division
Administrator For External Affairs | Associate Director, Education And Training
| Deputy Director For Intellectual Property Policy And Enforcement
| Director, Intellectual Property Policy And Enforcement
Advanced Network Technologies Division | Chief Advanced Network Technologies Division
Aeronomy Laboratory | Director, Chemical Science Division
Agriculture And Financial Statistics Division | Chief Company Statistics Division
Air Resources Laboratory | Director Air Resources Laboratory
Alaska Fisheries Science Center | Science And Research Director
Alaska Region | Director, Alaska Region, Anchorage
Analytical Chemistry Division | Chief, Analytical Chemistry Division
Associate Director For Decennial Census | Assistant Director For Decennial Census
| Assistant To The Associate Director For Decennial Census
| Associate Director For Decennial Census
| Chief, American Community Survey Office
Associate Director For Demographic Programs | Associate Director For Demographic Programs
| Chief Demographic Surveys Division
| Chief, Population Division
Associate Director For Economic Programs | Assistant Director For Economic Programs
| Associate Director For Economic Programs
Associate Director For Finance And Administration | Chief, Acquisition Division
Associate Director For Information Technology | Assistant To The Associate Director For Information Technology
| Associate Director For Information Technology
Associate Director For International Economics | Associate Director For International Economics
Associate Director For Methodology And Standards | Chief, Planning, Research, And Evaluation Division
Associate Director For National Income, Expenditure And Wealth Accounts | Associate Director For National Income, Expenditure And Wealth Accounts
| Chief National Income And Wealth Division
| Chief, Computer Systems And Services Division
Associate Director For Regional Economics | Associate Director For Regional Economics
Atlantic Ocean And Meteorology Laboratory | Director, Atlantic Oceanographic And Meteorological
Atomic Physics Division | Chief, Atomic Physics Division
| Chief, Quantum Metrology Division
Board Of Patent Appeals And Interferences | Chief Administrative Patent Judge
| Vice Chief Administrative Patent Judge
Building And Fire Research Laboratory | Chief, Fire Safety Engineering Division
| Deputy Director, Building And Fire Research Laboratory
| Director, Building And Fire Research Laboratory
Building Environment Division | Chief, Building Environment Division
Building Materials Division | Chief, Building Materials Division
Bureau Of Economic Analysis | Associate Director For Industry Accounts
| Chief Information Officer
| Chief, Balance Of Payments Division
Bureau Of Industry And Security | Chief Financial Officer And Director Of Administration
| Director, Office of Enforcement Analysis
Bureau Of The Census | Assistant Director For American Community Survey And Decennial Census
| Assistant Director For Decennial Information Technology And Geographic Systems
| Assistant Director For Marketing And Customer Liaison
| Associate Director For Administration And Chief Financial Officer
| Associate Director For Information Technology And Chief Information Officer
| Associate Director For Strategic Planning And Innovation
| Chief Technology Officer
| Chief, Budget Division
| Chief, Center For Economic Studies And Chief Economist
| Chief, Field Division
| Chief, Human Resources Division
| Comptroller
| Policy Advisor To The Associate Director For Economic Programs
| Senior Advisor For Project Management
Central Region | Director Central Region
Ceramics Division | Chief, Ceramics Division
| Deputy Director, Materials Science And Engineering Laboratory
Chemical Science And Technology Laboratory Office | Chief Process Measurements Division
| Deputy Director, Chemical Scientist And Technology Laboratory
| Director, Chemical Science And Technology Laboratory
Climate Monitoring And Diagnostics Laboratory | Director, Global Monitoring Division
Climate Prediction Center | Director, Climate Prediction Center
Coastal Monitoring And Bioeffects Assessment Division | Chief Coastal Monitoring Bioeffects Assessment Division
Computer Systems Laboratory Office | Associate Director For Program Implementation
Computing And Applied Mathematics Laboratory Office | Associate Director For Computing
| Chief High Performance Systems And Services Division
Data Preparation Division | Chief National Processing Center
Decennial Management Division | Chief Decennial Management Division
Decennial Statistical Studies Division | Chief, Decennial Statistical Studies Division
Demographic Statistical Methods Division | Chief, Demographic Statistical Methods Division
Department Of Commerce | Deputy Assistant Inspector General For Auditing
| Deputy Chief Financial Officer/Deputy Chief Administrative Officer
Deputy Assistant Secretary For Agreement Compliance | Associate Director For Management
Deputy Assistant Secretary For Market Access And Compliance | Director Trade Compliance Center
Director For Executive Budgeting And Assistance Management | Director For Federal Assistant And Management Support
Director For Financial Management | Director For Financial Management And Deputy Chief Financial Officer
Director For Human Resources Management | Deputy Director Of Human Resources Management
| Director For Human Resources Management
Director National Polar-Orbiting Operational Environmental Satellite System Integrated Program | Systems Program Director
Directors Office, Advanced Technology Program | Associate Director For Policy And Operations
| Deputy Director, Advanced Technology Program
| Director Information Technology Laboratory
| Director, Electronics And Photonics Technology Office
| Director, Materials And Manufacturing Technology Office
Directors Office, Technology Innovation | Director, Office Of Technology Evaluation And Assessment
Eastern Region | Director Eastern Region National Weather Service
Economic Development Administration | Chief Financial Officer/Director Of Administration
Economic Planning And Coordination Division | Chief, Economic Planning And Coordination Division
Economic Statistical Methods And Programming Division | Chief, Economic Statistical Methods And Programming Division
Economics And Statistics Administration | Chief Financial Officer And Director For Administration
| Deputy Director, Office Of Policy Development
| Director, Statistics—United States Of America
Electron And Optical Physics Division | Chief Electron And Optical Physics Division
Electronics And Electrical Engineering Laboratory | Chief Optoelectronics Division
| Deputy Director, Electronics And Electrical Engineering Laboratory
| Director, Electronics And Electrical Engineering Laboratory
| Director, Office Of Microelectronics Programs
Environmental Technology Laboratory | Director, Physical Science Division
Examining Group Directors | Group Director
Field Systems Operations Center | Director, Field Systems Operations Center
Fire Science Division | Chief, Fire Science Division
Forecast Systems Laboratory | Director, Global Systems Division
Foreign Trade Division | Chief, Foreign Trade Division
Geography Division | Chief, Geography Division
Geophysical Fluid Dynamics Laboratory | Director, Office Of Geophysical Fluid Dynamics Laboratory
Governments Division | Chief, Governments Division
Great Lake Environmental Research Laboratory | Director, Office Of Great Lakes Environmental Research Laboratory
Hazardous Materials Response And Assessment Division | Director, Office Of Response And Restoration
Housing And Household Economic Statistics Division | Chief, Housing And Household Economics Statistics Division
Hydrology Laboratory | Chief, Hydrology Laboratory
Hydrometeorological Prediction Center | Chief, Meteorological Operations Division
Information Technology Laboratory | Deputy Director, Information Technology Laboratory
| Director, Information Technology Laboratory
Institute For Telecommunication Sciences | Associate Administrator For Telecommunications Science
Institute For Telecommunication Sciences, Systems And Networks Division | Deputy Director For Systems And Networks
Intelligent Systems Division | Chief, Intelligent Systems Division
International Trade Administration | Director, Office Of Environmental Technologies Industries
| Executive Director For Antidumping And Countervailing Duty Operations
| Senior Director, China/Non-Market Economy Compliance Unit
Maintenance, Logistics, And Acquisition Division | Chief, Operations Division
Manufacturing And Construction Division | Chief, Manufacturing And Construction Division
Manufacturing Engineering Laboratory | Chief, Office Of Manufacturing Programs
| Deputy Director, Manufacturing Engineering Laboratory
Manufacturing Extension Partner Ship Program | Associate Director For National Programs
| Deputy Director, Manufacturing Extension Partnership Program
| Director, Manufacturing Extension Partnership Programs
Market Access And Compliance | Director, Office Of China Economic Area
| Director, Office Of Multilateral Affairs
Materials Reliability Division | Chief Materials Reliability Division
Materials Science And Engineering Laboratory Office | Director, Materials Scientist And Engineering Laboratory
Meteorological Development Laboratory | Director, Meteorological Development Laboratory
National Centers For Environmental Prediction | Director National Center For Environmental Prediction
| Director National Severe Storms Laboratory
| Director, Aviation Weather Center
| Director, Environmental Modeling Center
National Centers For Environmental Prediction Central Operations | Director, Central Operations
National Climatic Data Center | Director, National Climatic Data Center
National Data Buoy Center | Director, National Data Buoy Center
National Geophysical Data Center | Director, National Geophysical Data Center
National Institute Of Standards And Technology | Boulder Laboratories Site Manager
| Chief Cybersecurity Advisor
| Chief Facilities Management Officer
| Chief Of Staff For National Institute For Standards And Technology
| Chief Scientist
| Chief, Human Capital Officer For National Institute Of Standards And Technology
| Chief, Optical Technology Division
| Deputy Director, Center For Nanoscale Science And Technology
| Deputy Director, National Institute Of Standards And Technology Center For Neutron Research
| Director, Center For Nanoscale Science And Technology
| Director, Impact Analysis Office
| Director, Information Technology And Applications Office
| Director, Manufacturing Engineering Laboratory
| Director, National Institute Of Standards And Technology Center For Neutron Research
| Director, Office Of Law Enforcement Standards
| Director, Technology Innovation Program
| Executive Director For Business Services And Deputy Chief Financial Officer
| National Coordinator For Smart Grid Interoperability
| Program Manager, Coordinated National Security Standards Program
| Special Assistant For Environment, Safety And Health
| Special Assistant For International Metrology
National Marine Fisheries Service | Deputy Assistant Administrator For Regulatory Programs
| Director For Habitat Conservation
| Director Office Of Sustainable Fisheries
| Director Seafood Inspection Program
| Director, International Affairs
| Science And Research Director Southwest Region
| Science And Research Director, Pacific Island Region
| Senior Advisor For Intergovernmental Programs
National Ocean Service | Associate Assistant Administrator For Management And Chief Financial Officer/Chief Administrative Officer
| Deputy Director, National Centers For Coastal Ocean Science
| Director, National Centers For Coastal Ocean Science And Scientist For National Ocean Service
| Director, Office Of National Geodetic Survey
| Technical Director
National Oceanic And Atmospheric Administration | Chief Administrative Officer
| Chief Financial Officer
| Chief Financial Officer/Chief Administrator Officer
| Chief Information Officer And Director For High Performance Computing And Communications
| Chief Information Officer For Nesdis
| Deputy Assistant Administrator For Systems
| Deputy Chief Administrative Officer
| Deputy Chief Information Officer
| Deputy Director For Workforce Management
| Deputy Director, Acquisition And Grants Office
| Deputy Director, Office Of Marine And Aviation Operations
| Director For International Oceans Programs
| Director Staff Office For International Programs
| Director, Acquisition And Grants Office
| Director, Integrated Ocean Observing System
| Director, Ocean Prediction Center
| Director, Office Of Education
| Director, Office Of Ocean Exploration And Research
| Director, Office Of Operations, Management And Information
| Director, Space Environment Center
| Program Executive Officer, National Polar-Orbiting Operational Environmental Satellite System
| System Program Director, National Polar-Orbiting Operational Environmental Satellite System
National Oceanic And Atmospheric Administration Coastal Ocean Program Office | Director, Budget Office
National Oceanic And Atmospheric Administration Coastal Services Center | Director, National Centers For Coastal Ocean Science
National Oceanographic Data Center | Director, National Oceanographic Data Center
National Sea Grant College Program | Director, National Sea Grant College Program
National Technical Information Service | Deputy Director, National Technical Information Service
Northeast Fisheries Science Center | Science And Research Director Northeast Region
Northwest Fisheries Science Center | Science And Research Director, Northwest Region
Office—Federal Coordinator—Meteorology | Director, Office Of The Federal Coordinator For Meteorology
Office Assistant Director For Financial And Administrative Management | Associate Director For Finance And Administration
Office Of Assistant Administrator For Fisheries | Director, Office Of Management And Budget
Office Of Assistant Administrator Satellite, Data Information Service | Chief Financial Officer/Chief Administrative Officer
| Senior Scientist For Environmental Satellite, Data And Information Services (National Environmental Satellite, Data And Information Services)
| System Program Director For Goes-R Program
Office Of Assistant Administrator, Ocean And Atmospheric Research | Chief Financial Officer/Chief Administrative Officer
| Deputy Assistant Administrator For Extramural Research
| Deputy Assistant Administrator, Laboratories And Cooperative Institutes And Director
| Director, Climate Program Office
| Program Director For Weather Research
Office Of Audits | Assistant Inspector General For Auditing
Office Of Budget Management And Information And Chief Information Officer | Director, Office Of Budget
Office Of Climate, Water, And Weather Services | Chief, Meteorological Services Division
| Director, Office Of Climate, Water, And Weather Services
Office Of Consumer Goods | Director Office Of Consumer Goods
Office Of Counsel To The Inspector General | Counsel To The Inspector General
Office Of Finance And Administration | Director For Workforce Management
| Director, Budget Office
| Director, Finance Office/Comptroller
| Director, Real Property, Facilities And Logistics Office
Office Of Fisheries Conservation And Management | Director, Office Of Enforcement
| Director, Scientific Programs And Chief Science Advisor
Office Of High Performance Computing And Communications | Director For High Performance Computing And Communications
Office Of Hydrologic Development | Director, Office Of Hydrologic Development
Office Of Inspections And Program Evaluation | Assistant Inspector General For Inspections And Program Evaluation
Office Of Inspector General | Assistant Inspector General For Administration
| Assistant Inspector General For Systems Evaluation
Office Of International Affairs | Chief Financial Officer/Administrator Officer
Office Of International And Academic Affairs | Chief Financial Officer
| Director International And Academic Affairs
Office Of Investigations | Assistant Inspector General For Investigations
Office Of Oceanic Research Programs | Director, Atlantic Oceanographic And Meteorological Laboratory
Office Of Operational Systems | Director, Office Of Operational Systems
Office Of Policy Development | Senior Executive For Research
Office Of Protected Resources | Director Office Of Science And Technology
Office Of Quality Programs | Deputy Director, Office Of Quality Programs
| Director For Quality Programs
Office Of Science And Technology | Chief, Programs And Plans Division
| Director, Office Of Science And Technology
Office Of Security And Administrative Services | Deputy Director For Security
| Director, Office Of Security
Office Of Systems Development | Director Office Of Systems Development
| Director, Requirements, Planning And System Integration Division
| Director, Satellite And Ground Systems Program
Office Of The Assistant Administrator For Weather Services | Director Office Of Aeronautical Charting\Cartography
| Director, Strategic Planning And Policy Office
| Senior Advisor
Office Of The Assistant Secretary For Administration | Deputy Assistant Secretary And Director For Security
| Deputy Director For Acquisition Management
| Director For Technology Management
| Director, Office Of Security
Office Of The Assistant Secretary For Economic Development | Chief Financial Officer/Chief Administrative Officer (Chief Financial Officer/Chief Administrative Officer)
Office Of The Assistant Secretary For Export Enforcement | Deputy Assistant Secretary For Export Enforcement
| Director Office Of Export Enforcement
Office Of The Chief Administrative Officer | Director, Human Capital Management
Office Of The Chief Financial Officer | Chief Financial Officer
| Deputy Chief Financial Officer
Office Of The Chief Financial Officer And Assistant Secretary For Administration | Deputy Chief Information Officer
| Deputy Director For Administrative Services
| Deputy Director For Financial Management
| Deputy Director, Office Of Budget
| Director For Administrative Services
| Director For Y2k Outreach
| Director, Human Resources Operations Center
| Director, Office Of Acquisition Management
Office Of The Chief Information Officer | Chief Information Officer For Weather Service
| Chief Technology Officer
| Special Assistant For Program Management
Office Of The Commissioner For Patents | Administrator, Search And Information Resources Administration
| Deputy Commissioner For Patent Operations
| Director, Office Of Patent Training
Office Of The Commissioner For Trademarks | Deputy Commissioner For Trademark Examination Policy
| Deputy Commissioner For Trademark Operations
| Group Director, Trademark Law Offices
Office Of The Director | Associate Director For Field Operations
| Associate Director For Management And Chief Administrative Officer
| Chief Decennial Systems And Contracts Management Office
| Chief Economist
| Chief Statistician
| Chief, Policy And Strategic Planning Division
| Deputy Director, Bureau Of Economic Analysis
| Director, Bureau Of Economic Analysis
| Principal Associate Director For Programs
| Special Advisor To The Deputy Director
Office Of The Director For Technology Services | Deputy Director, Technology Services
Office Of The Director Of Administration | Human Resources Manager
Office Of The Director, National Institute Of Standards And Technology | Chief Financial Officer For Nist
| Chief Information Officer For National Institute Of Standards And Technology
| Deputy Director For Safety And Facilities
| Director For Administration And Chief Financial Officer
| Director, Boulder Laboratories
| Executive Director, Visiting Committee On Advanced Technology Program
Office Of The General Counsel | Assistant General Counsel For Finance And Litigation
| Chief, Ethics Division
| Deputy General Counsel For Intellectual Property Law And Solicitor
| Director, Office Of Executive Support
Office Of The Inspector General | Deputy Assistant Inspector General For Economic And Statistical Program Assessment
Office Of The Secretary | Director, Office Information Technology Security, Infrastructure And Technology
| Director, Office Of Information Technology Policy, And Planning
Office Of The Under Secretary | Chief, Financial Officer And Director Of Administration
Pacific Marine Environmental Research Laboratory | Director, Office Of Pacific Marine Environmental Laboratory
Patent And Trademark Office | Associate Commissioner For Patent Recourses And Planning
Physical And Chemical Properties Division | Chief, Physical And Chemical Properties Division
Physics Laboratory Office | Deputy Director, Physics Laboratory
| Director, Physics Laboratory
| Manager, Fundamental Constants Data Center
Precision Engineering Division | Chief, Precision Engineering Division
Program Office | Deputy Director, Information Technology Laboratory
| Director, Program Office
Quantum Physics Division | Chief, Quantum Physics Division
| Senior Scientist And Fellow Of Joint Institute For Laboratory Astrophysics
Radar Operations Center | Director, Radar Operations Center
Reactor Radiation Division | Chief, National Institute Of Standards And Technology Center For Neutron Research
| Chief, Reactor Operations And Engineering
Services Division | Chief Service Sector Statistics Division
Southeast Fisheries Science Center | Science And Research Director, Southeast Region
Southern Region | Director, Southern Region
Statistical Research Division | Chief Statistical Research Division
Storm Prediction Center | Director, Storm Prediction Center
Strategic Environmental Assessments Division | Chief, Strategic Environmental Assessments Division
Systems Acquisition Office | Chief Information Officer And Information Technology Acquisition Manager
Systems Engineering Center | Director, Systems Engineering Center
Telecommunications Operations Center | Chief, Telecommunications Operations Center
Time And Frequency Division | Chief, Time And Frequency Division
Trademark Trial And Appeal Board | Chairman, Trademark Trial And Appeal Board
Tropical Prediction Center | Director Tropical Prediction Center/National Hurricane Center
Western Region | Director, Western Region
Department Of Commerce Office Of The Inspector General:
Immediate Office | Deputy Inspector General
Office Of Audit | Assistant Inspector General For Audit
Office Of Audit And Evaluation | Principal Assistant Inspector General For Audit And Evaluation
Office Of Counsel | Counsel To The Inspector General
Office Of Economic And Statistical Program Assessment | Assistant Inspector General For Economic And Statistical Program Assessment
Office Of Investigations | Assistant Inspector General For Investigations
Office Of Program Assessment | Deputy Assistant Inspector General For Program Assessment
Office Of Systems Acquisitions And It Security | Assistant Inspector General For Systems Acquisitions And It Security
Department Of Education:
Federal Student Aid | Chief Financial Officer
Institute Of Education Sciences | Associate Commissioner For Assessment
Office Of Management | Chairperson, Education Appeal Board
| Director, Human Resources Services
Office Of The Chief Financial Officer | Deputy Chief Financial Officer
| Director, Contracts And Acquisitions Management
| Director, Financial Improvement And Post Audit Operations
| Executive Assistant To The Chief Financial Officer
| Senior Procurement Executive
Office Of The Chief Information Officer | Chief Information Officer
Office Of The General Counsel | Assistant General Counsel For Business And Administration Law
| Assistant General Counsel For Educational Equity
| Assistant General Counsel For Postsecondary Education And Education Research Division
Department Of Education Office Of The Inspector General:
Office Of The Inspector General | Assistant Inspector General For Audit Services
| Assistant Inspector General For Evaluation, Inspection And Management Services
| Assistant Inspector General For Information Technology Audits And Computer Crime Investigations
| Assistant Inspector General For Investigative Services
| Counsel To The Inspector General
| Deputy Assistant Inspector General For Audit Services
| Deputy Inspector General
Department Of Energy:
Albuquerque Operations Office | Assistant Manager For Management And Administration
| Carlsbad Area Office Manager
| Director Transportation Safeguards Division
| Director, Weapons Programs Division
Assistant Secretary For Energy Efficiency And Renewable Energy | Director, Regional Office And Deployment Operations
| Manager, Golden Field Office
| Program Manager
Assistant Secretary For Environment, Safety And Health | Director Office Of Nuclear Safety, Policy And Standards
| Director Office Of Regulatory Liaison
Chicago Operations Office | Assistant Manager, Acquisition And Assistance
| Deputy Manager, Chicago Office
| Director, New Brunswick Laboratory
Department Of Energy | Assistant Manager For Science
| Associate Chief Information Officer For Operations
Deputy Administrator For Defense Nuclear Nonproliferation | Director, Office Of International Cooperation
Deputy Administrator For Defense Programs | Deputy For Site Operations Support
| Deputy Manager, Pantex Site Office
| Deputy Manager, Technical Programs
| Director, Office Of Stockpile Assessments And Certification
| Manager, Livermore Site Office
| Manager, Nevada Site Office
| Manager, Sandia Site Office
| Manager, Savannah River Site Office
| Senior Advisor For Complex 2030 Implementation
Deputy Administrator For Naval Reactors | Chief Information Officer
| Deputy Director For Naval Reactors
| Deputy Director, Nuclear Technology Division
| Director Advanced Submarine Systems Division
| Director For Submarine Refueling
| Director Reactor Engineering Division
| Director Regulatory Affairs
| Director, Instrumentation And Control Division
| Manager, Naval Reactors Laboratory Field Office
| Program Manager For Surface Ship Nuclear Propulsion
| Program Manager Prototype And Moored Training Ship Operations/Inactivation Programs
| Senior Naval Reactors Representative
| Senior Naval Reactors Representative (Pearl Harbor)
| Senior Naval Reactors Representative (Puget Sound Naval Ship
| Senior Naval Reactors Representative (Yokosuka, Japan)
Energy Information Administration | Director, Coal And Electric Power Division
| Director, Coal, Nuclear And Renewables Division
| Director, Electrical Power Division
| Director, Energy Markets And Contingency Information Division
| Director, Natural Gas Division
| Director, Office Of Integration Analysis And Forecasting
| Director, Office Of Oil And Gas
| Director, Petroleum Division
Environmental Management Consolidated Business Center | Deputy Manager
Idaho Operations Office | Chief Financial Officer/Chief Operating Officer
National Nuclear Security Administration | Chief Of Defense Nuclear Counterintelligence
| Deputy Chief Information Officer For Information Technology
| Director Of Congressional Intergovernmental And Public Affairs
National Nuclear Security Administration Field Site Offices | Chief Counsel
National Nuclear Security Administration Service Center | Director, Office Of Field Financial Management
Oak Ridge Operations Office | Assistant Manager For Administration
| Chief Financial Officer
Oakland Operations Office | Associate Manager For Site Management
Office Of Electricity Delivery And Energy Reliability | Director, Office Of Energy Assurance
Office Of Environmental Management | Director, Office Of Safeguard And Security/Emergency Management
| Science Advisor
Office Of Fossil Energy | Director, Materials Partnerships Research Center
Office Of General Counsel | Assistant General Counsel For General Law
Office Of Hearings And Appeals | Deputy Director For Economic Analysis
| Deputy Director For Financial Analysis
| Deputy Director For Legal Analysis
| Director Hearings Appeals
Office Of Human Capital Management | Director, Office Of Headquarters And Executive Human Resources
| Director, Office Of Headquarters And Executive Personnel Services
Office Of Independent Oversight And Performance Assurance | Director, Office Of Security Oversight
Office Of Infrastructure And Environment | Director, Office Of Infrastructure And Environment
Office Of Inspector General | Assistant Inspector General For Financial, Technology And Corporate Audits
| Assistant Inspector General For Inspections And Special Inquiries
| Assistant Inspector General For Investigations
| Assistant Inspector General For Performance Audits
| Assistant Inspector General For Resource Management
| Counsel To The Inspector General
| Deputy Assistant Inspector General For Audit Services
| Deputy Inspector General For Audit Services
| Deputy Inspector General For Inspections
| Deputy Inspector General For Investigations And Inspections
| Director, Energy Audits Division
| Director, Energy, Science And Environmental Audits Division
| Director, National Nuclear Security Administration Audits Division
| Manager, Capital Regional Audit Office
| Principal Deputy Inspector General
Office Of Management | Deputy Director, Office Of Management, Budget And Evaluation/Deputy Chief Finance Officer
| Director, Office Of Administration
Office Of Management And Administration | Director, Diskless Workstation Task Force Office
| Director, Office Of Acquisition And Supply Management
| Director, Office Of Human Capital Management Programs
Office Of Nuclear Energy, Science And Technology | Associate Director For Nuclear Facilities Management
| Director Office Of Light Water Reactor Deployment
Office Of Safeguards And Security Evaluations | Deputy Director, Office Of Independent Oversight And Performance
Office Of Science | Associate Director, Office Of Resource Management
| Director High Energy Physics Division
| Director, Facilities Division
| Director, Financial Management Division
| Director, Health Effects And Life Scientist Research Division
| Site Office Manager, Fermi
Office Of Security | Deputy Director, Office Of Security Affairs
Office Of Security And Safety Performance Assurance | Deputy Director, Office Of Headquarters Security Operations
| Director, Office Of Headquarters Security Operations
| Director, Office Of Independent Oversight And Performance
| Director, Office Of Safeguards And Security Evaluations
| Director, Office Of Safeguards And Security Training
| Director, Office Of Security And Safety Performance
Office Of The Chief Financial Officer | Deputy Chief Financial Officer
| Director Office Of Budget
| Director, Financial Policy
Ohio Field Office | Deputy Manager, Ohio Field Office
| Manager Ohio Field Office
Rocky Flats Office | Assistant Manager For Administration And Transition
Western Area Power Administration | Chief Financial Officer
| Chief Operating Officer
| Transmission Infrastructure Program Manager
Department Of Energy Office Of The Inspector General: | Assistant Inspector General For Financial, Technology And Corporate Audits
| Assistant Inspector General For Inspections
| Assistant Inspector General For Investigations
| Assistant Inspector General For Performance Audits
| Assistant Inspector General For Resource Management
| Counsel To The Inspector General
| Deputy Inspector General For Audit Services
| Deputy Inspector General For Investigations And Inspections
| Director, Energy Audits Division
| Director, National Nuclear Security Administration Audits Division
| Director, Science And Environmental Audits Division
| Principal Deputy Inspector General
Department Of Health And Human Services:
Agency For Healthcare Research And Quality | Executive Officer
Associate General Counsel Divisions | Associate General Counsel, General Law Division
| Deputy Associate General Counsel For Claims And Employment Law
| Deputy Associate General Counsel, Business And Administrative Law Division
Center For Biologics Evaluation And Research | Associate Director For Compliance And Biologic Quality
| Director, Office Of Compliance And Biologics Quality
Center For Devices And Radiological Health | Director Office Of Compliance
| Director Office Of System And Management
| Director, Office Of Device Evaluation
| Director, Office Of Science And Technology
Center For Drug Evaluation And Research | Director, Division Of Medical Imaging Surgical And Dental Products
| Director, Office Of Compliance
| Director, Office Of Epidemiology And Biostatistics
| Director, Office Of Generic Drugs
| Director, Office Of Management
| Director, Office Of New Drug Quality Assessment
| Senior Advisor For Policy
Center For Food Safety And Applied Nutrition | Director Office Of Field Programs
| Director Office Of Premarket Approval
| Director, Office Of Plant And Dairy Foods And Beverages
| Director, Office Of Regulations And Policy
| Director, Office Of Seafood
Center For Information Technology | Associate Director Office Of Computing Resources Services
| Chief, Computer Center Branch
| Deputy Director
| Director, Division Of Computer System Services
| Senior Advisor To Director, Center For Information Technology
Center For Medicaid And State Operations | Director, Medicaid Integrity Group
Center For Medicare Management | Director, Medicare Contractor Management Group
Center For Mental Health Services | Director Center For Mental Health Services
| Director Division Of State And Community Systems Development
Center For Scientific Review | Associate Director For Referral And Review
| Associate Director For Statistics And Analysis
| Director, Division Of Biologic Basis Of Disease
| Director, Division Of Clinical And Population-Based Studies
| Director, Division Of Molecular And Cellular Mechanisms
| Director, Division Of Physiological Systems
| Senior Scientific Advisor
Center For Veterinary Medicine | Director, Office Of Science
| Director, Office Of Surveillance And Compliance
Centers For Disease Control And Prevention | Chief Financial Officer
| Chief Learning Officer
| Chief Management Officer, Coordinating Office For Terrorism Preparedness And Emergency Response
| Chief Management Officer, Information Resources Management Office
| Chief Management Officer, Office Of Terrorism Preparedness And Emergency Response
| Chief Management Officer, Office Of The Director
| Chief Policy Officer
| Director, Buildings And Facilities Office
| Director, Financial Management Office
| Director, Information Technology Services Office
| Director, Procurement And Grants Office
| Issues Analysis And Coordination Officer
Coordinating Center For Environmental Health, Injury Prevention, And Occupational Health | Chief Management Officer, Coordinating Center For Environmental Health, Injury Prevention, And Occupational Health
Coordinating Center For Health Information And Service | Chief Management Officer, Coordinating Center For Health Information And Services
Coordinating Center For Health Promotion | Chief Management Officer, Coordinating Center For Health Promotion
Coordinating Center For Infectious Diseases | Chief Management Officer, Coordinating Center For Infectious Diseases
Division Of Cancer Biology, Diagnosis And Centers | Associate Director, Centers Training And Resources Program
| Associate Director, Extramural Research Program
| Chief Dermatology Branch, Intramural Research Program
| Chief, Cell Mediated Immunity Section
| Chief, Laboratory Of Biochememistry Intramural Research Program
| Chief, Laboratory Of Tumor And Biological Immunology, Intramural Research Programs
| Chief, Microbial Genetics And Biochemistry Section, Laboratory Of Biochemistry
| Deputy Director, Division Of Cancer Biology Diagnosis And Centers
| Director, Division Of Cancer Biology Diagnosis And Centers
Division Of Cancer Etiology | Chief Laboratory Of Biology
| Chief Laboratory Of Experimental Pathology
| Chief Laboratory Of Molecular Carcinogenesis
| Director, Division Of Cancer Etiology
Division Of Cancer Prevention And Control | Associate Director, Early Development And Concology Program
| Associate Director, Surveillance Research Program
| Deputy Director, Division Of Cancer Prevention And Control
Division Of Cancer Treatment | Associate Director, Cancer Therapy Evaluation Program
| Chief-Radiation Concology Branch
Division Of Extramural Activities | Deputy Director, Division Of Extramural Activities
| Director, Division Of Extramural Activities
HIV/AIDS Bureau | Director, Office Of Science And Epidemiology
Indian Health Service | Director Office Of Environmental Health And Engineering
Intramural Research | Chief Brain Structural Plasticity Section
| Chief Laboratory Of Biochemical Genetics
| Chief Laboratory Of Biochemistry
| Chief Laboratory Of Biochemistry And Metabolism
| Chief Laboratory Of Biophysical Chemistry
| Chief Laboratory Of Cardiac Energetics
| Chief Laboratory Of Central Nervous System Studies
| Chief Macromolecules Section
| Chief Oxidation Mechanisms Section Laboratory Of Bioorganic Biochemistry
| Chief Section On Biochemical Mechanisms
| Chief Section On Metabolic Enzymes
| Chief Section On Physical Chemistry
| Chief Stroke Branch
| Chief Theoretical Biophysics Section
| Chief, Development And Metabolic Neurology Branch
| Chief, Intermediary Metabolism And Bioenergetics Section
| Chief, Laboratory Of Bio-Organic Chemistry
| Chief, Laboratory Of Kidney And Electrolyte Metabolism
| Chief, Laboratory Of Medicinal Chemistry
| Chief, Laboratory Of Neura Control
| Chief, Laboratory Of Neuroscience, National Institute Of Diabetes And Digestive And Kidney Diseases
| Chief, Laboratory Of Neurobiology
| Chief, Metabolic Regulation Section
| Chief, Morphogenesis Section
| Chief, Neuroimaging Branch
| Chief, Section Carbohydrates Laboratory Of Chemistry/National Institute Of Diabetes And Digestive And Kidney Diseases
| Chief, Section On Molecular Biophysics
| Chief, Section On Molecular Structure
| Clinical Director And Chief, Kidney Disease Section
| Deputy Chief, Laboratory Of Central Nervous System Studies
John E Fogarty International Center | Associate Director For International Advanced Studies
| Deputy Director Fogarty International Center
National Cancer Institute | Associate Director For Budget And Financial Management
| Associate Director For Extramural Management
| Associate Director For Intramural Management
| Associate Director, Cancer Diagnosis Program
| Associate Director, Referral Review And Program Coordination
| Deputy Director For Administrative Operations
| Deputy Director For Management
National Center For Chronic Disease Prevention And Health Promotion | Director, Division Of Adult And Community Health
| Director, Office On Smoking And Health
National Center For Research Resources | Associate Director For Biomedical Technology
| Associate Director For Comparative Medicine
| Associate Director For Research Infrastructure
| Deputy Director, National Center For Research Resources
| Director, General Clinical Research Center For Research Resources
| Director, National Center For Research Resources
National Eye Institute | Chief Laboratory Of Retinal Cell And Molecular Biology
| Chief, Laboratory Of Molecular And Development Biology
| Chief, Laboratory Of Sensorimotor Research
National Heart, Lung And Blood Institute | Associate Director For International Programs
| Deputy Director Division Of Epidemiology And Clinical Application
| Deputy Director Division Of Heart Vascular Diseases
| Director Office Of Biostatics Research
| Director, Division Of Blood Diseases And Resources
| Director, Division Of Extramural Affairs
| Director, Division Of Heart And Vascular Diseases
| Director, Division Of Lung Diseases
| Director, Epidemiology And Biometry Program
| Director, National Center For Sleep Disorders
National Human Genome Research Institute | Associate Director For Management
| Chief Diagnosis Development Branch National Center Human Genome Research Institute
| Chief, Laboratory Of Genetic Disease Research National Center For Human Genome Research Institute
| Deputy Director
| Director Division Of Intramural Research National Center Human Genome Research
| Director, Office Of Population Genomics
National Institute For Occupational Safety And Health | Deputy Director For Management
National Institute Of Arthritis And Musculoskeletal And Skin Diseases | Associate Director For Management And Operations
| Deputy Director
| Director, Extramural Program
National Institute Of Dental And Craniofacial Research | Associate Director For International Health
| Associate Director For Management
| Associate Director For Program Development
| Chief, Laboratory Of Immunology
| Director, Extramural Program
National Institute Of Diabetes And Digestive And Kidney Diseases | Associate Director For Management
| Chief, Laboratory Of Molecular And Cellular Biology
| Deputy Director For Management And Operations
| Director Division Of Extramural Activities
| Director, Division Kidney Urologic And Hematological Diseases
National Institute Of Mental Health | Associate Director For Prevention
| Associate Director For Special Populations
| Chief, Biological Psychiatry Branch
| Chief, Child Psychiatry Branch
| Chief, Laboratory Of Clinical Science
| Chief, Neuropsychiatry Branch
| Chief, Section On Clinical And Experimental Neurophysiology
| Chief, Section On Cognitive Neuroscience
| Chief, Section On Histopharmacology
| Deputy Director, National Institute Of Mental Health
| Director, Division Of Mental Disorders, Behavioral Research And Acquired Immunodeficiency Syndrome
| Director, Division Of Neuroscience And Behavioral Scientist
| Director, Division Of Services And Intervention Research
| Director, Office Of Legislative Analysis And Coordinator
| Director, Office On Acquired Immunodeficiency Syndrome
| Executive Officer, National Institute Of Mental Health
National Institute Of Nursing Research | Deputy Director/Director, Division Of Extramural Activities
| Director National Center For Nursing Research
National Institute On Aging | Associate Director Biology Of Aging Program
| Associate Director, Epidemiology, Demography, And Biometry Program
| Associate Director, Office Of Planning, Analysis And International Activities
| Clinical Director And Chief Clinical Physiology Branch
| Director Of Behavioral And Social Research Program
| Director Of Management
| Director Of Neuroscience And Neuropsychology Of Aging Program
| Director Of Office Of Extramural Affairs
| Scientific Director Gerontology Research Center
National Institute On Alcohol Abuse And Alcoholism | Associate Director For Administration
| Director, Division Of Basic Research
National Institute On Drug Abuse | Associate Director For Clinical Neuroscience And Medical Affairs, Division Of Treatment Research And Development
| Associate Director For Management And Operations
| Chief, Neuroscience Research Branch
| Director Division Of Clinical Research
| Director, Medications Development Division
| Director, Office Of Extramural Program Review
| Senior Advisor And Counselor For Special Initiatives
National Institutes Of Allergy And Infectious Diseases | Chief Laboratory Of Molecular Microbiology
| Chief, Biological Resources Branch
| Chief, Laboratory Of Immunogenetics
| Chief, Laboratory Of Infectious Diseases
| Chief, Laboratory Of Malaria Research
| Chief, Laboratory Of Microbial Structure And Function
| Chief, Laboratory Of Parasitic Diseases
| Deputy Chief Laboratory Of Immunology And Head Lymphocyte Biology Section
| Deputy Director Division Of Acquired Immunodeficiency
| Director Division Of Intramural Research
| Director, Division Acquired Immunodeficiency Syndrome
| Director, Division Of Allergy/Immunology/Transplantation
| Director, Division Of Microbiology/Infectious Diseases
| Director, Division Of Extramural Activities
| Director, Office If Communications And Government Relations
| Head Epidemiology Section
| Head, Lymphocyte Biology Section
National Institutes Of Child Health And Human Development | Associate Director For Administration
| Associate Director For Prevention Research
| Chief Laboratory Of Mammalian Genes And Development
| Chief Section Neuroendocrinology
| Chief Section On Microbial Genetics
| Chief, Endocrinology And Reproduction Research Branch
| Chief, Laboratory Of Comparative Ethnology
| Chief, Laboratory Of Molecular Genetics
| Chief, Section On Growth Factors
| Chief, Section On Molecular Endocrinology
| Director Center For Population Research
| Director Center For Research For Mothers And Children
| Director, National Center For Medical Rehabilitation Research
National Institutes Of Environmental Health Sciences | Associate Director For Management
| Chief Laboratory Of Molecular Carcinogenesis
| Chief Laboratory Of Pulmonary Pathobiology
| Director Environmental Toxicology Program
| Director National Institute Of Environmental Health Science
| Head Mammalian Mutagenesis Section
| Head Mutagenesis Section
| Senior Scientific Advisor
National Institutes Of General Medical Sciences | Associate Director For Administration And Operations
| Associate Director For Extramural Activities
| Deputy Director National Institute Of General Medical Sciences
| Director Biophysics Physiological Sciences Program Branch
| Director Genetics Program
| Director, Division Of Pharmacology, Physiology, And Biological Chemistry
| Director, Minority Opportunities In Research Program Branch
National Institutes Of Health | Associate Director For Administrative Management
| Associate Director For Management
| Director
National Institutes Of Health Clinical Center | Associate Chief, Positron Emission Tomography And Radiochemistry
| Associate Director For Planning
| Chief Financial Officer
| Chief Operating Officer
| Deputy Director For Management And Operations
National Institutes Of Neurological Disorders And Stroke | Associate Director For Administration
| Chief, Laboratory Of Molecular And Cellular Neurobiology
| Director, Basic Neuroscientist Program/Chief/Laboratory Of Neurochemist
| Director, Division Of Fundamental Neurosciences
National Institutes On Deafness And Other Communication Disorders | Associate Director For Administration
| Chief Laboratory Of Cellular Biology
| Director, Division Of Extramural Research
| Director, Division Of Human Communication
National Library Of Medicine | Associate Director For Administrative Management
| Associate Director For Extramural Programs
| Associate Director For Health And Information Programs Development
| Associate Director For Library Operations
| Deputy Director For Research And Education
| Deputy Director Lister Hill National Center For Biomedical Commissioners
| Deputy Director, National Library Of Medicine
| Director National Center For Biotechnology Information
| Director, Information Systems
| Director, Lister Hill National Center For Biomedical Community
Office Of Acquisitions And Grants Management | Deputy Director For Operations
| Deputy Director For Policy
| Director, Office Of Acquisitions And Grants Management
Office Of Chief Counsel | Associate Deputy Chief Counsel For Drugs And Biologics
| Associate Deputy Chief Counsel For Devices, Foods And Veterinary Medicine
| Deputy Chief Counsel For Program Review
Office Of External Affairs | Deputy Director, Office Of External Affairs
Office Of Financial Management | Deputy Director Office Of Financial Management
| Director Office Of Financial Management
| Director Program Integrity Group
| Director, Accounting Management Group
| Director, Financial Services Group
Office Of Financial Management Service | Director, Financial Management Service
Office Of Global Health | Chief Management Officer, Office Of Global Health
Office Of Information Services | Deputy Director, Office Of Information Services
| Director, Office Of Information Services (Chief Information Officer)
Office Of Management | Director, Office Of Acquisitions And Grants Services
Office Of Policy, Planning, And Budget | Associate Administrator For Policy And Programs Coordinator
Office Of Program Support | Director Office Of Financial Management
Office Of Regulatory Affairs | Associate Commissioner For Regulatory Affairs
| Associate Director Investigations
| Deputy Associate Commissioner For Regulatory Affairs
| Deputy Director For Investigations
| Director Office Of Criminal Investigations
| District Food And Drug Director, Los Angeles District
| District Food And Drug Director, New York District
| Regional Food And Drug Director, Central Region
| Regional Food And Drug Director, Northeast Region
| Regional Food And Drug Director, Southeast Region
| Regional Food And Drug Director, Southwest Region
Office Of Security And Strategic Information | Associate Director For Personnel And Classified Information Security
| Associate Director For Strategic Information
| Director, Division Of Physical Security
Office Of The Actuary | Director, National Health Statistics Group
| Director, Office Of Medicare And Medicaid Cost Estimates
| Director, Office Of The Actuary (Chief Actuary)
| Director, Parts C And D Actuarial Group
Office Of The Assistant Secretary For Administration And Management | Director, Atlanta Human Resources Center
| Director, Small Business And Disadvantaged Utilization
Office Of The Assistant Secretary For Planning And Evaluation | Associate Deputy Assistant Secretary For Planning And Evaluation (Health Services Policy)
Office Of The Assistant Secretary For Public Health And Science | Director, Office Of Human Immunodeficiency Virus/Acquired Immunodeficiency Syndrome Policy
| Director, Office Of Research Integrity
Office Of The Deputy Assistant Secretary For Finance | Deputy Assistant Secretary, Finance
| Director, Office Of Financial Policy And Reporting
Office Of The Deputy Assistant Secretary For Information Resources Management | Deputy Chief Information Officer
Office Of The Deputy Inspector General For Audit Services | Assistant Inspector General For Audit Management And Policy
| Assistant Inspector General For Financial Management And Regional Operations
| Assistant Inspector General For Grants And Internal Activities
| Assistant Inspector General For Medicare And Medicaid Service Audits
| Deputy Inspector General For Audit Services
Office Of The Deputy Inspector General For Evaluation And Inspections | Deputy Inspector General For Evaluation And Inspections
Office Of The Deputy Inspector General For Investigations | Assistant Inspector General For Investigations
| Assistant Inspector General For Investigative Operations
| Deputy Inspector General For Investigations
Office Of The Director | Associate Director For Administration
| Associate Director For Disease Prevention
| Associate Director For Extramural Affairs
| Associate Director For Security And Emergency Response
| Director, Office of Medical Applications Of Research
| Director, Office Of Contracts Management
| Director, Office Of Financial Management
| Director, Office Of Policy For Extramural Research Administration
| Director, Office Of Reports And Analysis
| Director, Office Of Research Facilities Development And Operations
| Director, Office Of Strategic Planning For Administration
| Scientific Advisor For Capacity Development
| Senior Advisor For Policy
| Senior Policy Officer (Ethics)
| Special Advisor To The Director
Office Of The Inspector General | Deputy Inspector General For Legal Affairs
| Deputy Inspector General For Management And Policy
| Principal Deputy Inspector General
Office Of Workforce And Career Development | Chief Management Officer, Office Of Workforce And Career Development
Program Support Center | Deputy Assistant Secretary For Program Support
Special Programs Bureau | Associate Administrator, Special Programs Bureau
Department Of Health And Human Services Office Of The Inspector General:
Department Of Health And Human Services Office Of The Inspector General | Principal Deputy Inspector General
Office Of Audit Services | Assistant Inspector General For Audit Management And Policy
| Assistant Inspector General For Financial Management And Regional Operations
| Assistant Inspector General For Grants And Internal Activities
| Assistant Inspector General For Medicare And Medicaid Service Audits
| Deputy Inspector General For Audit Services
Office Of Counsel To The Inspector General | Assistant Inspector General For Legal Affairs
| Chief Counsel To The Inspector General
Office Of Evaluation And Inspections | Assistant Inspector General For Evaluation And Inspections
| Deputy Inspector General For Evaluation And Inspections
Office Of Investigations | Assistant Inspector General For Investigations
| Assistant Inspector General For Investigative Operations
| Deputy Inspector General For Investigations
Office Of Management And Policy | Assistant Inspector General For Management And Policy
| Deputy Inspector General For Management And Policy
Department Of Homeland Security:
Assistant Secretary For Health Affairs And Chief Medical Officer | Principal Deputy Assistant Secretary For Health Affairs/Deputy Chief Medical Officer
Department Of Homeland Security | Director Of Transition
| Director, Innovation/Homeland Security Advanced Research Projects Agency (Hsarpa)
| Director, Interagency And First Responder Programs Division
| Division Head Infrastructure/Geophysical Division
| Division Head, Chemical And Biological Division
| Division Head, Command, Control And Interoperability Division
| Division Head, Explosives Division
| Division Head, Human Factors/Behavioral Science Division
Domestic Nuclear Detection Office | Assistant Director, Mission Management Directorate
| Assistant Director, National Technical Nuclear Forensics Center
| Assistant Director, Product Acquisition And Deployment Directorate
| Assistant Director, Transformational And Applied Research Directorate
| Chief Of Staff
| Deputy Director
Federal Emergency Management Agency | Acquisition Business Center Director
| Assistant Administrator, Management Directorate
| Assistant Administrator, National Integration Center
| Chief Financial Officer
| Chief, Acquisition Operations Branch
| Deputy Assistant Administrator, Mitigation Division
| Deputy Assistant Administrator, Office Of Grants Program
| Deputy Chief Counsel
| Deputy Chief Financial Officer
| Deputy Director For Insurance
| Deputy Director, External Affairs
| Deputy Director, Policy And Program Analysis
| Director Of Business Operations
| Director, Disaster Emergency Communication Division
| Director, Disaster Emergency Communications Division
| Director, Disaster Reserve Workforce
| Director, Federal Coordinating Officer Operations
| Director, Financial Management
| Director, National Exercise Division
| Director, Office Of Acquisition Management
| Director, Operations Management Division, Disaster Operations
| Director, Preparedness Coordination Division
| Director, Preparedness Policy, Planning And Analysis Division
| Director, Support Services And Facilities Management
| Director, Technological Hazards Division
| Superintendent, Center For Domestic Preparedness
Federal Law Enforcement Training Center | Assistant Director (Training Directorate)
| Assistant Director, Administration
| Assistant Director, Chief Information Officer
| Assistant Director, Field Training
| Assistant Director, Training Innovation And Management Directorate
| Assistant Director, Washington Office
| Deputy Assistant Director, Office Of Artesia Operations
| Deputy Director, Federal Law Enforcement Training Center
| Director, Federal Law Enforcement Training Center
| Senior Associate Director
National Cybersecurity Center | Chief Technology Officer
| Deputy Director, National Cybersecurity Center
Office Of Administration | Deputy, Chief Administrative Services Officer
| Director Of Asset And Logistics Management
| Director, Administrative Operations
| Director, Safety And Environmental Programs
Office Of Civil Rights And Civil Liberties | Deputy Officer For Programs And Compliance
| Deputy Officer, Equal Employment Opportunity Programs
Office Of Operations Coordination And Planning Directorate | Senior Department Of Homeland Security Advisor To The Commander, U.S. Northern Command/North American Aerospace Defense Command
Office Of Procurement | Chief Procurement Officer
| Deputy Chief Procurement Officer
| Director, Acquisition Program Management
| Director, Office Of Procurement Operations
| Director, Oversight And Strategic Support
| Director, Procurement Oversight Program
| Director, Strategic Initiatives (Acquisition)
| Senior Counselor
Office Of Security | Chief Security Officer
| Chief, Counterintelligence And Investigations
| Deputy Chief Security Officer
Office Of The Assistant Secretary For Policy | Associate Director For Vetting
| Associate Director, Identity Management
| Department Of Homeland Security (DHS) Attache To Mexico
Office Of The Chief Financial Officer | Deputy Director, Financial Management
| Director, Financial Management
| Director, Office Of Budget
| Director, Program Analysis And Evaluation
| Director, Resource Management Transformation Office
Office Of The Chief Human Capital Officer | Deputy Chief Human Capital Officer
| Director, Human Capital Services And Accountability
| Director, Workforce Relations And Performance Culture
| Executive Director, Diversity, Recruitment And Veteran's Outreach
| Executive Director, Policy And Programs
Office Of The Chief Information Officer | Deputy Chief Information Officer
| Deputy Director, Information Technology Services Office
| Director, Enterprise Business Management Office
| Director, Information Security
| Director, Office Of Applied Technology
| Executive Director, Information Technology Services Office
Office Of The Executive Secretary For Operations And Administration | Deputy Executive Secretary, Operations And Administration
Office Of The General Counsel | Deputy Associate General Counsel For General Law
| Designated Agency Ethics Official
Office Of The Inspector General | Assistant Deputy Inspector General For Disaster Assistance Oversight
| Assistant Inspector General For Information Technology
| Assistant Inspector General For Inspections And Special Reviews
| Assistant Inspector General, Administrative Services
| Assistant Inspector General, Audits
| Assistant Inspector General, Counsel
| Assistant Inspector General, Investigations
| Chief (Audit Planning, Execution, And Review)
| Deputy Assistant Inspector General For Audits
| Deputy Assistant Inspector General, Investigations
| Deputy Inspector General
| Deputy Inspector General For Disaster Assistance Oversight
Office Of The Under Secretary For Intelligence And Analysis—IA | Assistant Deputy Under Secretary For External Communication
| Chief Of Staff
| Deputy Director, Homeland Infrastructure Threat And Risk Assessment Center
| Director, Collection And Requirements Division
| Director, Plans And Integration
| Director, Production Management Division
| Director, State And Local Fusion Center Division
| Principal Deputy Director, Terrorist Screening Center
Office Of The Under Secretary For National Protection And Programs Directorate | Chief Operating Officer
| Deputy Assistant Secretary For Cyber Security And Communications
| Deputy Assistant Secretary For Infrastructure Protection
| Deputy Director, Federal Protective Service
| Deputy Director, Infrastructure Security Compliance Division
| Deputy Director, National Cyber Security Division
| Deputy Director, U.S.—Visit Program
| Deputy Manager, National Communications System
| Director, Budget And Financial Administration
| Director, Critical Infrastructure Cyber Protection And Awareness
| Director, Federal Network Security
| Director, Federal Protective Service
| Director, Global Cyber Security Management
| Director, Infrastructure Partnerships Division
| Director, Infrastructure Security Compliance Division
| Director, Mission Operations Management
| Director, National Communications System
| Director, National Cyber Security Division
| Director, Office Of Emergency Communications
| Director, Professional Development And Training
| Director, Resource Administration
| Director, Risk Management Division
| Director, Sector Specific Agency Executive Management Office
| National Protection And Programs Directorate (NPPD) Chief Information Officer
Office Of The Under Secretary For Science And Technology | Director Of Innovation/Homeland Security Advanced Research Projects Agency
| Director Of Transition
| Director, Interagency Science And Technology Programs Division
| Director, Program Analysis And Evaluation
| Director, Strategy, Policy, And Budget Division
| Director, Test And Evaluation And Standards
| Division Head, Borders And Maritime Security Division
| Division Head, Command, Control, And Interoperability Division
| Division Head, Explosives Divisions
| Division Head, Human Factors Division
| Division Head, Infrastructure And Geophysical Division
| Head, Chemical And Biological Division
U.S. Citizenship And Immigration Services | Associate Director, Field Operations
| Associate Director, Fraud Detection And National Security
| Associate Director, Office Of Management
| Associate Director, Refugee, Asylum And International Operations
| Associate Director, Service Center Operations
| Central Regional Director (Dallas, Texas)
| Chief Information Officer
| Chief, Administrative Appeals
| Chief, Asylum
| Chief, International Operations
| Chief, Office Of Administration
| Chief, Office Of Security And Integrity
| Chief, Records And Information Management
| Chief, Transformation Program Office
| Chief, Verification
| Deputy Associate Director, Enterprise Services Division
| Deputy Associate Director, National Security And Records Verification
| Deputy Associate Director, Office Of Field Operations
| Deputy Associate Director, Refugee, Asylum, And International Operations
| Deputy Associate Director, Service Center Operations
| Deputy Chief Of Policy And Strategy
| Deputy Director, Office Of Security And Integrity
| Deputy Director, Service Center, Dallas, Texas
| Deputy Director, Service Center, Laguna Niguel, California
| Deputy Director, Service Center, Lincoln, Nebraska
| Deputy Director, Service Center, Saint Albans, Vermont
| Deputy General Counsel
| Director, Los Angeles Asylum Office
| Director, National Benefits Center
| Director, National Records Center
| Director, Office Of Refugee Affairs
| Director, Service Center, Dallas, Texas
| Director, Service Center, Laguna Niguel, California
| Director, Service Center, Lincoln, Nebraska
| Director, Service Center, Saint Albans, Vermont
| District Director, Field Services, Atlanta, Georgia
| District Director, Field Services, Boston, Massachusetts
| District Director, Field Services, Chicago, Illinois
| District Director, Field Services, Los Angeles California
| District Director, Field Services, Miami, Florida
| District Director, Field Services, New York, New York
| District Director, Field Services, Newark, New Jersey
| District Director, Field Services, San Francisco California
| District Director, Field Services, Tampa, Florida
| Eastern Regional Director (Burlington, Vermont)
| Regional Director, Southeast Region
| Senior Advisor
| Western Regional Director (Laguna Niguel, California)
U.S. Customs And Border Protection | Area Director, Newark
| Assistant Commissioner, Customs And Border Protection Air And Marine
| Assistant Commissioner, Field Operations
| Assistant Commissioner, Finance
| Assistant Commissioner, Human Resources Management
| Assistant Commissioner, Information And Technology
| Assistant Commissioner, Internal Affairs
| Assistant Commissioner, Trade
| Assistant Commissioner, Training And Development
| Associate Chief Counsel—Administration
| Associate Chief Counsel—Enforcement
| Associate Chief Counsel—Los Angeles
| Associate Chief Counsel—New York
| Associate Chief Counsel—Southeast
| Associate Chief Counsel—Trade, Tariffs And Legislation
| Associate Chief Counsel (Houston)
| Associate Chief Counsel, Chicago
| Chief Patrol Agent—Laredo Sector
| Chief Patrol Agent (Del Rio)
| Chief Patrol Agent (El Paso)
| Chief Patrol Agent (San Diego)
| Chief Patrol Agent (Tucson)
| Chief Patrol Agent, El Centro, California
| Chief Patrol Agent, Rio Grande Valley
| Chief Patrol Agent, Yuma, Arizona
| Chief Procurement Officer
| Chief, Border Patrol
| Chief, Northern Border And Coastal Division
| Chief, Operations Planning And Analysis Division
| Chief, Southwest Border Division
| Deputy Assistant Commissioner, Customs And Border Protection Air And Marine
| Deputy Assistant Commissioner, Field Operations
| Deputy Assistant Commissioner, Human Resources Management
| Deputy Assistant Commissioner, Information And Technology
| Deputy Assistant Commissioner, Intelligence And Operations Coordination
| Deputy Assistant Commissioner, Internal Affairs
| Deputy Assistant Commissioner, International Affairs
| Deputy Assistant Commissioner, Office Of Training And Development
| Deputy Chief Counsel
| Deputy Chief Financial Officer
| Deputy Chief Patrol Agent, San Diego
| Deputy Chief Patrol Agent, Tucson
| Deputy Chief, Border Patrol
| Deputy Commissioner
| Deputy Director, El Paso Intelligence Center
| Deputy Director, Secure Border Initiative Program Office
| Director Of Operations, Northern Border, Detroit, Michigan, Office Of Customs And Border Protection (CBP) Air And Marine
| Director Of Operations, Southeastern Border, Miami, Florida, Office Of Customs And Border Protection (CBP) Air And Marine
| Director Of Operations, Southwest Border, Office Of Customs And Border Protection (CBP) Air And Marine
| Director, Air And Marine Operations Center, Office Of Customs And Border Protection (CBP) Air And Marine
| Director, Border Enforcement Coordination Cell, El Paso
| Director, Field Operations (Atlanta)
| Director, Field Operations (Boston)
| Director, Field Operations (Buffalo)
| Director, Field Operations (Chicago)
| Director, Field Operations (Detroit)
| Director, Field Operations (Houston)
| Director, Field Operations (Laredo)
| Director, Field Operations (Los Angeles)
| Director, Field Operations (Miami)
| Director, Field Operations (New York)
| Director, Field Operations (San Diego)
| Director, Field Operations (San Francisco)
| Director, Field Operations (Seattle)
| Director, Field Operations (Tucson)
| Director, Field Operations, El Paso
| Director, Secure Borders Initiative
| Executive Director, Operations, Customs And Border Protection Air And Marine
| Executive Director, Admissibility And Passenger Programs
| Executive Director, Agriculture Programs And Trade Liaison
| Executive Director, Budget
| Executive Director, Cargo And Conveyance Security
| Executive Director, Cargo Systems Programs Office
| Executive Director, Commercial Targeting And Enforcement
| Executive Director, Enterprise Data Management And Engineering
| Executive Director, Enterprise Networks And Technology Support
| Executive Director, Equal Opportunity
| Executive Director, Facilities Management And Engineering
| Executive Director, Financial Operations
| Executive Director, Human Resources Programs And Operations
| Executive Director, Intelligence And Targeting
| Executive Director, Labor And Employee Relations
| Executive Director, Laboratories And Scientific Services
| Executive Director, Mission Support
| Executive Director, Mission Support, Office Of Customs And Border Protection (CBP) Air And Marine
| Executive Director, National Air Security Operations, Office Of Customs And Border Protection (CBP) Air And Marine
| Executive Director, Operations
| Executive Director, Passenger Systems Program Office
| Executive Director, Planning, Program Analysis And Evaluation
| Executive Director, Regulations And Rulings
| Executive Director, Regulatory Audit
| Executive Director, Trade Policy And Programs
| Executive Director, Training, Safety And Standards, Office Of Customs And Border Protection (CBP) Air And Marine
| Executive Program Director, Secure Border Initiative Network
| Port Director (El Paso)
| Port Director, JFK Airport
| Port Director, Laredo
| Port Director, Los Angeles Airport
| Port Director, Los Angeles/Long Beach Seaport
| Port Director, Miami International Airport
| Port Director, San Sedro
U.S. Immigration And Customs Enforcement | Assistant Director For Enforcement, Detention And Removal Operations
| Assistant Director For Management, Detention And Removal Operations
| Assistant Director For Operations, Detention, And Removal Operations
| Assistant Director, Operations
| Chief Financial Officer
| Chief Information Officer
| Deputy Assistant Director (National Security Investigations)
| Deputy Assistant Director, Criminal Alien Division, Office Of Detention And Removal Operations
| Deputy Assistant Director, Critical Infrastructure, Protection, And Fraud
| Deputy Assistant Director, Financial, Narcotics And Public Safety
| Deputy Assistant Director, Investigative Services
| Deputy Assistant Director, Mission Support
| Deputy Assistant Director, Mission Support, Office Of Detention And Removal Operations
| Deputy Assistant Director, Removal Management, Office Of Detention And Removal Management
| Deputy Assistant Secretary For Management
| Deputy Assistant Secretary, Operations
| Deputy Chief Financial Officer
| Deputy Chief Information Officer
| Deputy Director, Detention And Removal Operations
| Deputy Director, International Affairs
| Deputy Director, Office Of Investigation
| Deputy Director, Office Of Professional Responsibility
| Deputy Principal Legal Advisor
| Deputy Principal Legal Advisor For Field Operations
| Deputy Principal Legal Advisor For Litigation
| Deputy Principal Legal Advisor For Management
| Deputy Principal Legal Advisor For Headquarters
| Director, Detention And Removal Operations
| Director, Financial Management
| Director, Intelligence
| Director, International Affairs
| Director, Office Of Budget And Program Performance
| Director, Office Of Investigations
| Director, Office Of Procurement
| Director, Office Of Professional Responsibility
| Director, Office Of Training And Career Development
| Executive Director, Border Security Initiatives
| Executive Director, Law Enforcement Information Sharing Initiative
| Executive Director, State And Local Coordination
| Field Office Director, Office Of Detention And Removal Operations, San Antonio, Texas
| Field Office Director, Office Of Detention And Removal Operations, San Diego, California
| Regional Special Agent In Charge, El Paso
| Senior Advisor, Intellectual Property Rights
| Senior Management Counsel
| Special Agent In Charge (Miami)
| Special Agent In Charge (New York)
| Special Agent In Charge (Seattle)
| Special Agent In Charge, Atlanta
| Special Agent In Charge, Chicago
| Special Agent In Charge, Dallas
| Special Agent In Charge, Denver
| Special Agent In Charge, Detroit
| Special Agent In Charge, El Paso
| Special Agent In Charge, Houston
| Special Agent In Charge, Los Angeles
| Special Agent In Charge, New Orleans
| Special Agent In Charge, Phoenix
| Special Agent In Charge, San Antonio
| Special Agent In Charge, San Diego
| Special Agent In Charge, San Francisco
| Special Agent In Charge, Washington, Dc
| Special Agent In Charge-East, Office Of Professional Responsibility
United States Coast Guard | Deputy Assistant Commandant For Acquisition/Director Of Acquisition Services
| Deputy Assistant Commandant For Intelligence And Criminal Investigations
| Deputy Chief Financial Officer
| Deputy Director Of Acquisition Programs
| Director, Command, Control, Communications, Computers (C4) And Information Technology Service Center
| Director, Global Maritime Operational Threat Response Coordination Center
| Director, National Pollution Funds Center
| Senior Procurement Executive/Head Of Contracting Activity
United States Secret Service | Assistant Director—Human Resources And Training
| Assistant Director—Office Of Government And Public Affairs
| Assistant Director, Investigations
| Assistant Director, Office Of Administration
| Assistant Director, Office Of Professional Responsibility
| Assistant Director, Protective Operations
| Assistant Director, Protective Research
| Chief Counsel
| Chief Financial Officer
| Chief Information Officer
| Chief Of Staff
| Chief, Management Office
| Deputy Assistant Director—Administration
| Deputy Assistant Director—Human Resources And Training
| Deputy Assistant Director—Investigations
| Deputy Assistant Director—Office Of Investigations
| Deputy Assistant Director—Rowley Training Center
| Deputy Assistant Director—Technology (Chief Technology Officer)/Protective Research
| Deputy Assistant Director, Office Of Investigations
| Deputy Assistant Director, Office Of Protective Operations
| Deputy Assistant Director, Policy Development/Homeland Security
| Deputy Assistant Director, Protective Operations
| Deputy Assistant Director, Protective Research
| Deputy Chief Counsel
| Deputy Director, United States Secret Service
| Deputy Special Agent In Charge—Presidential Protective Division
| Deputy Special Agent In Charge—Vice Presidential Protective Division
| Director, United States Secret Service
| Special Agent In Charge—Atlanta Field Office
| Special Agent In Charge—Criminal Investigative Division
| Special Agent In Charge—Dallas Field Office
| Special Agent In Charge—Honolulu Field Office
| Special Agent In Charge—Houston Field Office
| Special Agent In Charge—Los Angeles Field Office
| Special Agent In Charge—Miami Field Office
| Special Agent In Charge—New York Field Office
| Special Agent In Charge—Philadelphia Field Office
| Special Agent In Charge—Presidential Protective Division
| Special Agent In Charge—Rome Field Office
| Special Agent In Charge—Rowley Training Center
| Special Agent In Charge—San Francisco Field Office
| Special Agent In Charge—Technical Security Division
| Special Agent In Charge—Vice Presidential Protective Division
| Special Agent In Charge—Washington Field Office
| Special Agent In Charge (Dignitary Protective Division)
| Special Agent In Charge, Chicago Field Office
| Special Agent In Charge, Protective Intelligence And Assessment Division
| Special Agent In Charge, Special Operations Division
Department Of Homeland Security Office Of The Inspector General: | Assistant Deputy Inspector General, Emergency Management Oversight
| Assistant Inspector General, Audits
| Assistant Inspector General For Administration
| Assistant Inspector General, Information Technology Audits
| Assistant Inspector General, Inspections
| Assistant Inspector General, Investigations
| Counsel To The Inspector General
| Deputy Assistant Inspector General, Audits
| Deputy Assistant Inspector General, Investigations
| Deputy Assistant Inspector General, Planning And Oversight
| Deputy Inspector General
| Deputy Inspector General For Emergency Management Oversight
Department Of Housing And Urban Development:
Assistant Secretary For Administration | Deputy Chief Procurement Officer
| Director, Grants Management Center
Assistant Secretary For Community Planning And Development | Deputy Assistant Secretary For Special Needs Programs
| Director, Office Of Community Viability
Assistant Secretary For Housing | Associate Deputy Assistant Secretary For Single Family Housing
| Deputy Assistant Secretary For Finance And Budget
| Deputy Housing—Federal Housing Administration Comptroller
| Director, Office Of Program Systems Management
| Housing/Federal Housing Administration Comptroller
Assistant Secretary For Public And Indian Housing | Director, Office Of Housing Voucher Programs
| General Deputy Assistant Secretary For Public And Indian Housing
Government National Mortgage Association | Senior Vice President For Mortgage-Backed Securities
| Senior Vice President, Office Of Finance
| Senior Vice President, Office Of Management Operations
| Senior Vice President, Office Of Program Operations
Office Of Departmental Equal Employment Opportunity | Director, Office Of Departmental Equal Employment Opportunity
Office Of Departmental Operations And Coordination | Deputy Assistant Secretary For The Real Estate Assessment Center
Office Of The Chief Financial Officer | Assistant Chief Financial Officer For Accounting
| Assistant Chief Financial Officer For Budget
| Assistant Chief Financial Officer For Financial Management
| Deputy Chief Financial Officer
Office Of The Deputy Secretary | Chief Disaster And Emergency Operations Officer
Office Of The General Counsel | Associate General Counsel For Program Enforcement
| Deputy Director, Operations And Compliance
| Senior Counsel (Appeals, Odeeo Advice And Special Projects)
Office Of The Inspector General | Assistant Inspector General For Audit
| Assistant Inspector General For Investigations
| Assistant Inspector General For Management And Policy
| Counsel To The Inspector General
| Deputy Assistant Inspector General For Audit (Field Operations)
| Deputy Assistant Inspector General For Audit (Headquarters Operation)
| Deputy Assistant Inspector General For Investigation (Field Operations)
| Deputy Assistant Inspector General For Investigation (Headquarters Operation)
| Deputy Assistant Inspector General For Management And Policy
| Deputy Inspector General
Office Of The Secretary | Director, Office Of Hearings And Appeals
Department Of Housing And Urban Development Office Of The Inspector General: | Assistant Inspector General For Audit
| Assistant Inspector General For Investigation
| Assistant Inspector General For Management And Policy
| Counsel To The Inspector General
| Deputy Assistant Inspector General For Audit (Field Operations)
| Deputy Assistant Inspector General For Audit (Headquarters Operations)
| Deputy Assistant Inspector General For Investigation (Field Operations)
| Deputy Assistant Inspector General For Investigation (Headquarters Operations)
| Deputy Assistant Inspector General For Management And Policy
| Deputy Inspector General
Department Of Justice:
Antitrust Division | Chief, Telecommunications And Media Section
| Director, Economic Enforcement
| Executive Officer
Appellate Staff | Deputy Director, Appellate Staff
| Special Appellate Litigation Counsel
Civil Division | Deputy Branch Director
Civil Rights Division | Executive Officer
Commercial Litigation Branch, Civil Fraud Section | Deputy Director, Civil Fraud Section
Commercial Litigation Branch, Corporate/Financial Section | Deputy Director, Corporate/Financial Section
| Special Litigation Counsel, Corporate/Financial Section
Commercial Litigation Branch, Foreign Litigation Section | Director, Foreign Litigation Section
Criminal Division | Chief Fraud Section
| Chief Narcotic And Dangerous Drug Section
| Chief Public Integrity Section
| Chief, Appellate Section
| Chief, Asset Forfeiture And Money Laundering Section
| Chief, Child Exploitation And Obscenity Section
| Chief, Computer Crime And Intellectual Property Section
| Chief, Domestic Security Section
| Chief, Organized Crime And Racketeering Section
| Deputy Chief For Litigation
| Deputy Chief For Public Integrity Section
| Deputy Chief Public Integrity Section
| Deputy Chief, Asset Forfeiture And Money Laundering Section
| Deputy Chief, Computer Crime And Intellectual Property Section
| Deputy Chief, Narcotic And Dangerous Drug Section
| Director, International Criminal Investigative Training Assistance Program
| Director, Office Of Overseas Prosecutorial Development, Assistance, And Training
| Director, Organized Crime Drug Enforcement Task Forces
| Executive Officer
| Senior Appellate Counsel
| Senior Counsel To The Assistant Attorney General
Environment And Natural Resources Division | Chief Environmental Crimes Section
| Chief Environmental Enforcement Section
| Chief, Environmental Defense Section
| Chief, General Litigation Section
| Chief, Indian Resources Section
| Chief, Land Acquisition Section
| Chief, Wildlife And Marine Resources Section
| Chief-Appellate Section
| Deputy Chief, Environmental Enforcement Section
| Deputy Chief, Natural Resources Section
| Deputy Section Chief, Environmental Defense Section
| Deputy Section Chief, Natural Resources Section
| Executive Officer
| Senior Litigation Counsel Attorney-Examiner
| Senior Litigation Counsel
Executive Office For Immigration Review | Associate Director
| Chairman, Board Of Immigration Appeals
| Chief Administrator Hearing Officer
| Chief Immigration Judge
| General Counsel
| Vice Chairman, Board Of Immigration Appeals
Executive Office For United States Attorneys | Chief, Information Officer
| Counsel, Legal Programs And Policy
| Deputy Director
| Deputy Director For Administration And Management
| Deputy Director For Operations
| Deputy Director, Financial Management Staff
| Director, Office Of Legal Education
| General Counsel
Federal Bureau Of Prisons | Assistant Director Correctional Programs Division
| Assistant Director For Administration
| Assistant Director For Human Resources Management
| Assistant Director, Industries, Education, And Vocational Training Division
| Assistant Director, Information, Policy, And Public Affairs Division
| Assistant Director, Office Of General Counsel
| Deputy Assistant Director For Administration
| Regional Director Middle Atlantic Region
| Regional Director, North Central Region
| Regional Director, Northeast Region
| Regional Director, South Central Region
| Regional Director, Southeast Region
| Regional Director, Western Region
| Senior Counsel, Office Of General Counsel
| Senior Deputy Assistant Director, Administration
| Senior Deputy Assistant Director, Correctional Programs Division
| Senior Deputy Assistant Director, Program Review Division
| Warden Federal Correctional Complex, Butner, North Carolina
| Warden Federal Correctional Complex, Terre Haute, Indiana
| Warden, Federal Correction Complex, Petersburg, Virginia
| Warden, Federal Correctional Complex, Allenwood, Pennsylvania
| Warden, Federal Correctional Complex, Beaumont, Texas
| Warden, Federal Correctional Complex, Coleman, Florida
| Warden, Federal Correctional Complex, Florence, Colorado
| Warden, Federal Correctional Complex, Forrest City, Arkansas
| Warden, Federal Correctional Complex, Lompoc, California
| Warden, Federal Correctional Complex, Oakdale, Louisiana
| Warden, Federal Correctional Complex, Victorville, California
| Warden, Federal Correctional Complex, Yazoo City, Mississippi
| Warden, Federal Correctional Institution Medium-I, Butner, North Carolina
| Warden, Federal Correctional Institution, Beckley, West Virginia
| Warden, Federal Correctional Institution, Bennettsville, South Carolina
| Warden, Federal Correctional Institution, Cumberland, Maryland
| Warden, Federal Correctional Institution, Edgefield, South Carolina
| Warden, Federal Correctional Institution, El Reno, Oklahoma
| Warden, Federal Correctional Institution, Estill, South Carolina
| Warden, Federal Correctional Institution, Fairton, New Jersey
| Warden, Federal Correctional Institution, Fort Dix, New Jersey
| Warden, Federal Correctional Institution, Gilmer, West Virginia
| Warden, Federal Correctional Institution, Greenville, Illinois
| Warden, Federal Correctional Institution, Herlong, California
| Warden, Federal Correctional Institution, Jessup, Georgia
| Warden, Federal Correctional Institution, Manchester, Kentucky
| Warden, Federal Correctional Institution, Marianna, Florida
| Warden, Federal Correctional Institution, McKean, Pennsylvania
| Warden, Federal Correctional Institution, Memphis, Tennessee
| Warden, Federal Correctional Institution, Otisville, New York
| Warden, Federal Correctional Institution, Oxford, Wisconsin
| Warden, Federal Correctional Institution, Pekin, Illinois
| Warden, Federal Correctional Institution, Phoenix, Arizona
| Warden, Federal Correctional Institution, Ray Brook, New York
| Warden, Federal Correctional Institution, Schuylkill, Pennsylvania
| Warden, Federal Correctional Institution, Sheridan, Oregon
| Warden, Federal Correctional Institution, Talladega, Alabama
| Warden, Federal Correctional Institution, Three Rivers, Texas
| Warden, Federal Correctional Institution, Williamsburg, South Carolina
| Warden, Federal Detention Center, Miami, Florida
| Warden, Federal Medical Center, Carswell, Texas
| Warden, Federal Medical Center, Devens, Massachusetts
| Warden, Federal Medical Center, Lexington, Kentucky
| Warden, Federal Medical Center, Rochester, Minnesota
| Warden, Federal Transfer Center, Oklahoma City, Oklahoma
| Warden, Metropolitan Correctional Center, New York, New York
| Warden, Metropolitan Detention Center, Brooklyn, New York
| Warden, Metropolitan Detention Center, Guaynabo, Puerto Rico
| Warden, Metropolitan Detention Center, Los Angeles, California
| Warden, United States Medical Center Federal Prisoners, Springfield, Missouri
| Warden, United States Penitentiary Coleman-I, Coleman, Florida
| Warden, United States Penitentiary, Atlanta, Georgia
| Warden, United States Penitentiary, Atwater, California
| Warden, United States Penitentiary, Big Sandy, Kentucky
| Warden, United States Penitentiary, Canaan, Pennsylvania
| Warden, United States Penitentiary, Hazelton, West Virginia
| Warden, United States Penitentiary, Leavenworth, Kansas
| Warden, United States Penitentiary, Lee, Virginia
| Warden, United States Penitentiary, Lewisburg, Pennsylvania
| Warden, United States Penitentiary, Marion Illinois
| Warden, United States Penitentiary, McCrery, Kentucky
| Warden, United States Penitentiary, Pollock, Louisiana
| Warden, United States Penitentiary, Tucson, Arizona
| Warden, United States Penitentiary-High, Florence, Colorado
Federal Programs Branch | Deputy Branch Director, Federal Programs
Justice Management Division | Assistant Attorney General For Administration
| Chief Information Officer
| Chief, Technology Officer
| Deputy Assistant Attorney General (Controller)
| Deputy Assistant Attorney General For Human Resources And Administration
| Deputy Assistant Attorney General, Policy, Management, And Planning
| Deputy Chief Information Officer For It Security
| Deputy Director, Auditing
| Deputy Director, Budget Staff, Operations And Funds Control
| Deputy Director, Budget Staff, Programs And Performance
| Deputy Director, Human Resources
| Deputy, Chief Information Officer For E-Government Services Staff
| Director Finance Staff
| Director Library Staff
| Director Management And Planning Staff
| Director Procurement Services Staff
| Director, Asset Forfeiture Management Staff
| Director, Budget Staff
| Director, Debt Collection Management Staff
| Director, Departmental Ethics Office
| Director, Enterprise Solutions Staff
| Director, Equal Employment Opportunity Staff
| Director, Facilities And Administrative Services Staff
| Director, Human Resources
| Director, Information Technology Policy And Planning Staff
| Director, Office Of Attorney Recruitment And Management
| Director, Operations Services Staff
| Director, Security And Emergency Planning Staff
| General Counsel
| Senior Policy Advisor
National Institute Of Justice | Assistant Director, National Institute Of Justice, Office Of Science And Technology
National Security Division | Chief, Operations Section
| Chief, Oversight Section
| Deputy Assistant Attorney General, Fisa Operations And Intelligence Oversight
| Deputy Assistant Attorney General, Foreign Intelligence Surveillance Act Operations And Intelligence Oversight
| Deputy Chief Terrorism And Violent Crime, Counterterrorism Section
| Deputy Chief, Counterespionage Section
| Deputy Chief, Counterterrorism Section
| Deputy Chief, Operations Section
| Deputy Counsel For Intelligence Law
Office Of Consumer Litigation | Director, Office Of Consumer Litigation
Office Of Dispute Resolution | Senior Counsel For Alternative Dispute Resolution
Office Of Federal Detention Trustee | Director, JPATS
| Federal Detention Trustee
Office Of Immigration Litigation, Appellate Section | Deputy Director, Appellate Section
Office Of Justice Programs | Chief Financial Officer
| Deputy Chief Financial Officer
| Director, Office Of Administration
| Director, Office Of Audit, Assessment And Management
Office Of Professional Responsibility | Counsel On Professional Responsibility
| Deputy Counsel On Professional Responsibility
Office Of The Alcohol, Tobacco, Firearms And Explosives | Assistant Director, Enforcement Programs And Services
| Assistant Director, Field Operations
| Assistant Director, Management And Chief Financial Officer
| Assistant Director, Office Of Professional Responsibility And Security Operations
| Assistant Director, Office Of Public And Governmental Affairs
| Assistant Director, Office Of Strategic Intelligence And Information
| Assistant Director, Science And Technology
| Assistant Director, Training And Professional Development
| Associate Chief Counsel, Administration And Ethics
| Deputy Assistant Director, Enforcement Programs And Services
| Deputy Assistant Director, Field Operations—West
| Deputy Assistant Director, Field Operations—Central
| Deputy Assistant Director, Field Operations—East
| Deputy Assistant Director, Industry Operations
| Deputy Assistant Director, Management
| Deputy Assistant Director, Office Of Professional Responsibility And Security Operations
| Deputy Assistant Director, Office Of Public And Governmental Affairs
| Deputy Assistant Director, Office Of Strategic Intelligence And Information
| Deputy Assistant Director, Science And Technology
| Deputy Assistant Director, Training And Professional Development
| Deputy Director
| Director, Laboratory Services
| Division Director, Special Agent In Charge, Atlanta
| Division Director, Special Agent In Charge, Baltimore
| Division Director, Special Agent In Charge, Boston
| Division Director, Special Agent In Charge, Charlotte
| Division Director, Special Agent In Charge, Chicago
| Division Director, Special Agent In Charge, Columbus
| Division Director, Special Agent In Charge, Dallas
| Division Director, Special Agent In Charge, Denver
| Division Director, Special Agent In Charge, Detroit
| Division Director, Special Agent In Charge, Houston
| Division Director, Special Agent In Charge, Kansas City
| Division Director, Special Agent In Charge, Los Angeles
| Division Director, Special Agent In Charge, Louisville
| Division Director, Special Agent In Charge, Miami
| Division Director, Special Agent In Charge, Nashville
| Division Director, Special Agent In Charge, New Orleans
| Division Director, Special Agent In Charge, New York
| Division Director, Special Agent In Charge, Newark
| Division Director, Special Agent In Charge, Philadelphia
| Division Director, Special Agent In Charge, Phoenix
| Division Director, Special Agent In Charge, Saint Paul
| Division Director, Special Agent In Charge, San Francisco
| Division Director, Special Agent In Charge, Seattle
| Division Director, Special Agent In Charge, Washington Dc
| Division Director, Special Agent In Charge, Tampa
| Senior Advisor To The Director
Office Of The Assistant Attorney General | Director, Office Of Management Programs
Office Of The Inspector General | Assistant Inspector General For Audit
| Assistant Inspector General For Investigation
| Assistant Inspector General For Management And Planning
| Assistant Inspector General, Evaluation And Inspections Division
| Deputy Assistant Inspector General For Audit
| Deputy Assistant Inspector General For Investigation
| Deputy Inspector General
| Director, Office Of Oversight And Review
| General Counsel
Office Of The Legal Counsel | Special Counsel
Professional Responsibility Advisory Office | Director, Professional Responsibility Advisory Office
Tax Division | Chief Civil Trial Section (Southern Region)
| Chief Civil Trial Section Eastern Region
| Chief Civil Trial Section Northern
| Chief Civil Trial Section Southwestern Region
| Chief Civil Trial Section, Western Region
| Chief Office Of Review
| Chief, Appellate Section
| Chief, Civil Trial Section, Central Region
| Chief, Claims Court Section
| Chief, Criminal Appeals And Tax Enforcement Policy Section
| Chief, Criminal Enforcement Section, North Region
| Chief, Criminal Enforcement Section, South Region
| Executive Officer
| Regional Chief, Western Region
| Senior Litigation Counsel
| Special Litigation Counsel
Torts Branch, Aviation And Admiralty Section | Special Litigation Counsel, Aviation And Admiralty Section
United States Marshals Service | Assistant Director For Prisoner Operations
| Assistant Director, Asset Forfeiture
| Assistant Director, Financial Services
| Assistant Director, Human Resources
| Assistant Director, Information Technology
| Assistant Director, Investigative Operations
| Assistant Director, Judicial Security
| Assistant Director, Justice Prisoner And Alien Transportation System
| Assistant Director, Management Support
| Assistant Director, Tactical Operations
| Assistant Director, Training
| Assistant Director, Witness Security
| Associate Director, Administration
| Associate Director, Operations
| Deputy Director
Department Of Labor:
Bureau Of International Labor Affairs | Director, Office Of Trade And Labor Affairs
Bureau Of Labor Statistics | Assistant Commissioner For Compensation Levels And Trends
| Assistant Commissioner For Consumer Prices And Prices Indexes
| Assistant Commissioner For Current Employment Analysis
| Assistant Commissioner For Federal/State Cooperative Statistics Programs
| Assistant Commissioner For Industrial Prices And Price Indexes
| Assistant Commissioner For International Prices
| Assistant Commissioner For Occupational Statistics And Employment Projections
| Assistant Commissioner For Safety, Health And Working Conditions
| Associate Commissioner For Administration
| Associate Commissioner For Compensation And Working Conditions
| Associate Commissioner For Employment And Unemployment Statistics
| Associate Commissioner For Field Operations
| Associate Commissioner For Prices And Living Conditions
| Associate Commissioner For Publications And Special Studies
| Associate Commissioner For Survey Methods Research
| Associate Commissioner For Technology And Survey Processing
| Associate Commissioner Productivity And Technology
| Deputy Commissioner For Labor Statistics
| Director Of Survey Processing
| Director Of Technology And Computing Services
Employee Benefits Security Administration | Chief Accountant
| Deputy Assistant Secretary For Program Operations
| Director Of Enforcement
| Director Of Exemption Determinations
| Director Of Health Plan Standards Compliance And Assistance
| Director Of Information Management
| Director Of Participant Assistance And Communications
| Director Of Regulations And Interpretations
| Regional Director—Atlanta
| Regional Director—Boston
| Regional Director—Kansas City
| Regional Director—New York
| Regional Director—San Francisco
| Senior Policy Advisor
Employment And Training Administration | Administrator, Office Of Financial And Administrative Management
| Administrator, Office Of Performance And Technology
Employment Standards Administration | Deputy Assistant Secretary For Operations
| Director Office Of Management, Administration And Planning
Mine Safety And Health Administration | Director Of Administration And Management
| Director Of Assessments
| Director Of Program Evaluation And Information Resources
| Director Of Technical Support
| Director, Office Of Accountability, Audit, And Program Policy Evaluation
Occupational Safety And Health Administration | Director, Administrative Programs
| Director, Directorate Of Cooperative And State Programs
| Director, Directorate Of Evaluation And Analysis
| Director, Directorate Of Standards And Guidance
| Directorate Of Technical Support And Emergency Management
Office Of Chief Financial Officer | Associate Deputy Chief Financial Officer For Financial Systems
| Deputy Chief Financial Officer
Office Of Disability Employment Policy | Director, Office Of Operations
Office Of Labor-Management Standards | Deputy Director, Office Of Labor Management Standards
| Director, Office Of Policy, Reports And Disclosure
Office Of Public Affairs | Director, Division Of Enterprise Communications
Office Of The Assistant Secretary For Administration And Management | Deputy Assistant Secretary For Budget And Performance Planning
| Deputy Assistant Secretary For Operations
| Deputy Assistant Secretary For Security And Emergency Management
| Deputy Director, Information Technology Center
| Director Business Operations Center
| Director Of Civil Rights
| Director Of Human Resources
| Director Office Of Budget
| Director, Program Planning And Results Center
Office Of The Assistant Secretary For Policy | Director, Office Of Regulatory And Programmatic Policy
Office Of The Inspector General | Assistant Inspector General For Audit
| Assistant Inspector General For Investigations
| Assistant Inspector General For Management And Policy
| Assistant Inspector General For Inspections And Special Investigations
| Counsel To The Inspector General
| Deputy Assistant Inspector General For Audit
| Deputy Assistant Inspector General For Labor Racketeering
| Deputy Inspector General
Office Of The Secretary | Deputy National Director Regional Operations
Office Of The Solicitor | Acting Deputy Assistant Secretary
| Associate Solicitor For Black Lung And Alongshore Legal Services
| Associate Solicitor For Civil Rights And Labor Management
| Associate Solicitor For Fair Labor Standards
| Associate Solicitor For Federal Employees' And Energy Workers' Compensation
| Associate Solicitor For Legal Counsel
| Associate Solicitor For Management And Administrative Legal Services
| Associate Solicitor For Mine Safety And Health
| Associate Solicitor For Occupational Safety And Health
| Associate Solicitor For Plan Benefits Security
| Deputy Solicitor (National Operations)
| Deputy Solicitor (Regional Operations)
| Regional Solicitor—Boston
| Regional Solicitor—Chicago
| Regional Solicitor—Atlanta
| Regional Solicitor—Dallas
| Regional Solicitor—Kansas City
| Regional Solicitor—New York
| Regional Solicitor—Philadelphia
| Regional Solicitor—San Francisco
Office Of Workers Compensation Programs | Director For Federal Employees' Compensation
| Director Of Coal Mine Workers' Compensation
| Director, Energy Employees' Occupational Illness Compensation
| Director, Office Of Enforcement And International Union Audits
Veterans Employment And Training Service | Deputy Assistant Secretary For Operations And Management
| Director Of Operations And Programs
| Director, Department Of Labor Homeless Assistance Program
Wage And Hour Division | Deputy Wage And Hour Administrator (Operations)
Department Of Labor Office Of The Inspector General: | Assistant Inspector General For Audit
| Assistant Inspector General For Inspections And Special Investigations
| Assistant Inspector General For Labor Racketeering
| Assistant Inspector General For Management And Policy
| Counsel
| Deputy Assistant Inspector General For Audit
| Deputy Assistant Inspector General For Labor Racketeering
| Deputy Inspector General
Department Of State:
Bureau Of Administration | Director, Office Of Acquisitions
Bureau Of Consular Affairs | Director For Consular Technology
Bureau Of Human Resources | Human Resources Officer
| Principal Deputy Assistant Secretary
Bureau Of Intelligence And Research | Executive Director
Bureau Of International Security And Nonproliferation | Deputy Assistant Secretary
| Office Director
Bureau Of Political And Military Affairs | Managing Director
| Political Advisor
Bureau Of Verification, Compliance And Implementation | Director, Office Of Strategic Negotiations And Implementation
Office Of The Coordinator For Counterterrorism | Deputy Director
Office Of The Inspector General | Assistant Inspector General For Audits
| Assistant Inspector General For Investigations
| Assistant Inspector General For Security Oversight
| Counsel To The Inspector General
| Deputy Assistant Inspector General For Audits
| Deputy Assistant Inspector General For Inspections
| Deputy Inspector General
| Senior Inspector—Thematic Review
Office Of The Legal Adviser | Assistant Legal Adviser
Department Of The Air Force:
Aeronautical Systems Center | Director Financial Management And Comptroller
| Director, Contracting
| Director, Mobility Systems Wing
Air Armament Center | Director, Air-To-Ground Munitions Systems Wing
| Executive Director
Air Combat Command | Deputy Director Of Logistics
| Director, Acquisition Management And Integration Center
Air Education And Training Command | Director, Center For Systems Engineering
| Director, International Training And Education
| Director, Logistics, Installations And Mission Support
Air Force Audit Agency (Field Operating Agency) | Assistant Auditor General (Acquisition And Logistics Audits)
| Assistant Auditor General (Financial And Systems Audits)
| Assistant Auditor General (Support And Personnel Audits)
| Deputy Auditor General For Audit Operations And Logistics Audits
Air Force Base Conversion Agency (Field Operating Agency) | Director Air Force Real Property Agency
Air Force Center For Environmental Excellence (Field Operating Agency) | Director Of The Air Force Center For Engineering And The Environment
Air Force Flight Test Center | Executive Director
Air Force Materiel Command | Deputy Director, Manpower, Personnel And Services
| Deputy Director, National Museum Of The United States Air Force
| Director Of Engineering
| Director, 653rd Electronic Systems Wing
| Director, Communications, Installations, And Mission Support
| Director, National Museum Of The United States Air Force
| Executive Director
Air Force Materiel Command Law Office | Director, Air Force Materiel Command Law Office
Air Force Office Of Safety And Air Force Safety Center (Field Operating Agency) | Director Of The Air Force Center For Engineering And The Environment
Air Force Office Of Scientific Research | Director Air Force Office Of Scientific Research
| Director Of Chemistry And Life Sciences
| Director Of Mathematics And Space Sciences
| Director Of Physics And Electronics Sciences
Air Force Office Of Special Investigations (Field Operating Agency) | Executive Director
| Executive Director, Defense Cyber Crime Center (Defense Cyber Crime Center)
Air Force Operational Test And Evaluation Center (Direct Reporting Unit) | Executive Director
Air Force Personnel Center (Field Operating Agency) | Executive Director
Air Force Research Laboratory | Director, Human Performance Wing
| Director, Plans And Programs
| Executive Director, Air Force Research Laboratory
Air Force Research Laboratory- Munitions Directorate | Associate Director For Weapons
Air Force Reserve Command | Air Commander 10th Air Force
| Air Commander 22nd Air Force
| Air Commander 4th Air Force
| Assistant Vice Commander
| Director Of Operations
| Director, Plans
| Vice Commander, Air Force Reserve Command
Air Force Review Boards Agency (Air Force Review Boards Agency)—Field Operating Agency | Deputy For Air Force Review Boards
Air Force Space Command | Director Of Installations And Logistics
| Director, Milsatcom Systems Wing
Air Force Special Operations Command | Deputy Director, Center For Special Operations Acquisition And Logistics
| Director Of Financial Management And Comptroller
Air Force Studies And Analyses Agency (Direct Reporting Unit (Drug)) | Director, Air Force Studies And Analyses, Assessments And Lessons Learned
| Principle Deputy Director, Studies And Analyses, Assessments And Lessons Learned
Air Logistics Center, Ogden | Deputy Director, 309th Maintenance Wing
| Director, Engineering
| Executive Director
Air Logistics Center, Oklahoma City | Deputy Director, 76th Maintenance Wing
| Director, 448th Combat Sustainment Wing
| Director, Contracting
| Director, Engineering And Technical Management
| Executive Director
Air Logistics Center, Warner Robins | Deputy Director, 402nd Maintenance Wing
| Director, Contracting
| Director, Engineering And Afso21 Advisor
| Executive Director
Air Mobility Command | Deputy Director Of Logistics
| Deputy Director, Installations And Mission Support
Air Vehicles Directorate | Associate Director For Air Platforms
Auditor General | Auditor General Of The Air Force
Civil Engineer | Deputy Civil Engineer
Contracting | Director, Contracting
Department Of The Air Force | Director Of Air Operations And Executive Director Of The Department Of Defense Policy Board On Federal Aviation And Deputy Director Of Operations
| Director Of Communications And Information
| Director, Air Force Culture, Region And Language Program Office
| Director, Installations, Logistics And Mission Support
Deputy Chief Of Staff For Intelligence, Surveillance And Reconnaissance | Director Of Intelligence, Surveillance, And Reconnaissance (ISR) Innovations And Unmanned Aerial Systems (UAS) Task Force
Deputy Chief Of Staff, Air And Space Operations | Associate Deputy Chief Of Staff Operations, Plans And Requirements
| Deputy Director Of Operational Planning, Policy, And Strategy
| Deputy For Operations And Training, Airspace, Ranges And Airfield Operations
| Director Of Weather
Deputy Chief Of Staff, Installations And Logistics | Assistant Deputy Chief Of Staff, Installation And Logistics
| Deputy Director, Security Forces
Deputy Chief Of Staff, Personnel | Assistant Deputy Chief Of Staff Personnel
| Deputy Director, Force Management Policy
| Deputy Director Of Services
| Deputy Director, Air Force Manpower, Organization And Resources
| Director Of Services
| Director, Airman Development And Sustainment
| Director, Plans And Integration
Deputy Chief Of Staff, Plans And Programs | Assistant Deputy Chief Of Staff, Strategic Plans And Programs
| Associate Director, Programs
| Deputy Director Of Strategic Planning
Deputy Chief Of Staff, Warfighting Integration | Assistant Deputy Chief Of Staff For Warfighting Integration
| Deputy Director, Information Services And Integration
| Director, Air Force Global Cyberspace Integration Center
| Director, Architecture And Operational Support Modernization
| Special Assistant, Chief Warfighting Integration And Chief Information Officer
Deputy Under Secretary (International Affairs) | Deputy Under Secretary (International Affairs)
| Director Of Policy, International Affairs
Directed Energy Directorate | Director, Directed Energy
Directorate Of Space And Nuclear Deterrence | Associate Director, Nuclear Weapons And Counter proliferation
| Deputy Assistant Chief Of Staff, Strategic Deterrence And Nuclear Integration
Electronic Systems Center | Director, Engineering
| Director, Network Centric Operations And Integration Systems Wing
| Executive Director
Engineering And Technical Management | Director, Engineering And Technical Management
Engineering Directorate | Director, Engineering
Financial Management And Comptroller | Deputy Director, Financial Management And Comptroller
Human Effectiveness Directorate | Director, Human Effectiveness Directorate
Information Directorate | Director Information
Innovation And Transformation | Director, Innovation And Transformation
Joint Staff | President, Joint Special Operations University
Judge Advocate General | Director, Administrative Law
Logistics | Deputy Director For Depot Maintenance
Logistics Readiness | Deputy Director Of Logistics Readiness
Maintenance | Deputy Director Of Maintenance
Materials And Manufacturing Directorate | Director, Materials And Manufacturing
Office Deputy Assistant Secretary Budget | Deputy For Budget
| Director, Budget Investment
| Director, Budget Management And Execution
Office Deputy Assistant Secretary Contracting | Associate Deputy Assistant Secretary (Contracting)
Office Deputy Assistant Secretary Cost And Economics | Associate Deputy Assistant Secretary (Cost And Economics)
| Deputy Assistant Secretary (Cost And Economics)
Office Deputy Assistant Secretary Financial Operations | Associate Deputy Assistant Secretary (Financial Operations And Technology)
| Deputy Assistant Secretary (Financial Operations)
Office Deputy Assistant Secretary Installations | Deputy Assistant Secretary (Installations)
Office Of Administrative Assistant To The Secretary | Administrative Assistant
| Deputy Administrator Assistant
| Director, Headquarters Air Force Information Management
Office Of Assistant Secretary Air Force For Acquisition | Associate Deputy Assistant Secretary (Contracting)
| Associated Deputy Assistant Secretary (Acquisition Integration)
| Deputy Air Force Program Executive Officer (Combat And Mission Support)
| Deputy Assistant Secretary (Management Policy And Program Integration)
| Deputy Assistant Secretary (Science, Technology And Engineering)
| Director, Information Dominance Programs
Office Of Assistant Secretary Air Force For Financial Management And Comptroller | Director, Air Force Financial Services Center
Office Of Assistant Secretary Air Force, Installations, Environment, And Logistics | Deputy Assistant Secretary (Logistics)
Office Of Small And Disadvantaged Business Utilization | Director, Office Of Small And Disadvantaged Business Utilization
Office Of The Chief Of Staff | Deputy Director Of Staff
| Director, Air Force History And Museums Policy And Programs
| Director, Quadrennial Defense Review Organization
Office Of The General Counsel | Deputy General Counsel (Acquisition)
| Deputy General Counsel (Installations And Environmental Law)
| Deputy General Counsel (International Affairs)
Office Of The Secretary | Deputy And Technical Director, Rapid Capabilities Office
| Director Of Staff, Legislative Liaison
| Director, Air Force Rapid Capabilities Office
Office Of The Under Secretary | Deputy Under Secretary Of The Air Force (Space Programs)
| Special Assistant To The Administrative Assistant To The Secretary
Operations Directorate | Deputy Director Of Operations
Requirements | Deputy Director Capabilities Integration
Resources | Chief, Weapon Systems Sustainment Division
| Deputy Director Of Resources
Sensors Directorate | Director Sensors
Space Vehicles Directorate | Associate Director For Space Technology
Staff Judge Advocate | Principal Deputy Staff Judge Advocate
Standard Systems Center | Director Headquarters 754th Electronic Systems Group
Test And Evaluation | Deputy Director, Test And Evaluation
| Director, Test And Evaluation
United States Africa Command | Director For Resources
United States Central Command | Deputy Director Of Operations Interagency Action Group (IAG)
| Deputy Director, Logistics And Engineering
| Director Of Resources, Requirements, Budget And Assessment
| Director, Interagency Task Force—Irregular Warfare
United States Northern Command | Deputy Commander, Joint Forces Headquarters—National Capital Region
| Director, Interagency Coordination
| Director, Joint Exercises And Training
| Director, Programs And Resources
United States Special Operations Command | Deputy For Acquisition
| Director And Chief Information Officer For Special Operations Networks And Communications Center
| Director Of Acquisitions
| Director, Financial Management And Comptroller
| Director, Plans, Policy And Strategy
| Program Executive Officer For Mobility
United States Strategic Command | Associate Director Capability And Resource Integration
| Deputy Director, Plans And Policy
| Director, Capability And Resource Integration
| Director, Global Innovation Strategy Center
| Director, Joint Exercises And Training
United States Transportation Command | Deputy Director Of Command, Control Communications, And Computer Systems
| Deputy Director, Command, Control, Communications, And Computer Systems Directorate
| Deputy Director, Strategies And Policy
| Deputy For Military Surface Deployment And Distribution Command
| Director, Acquisition
| Director, Program Analysis And Financial Management
Department Of The Army:
Army Acquisition Executive | Deputy Joint Program Executive Office, Joint Tactical Radio System
| Deputy Program Executive Officer Ammunition
| Deputy Program Executive Officer For Soldier
| Deputy Program Executive Officer Missiles And Space
| Deputy Program Executive Officer, Air And Missile Defense
| Deputy Program Executive Officer, Combat Support And Combat Service Support
| Deputy Program Executive Officer, Command Control And Communications Tactical
| Deputy Program Executive Officer, Ground Combat Systems
| Deputy Program Executive Officer, Tactical Missiles
| Deputy Program Manager (Operations) Program Manager Unit Of Action
| Director, Combined Test Organization, Program Manager, Future Combat System (Brigade Combat Team)
| Program Executive Officer Aviation
| Program Executive Officer Enterprise Information Systems
| Program Executive Officer Simulation, Training And Instrumentation
| Program Executive Officer, Ammunition
| Program Executive Officer, Ground Combat Systems
| Program Executive Officer, Intelligence, Electronic Warfare And Sensors
Army Audit Agency | Deputy Auditor General, Acquisition And Logistics Audits
| Deputy Auditor General, Forces And Financial Audits
| Deputy Auditor General, Policy And Operations Management
| Principal Deputy Auditor General
| The Auditor General
Army Contracting Agency | Deputy Director Army Contracting Command
| Director, Information Technology, Electronic Commerce And Contracting Center
| Director, Northern Region, United States Army Contracting Agency
| Director, Southern Region, United States Army Contracting Agency
Army Research Institute (Deputy Chief Of Staff For Personnel, Field Operating Agency) | Technical Director
Army Research Office | Director, Army Research Office
| Director, Engineering Sciences Directorate
| Director, Physical Sciences Directorate
Aviation Research, Development And Engineering Center | Associate Director For Technical Applied/Director Of Special Program
| Director Of Advanced Systems/Associate Director For Technology
| Director Of Aero flight Dynamics
| Director Of Aviation Engineering
Chief Information Officer/G-6 | Deputy Chief Information Officer/G-6
| Director For Army Architecture Integration Cell
| Director, Governance, Acquisition/Chief Knowledge Officer
Cold Regions Research And Engineering Laboratory Hanover, New Hampshire | Director, Cold Regions Research And Engineering Laboratory
Communications Electronics Command Research, Development And Engineering Center | Director Research, Development And Engineering/Army Systems Engineer
| Director, Command, Control And System Integration Directorate
| Director, Intelligence And Information Warfare Directorate
| Director, Software Engineering Directorate
| Director, Space And Terrestrial Committee Directorate
| Director-Night Vision/Electromagnetic Sensors Directorate
Computational And Information Sciences Directorate | Deputy Director
Construction Engineering Research Laboratory Champaign, Illinois | Director, Construction Engineering Research Laboratories
Department Of The Army | Assistant Deputy Chief Of Staff, G-6
| Deputy G-5/7 For Operations And Plans
| Deputy Joint Program Executive Officer For Chemical And Biological Defense
| Deputy Program Executive Officer (Simulation, Training And Instrumentation)
| Deputy Program Executive Officer, Enterprise Information Systems
| Deputy Program Executive Officer, Intelligence, Electronic Warfare And Sensors
| Deputy To The Commanding General Of The Family, Morale, Welfare And Recreation Command
| Director Of Resource Integration
| Director, Soldier and Family Legal Services
| Executive Director Us Army Information Technology Agency
| Executive Director, U.S. Army Headquarters Services
Directorate Of Civil Works | Chief, Engineering And Construction Community Of Practice
| Chief, Operations Division And Regulatory Community Of Practice
| Chief, Planning And Policy Division/Community Of Practice
| Chief, Programs Management Division
| Director Of Civil Works
Directorate Of Military Programs | Chief, Environmental Community Of Practice
| Chief, Installation Support Division
| Chief, Interagency And International Services Division
| Director Of Military Programs
Directorate Of Research And Development | Deputy Director
Directors Of Engineering And Technical Services | Regional Business Director
Directors Of Programs Management | Division Programs Director
Engineer Research And Development Center | Deputy Director Engineer Research And Development Center
| Director Geotechnical And Structures Laboratory
| Director, Coastal And Hydraulics Laboratory
| Director, Environmental Laboratory
Engineer Topographic Laboratories, Center Of Engineers | Director
Headquarters, United States Army, Europe | Assistant Deputy Chief Of Staff Engineer For Engineering And Housing
| Deputy Chief Of Staff G-8
| Deputy Chief Of Staff, G1
| Deputy Director, Logistics And Security Assistance
| Director European Security And Defense Policy Defense Advisor To US Mission EU
Military Surface Deployment Distribution Command | Deputy To The Commander, Surface Deployment And Distribution Command
| Executive Director, Transportation Engineering Agency/Director Joint Distribution Process Analysis Center
Missile Research Development And Engineering Center (Research Development And Engineering Center) | Associate Director For Aviation And Missile Systems
| Director For Aviation Development
| Director For Missile Guidance
| Director For Systems Simulation And Development
| Technology Director For Missiles And Development, Research, Development And Engineering Center
Natick Soldier Center | Director, Natick Soldier Center
Office Administrative Assistant To The Secretary Of Army | Administrative Assistant To The Secretary Of The Army
| Deputy Administrative Assistant To The Secretary Of The Army/Director For Shared Services
| Executive Director, Us Army Resources And Program Agency
Office Assistant Secretary Army (Acquisition, Logistics And Technology) | Deputy Assistant Secretary For Research And Technology/Chief Scientist
| Deputy Assistant Secretary Of The Army (Elimination Of Chemical Weapons)
| Deputy Assistant Secretary Of The Army (Policy And Procurement)
| Deputy Assistant Secretary Of The Army For Integrated Logistics Support
| Deputy Assistant Secretary Of The Army For Plans, Programs And Resources
| Deputy Program Executive Officer, Missiles And Space (Fires)
| Deputy Program Manager (Platform) Program Manager Future Combat System (Brigade Combat Team)
| Director For Research And Laboratory Management
| Director For Technology
| Director, Army Contracting Agency
| Special Assistant To The Assistant Secretary Of Army (Acquisition, Logistics And Technology)
Office Assistant Secretary Army (Civil Works) | Deputy Assistant Secretary Of The Army (Management And Budget)
Office Assistant Secretary Army (Financial Management And Comptroller) | Deputy Assistant Secretary Of The Army (Cost And Economics)
| Deputy Assistant Secretary Of The Army (Financial Operations)
| Deputy Director And Senior Advisor For Army Budget (DDSA (Budget))
| Director For Business Resources
| Director Of Investment
| Director Of Management And Control
| Director Of Operations And Support
| Director, Financial Information Management
| Director, Programs And Strategy
Office Assistant Secretary Army (Installations And Environment) | Deputy Assistant Secretary Of The Army (Strategic Infrastructure)
Office Assistant Secretary Army (Manpower And Reserve Affairs) | Deputy Assistant Secretary Of The Army (Army Review Boards Agency)
| Deputy Assistant Secretary Of The Army (Civilian Personnel/Quality Of Life)
| Deputy Assistant Secretary Of The Army (Equal Employment Opportunity And Civil Rights
| Deputy Assistant Secretary Of The Army (Personnel Strategy Planning)
| Deputy Assistant Secretary Of The Army Personnel Oversight
| Director, Reserve Affairs Integration Office
Office Deputy Commanding General | Executive Deputy To The Commanding General
Office Deputy Under Secretary Of Army (Operations Research) | Assistant Deputy Under Secretary Of The Army For Operations Research
| Director Civilian Senior Leader Management Office
Office Of Deputy Chief Of Staff For Logistics And Operations | Deputy Chief Of Staff G-5 For Strategy And Concepts
| Deputy G-3 For Enterprise Integration
| Director Army Single Stock Fund/Director Army Materiel Command Logistics Systems And Processes
| Principal Deputy G-3 For Operations/Executive Deputy, Supply Chain And Industrial Operations
Office Of Deputy Chief Of Staff For Personnel | Deputy Chief Of Staff For Personnel
Office Of The Deputy Chief Of Staff For Resource Management | Assistant Deputy Chief Of Staff For Resource Management/Executive Director For Business
| Deputy Chief Of Staff For Resource Management
Office Of The General Counsel | Deputy General Counsel (Ethics And Fiscal)
Office Of The Inspector General | Principal Director For Inspections
Office Of The Secretary | Director, Human Capital Strategy/Deputy To Deputy Under Secretary Of The Army
| Director, Test And Evaluation Office
Office Of The Surgeon General | Chief Of Staff, Health System Admin
Office Of The Under Secretary | Special Assistant To The Under Secretary Of The Army
Office, Assistant Chief Of Staff For Installation Management | Chief Information Technology Officer (Oacsim/Imcom)
| Deputy Assistant Chief Of Staff For Installation Management
| Director Installation Services
| Directors Of Logistics
| Executive Director/Director Of Services
| Regional Director (Europe)
| Regional Director (Northeast)
| Regional Director (Pacific)
| Regional Director (Southeast)
| Regional Director (West)
Office, Chief Army Reserve | Assistant Chief Of The Army Reserve
| Director Of Resource Management
Office, Chief Of Public Affairs | Principal Deputy Chief Of Public Affairs/Director, Soldiers Media Center
Office, Chief Of Staff | Director, Enterprise Systems Technology Activity
Office, Deputy Chief Of Staff, G-4 | Director, Logistics Innovation Agency
| Assistant Deputy Chief Of Staff, G-4
| Director For Maintenance Policy, Programs And Processes
| Director For Supply Policy, Programs And Processes
| Director, Force Projection And Distribution
Office, Deputy Chief Of Staff, G-1 | Assistant Deputy Chief Of Staff, G-1
| Assistant Deputy Chief Of Staff, G-1 (Advisory)
| Assistant G-1 (Civilian Personnel Policy)
| Deputy Assistant G-1 (Civilian Personnel Policy)
| Director For Manprint Directorate
| Director Of Army Personnel Transformation
| Director Of Plans, Resources And Operations
| Director, Military Human Resources Integration
| Director, United States Army Research Institute And Chief Psychologist
Office, Deputy Chief Of Staff, G-3 | Assistant Deputy Chief Of Staff For Operations
| Deputy Director For Force Management
| Deputy Director For Plans And Policy
| Director, Army Model And Simulation Office
| Director, Human Resources Policies (Military)
| Technical Advisor To The Deputy Chief Of Staff, G-3
Office, Deputy Chief Of Staff, G-8 | Assistant Deputy Chief Of Staff, G-8
| Director Of Modernization
Research, Development And Engineering Command | Deputy To The Commander
Sensors And Electron Devices Directorate | Director
Survivability/Lethality Analysis Directorate | Director, Survivability/Lethality Analysis Directorate
Tank-Automotive And Armaments Command (Tank-Automotive And Armaments Command) | Deputy To The Commander
| Director Of Acquisition Center
| Director, Integrated Logistics Support Center
Tank-Automotive Research, Development And Engineering Center (Tank-Automotive Research, Development And Engineering Center) | Director
| Executive Director For Engineering
| Executive Director For Product Development
| Executive Director For Research And Technical Director
Training And Doctrine Command Analysis Center | Director
| Director Of Operations
U.S. Army Test And Evaluation Command | Director Of Test Management, Developmental Test Command
| Director, Army Evaluation Center
| Executive Director, Operational Test Command
| Executive Director—White Sands
U.S. Army Training And Doctrine Command (Tradoc) | Assistant Deputy Chief Of Staff For Combat Development
| Assistant Deputy Chief Of Staff G-3/5/7, Tradoc/Dep G-3 For Training
| Deputy Chief Of Staff G-1/4 (Personnel And Logistics)
| Deputy To The Commanding General Fires/Director, Capabilities, Development And Integration
| Deputy To The Commanding General, Combined Arms Center
| Deputy To The Commanding General, Combined Arms Support Command
| Deputy To The Commanding General, Signal Center Of Excellence
| Director, Capabilities Development And Integration
| President, Army Civilian University
United States Army Armament Research, Development And Engineering Center (Armament Research, Development And Engineering Center) | Director For Armament Research, Development And Engineering
| Executive Director, Enterprise And Systems Integration Center
United States Army Aviation And Missile Command (Army Materiel Command) | Deputy To The Commander
| Director For Engineering
| Director For Test Measurement Diagnostic Equipment Activity
| Executive Director Acquisition Center
| Executive Director Integrated Material Management Center
| Executive Director, Acquisition Center
| Executive Director, Aviation And Missile Command G-3 (Operations)
| Executive Director, Integrated Materiel Management Center
United States Army Communications Election Command (Communications Election Command) | Deputy To The Commander
| Director, Communications Election Command Acquisition Center
United States Army Corps Of Engineers | Chief Military Programs Integration Division
| Director Of Contracting
| Director Of Corporate Information
| Director Of Human Resources
| Director Of Resource Management
| Director, Information Technology Laboratory
| Director, Real Estate
| Director, Research And Development And Director, Engineering Research And Development Center
| Director, Task Force Hope
| Division Programs Director
| Regional Business Director
United States Army Forces Command | Assistant Deputy Chief Of Staff For Logistics And Readiness
| Assistant Deputy Chief Of Staff G-3/5/7
| Assistant Deputy Chief Of Staff, G1
| Chief Executive Officer
| Deputy Chief Of Staff For Resource Management
United States Army Materiel Command | Deputy Chief Of Staff For Business Transformation, G-7
| Deputy Chief Of Staff For Corporate Information/Chief Information Officer
| Deputy G-3 For Current Operations
| Deputy G-3 For Support Operations
| Deputy To The Commanding General/Director Logistics And Readiness Center
| Director For Contracting
| Director, Chemical Materials Agency
| Director, Communications-Electronics Life Cycle Management Command Logistics And Readiness Center
| Executive Director, Munitions Engineering Technology Center, ARDEC
| Executive Director, Weapons And Software Engineer Center
United States Army Materiel Systems Analysis Activity | Chief, Combat Integration Division
| Director, Army Materiel Systems Analysis Activity
United States Army Medical Research And Materiel Command | Principal Assistant For Acquisition
| Principal Assistant For Research And Technology
United States Army Military District Of Washington | Director Of Cemetery Operations
United States Army Network Enterprise Technology Command/9th Army Signal Command | Deputy To Commander/Senior Technical Director/Chief Engineer
United States Army Research Laboratory | Director United States Army Research Laboratory
| Director, Computational And Information Sciences Directorate
United States Army Security Assistance Command | Deputy
United States Army Simulation, Training And Instrumentation Command | Deputy To The Commander
United States Army Soldier And Biological Command (Soldier And Biological Command) | Director For Programs Integration
| Director, Engineering Directorate
| Director, Research And Technology Directorate
| Executive Director, Research Development And Engineering Command, Acquisition Center
| Technical Director
United States Army Space And Missile Defense Command | Deputy To The Commander, Research, Development And Acquisition
| Director, Advanced Technology Directorate
| Director, Space And Missile Defense Battle Laboratory
| Director, Technology Integration And Interoperability For Space And Missile Defense
| Principal Assistant Responsible For Contracting
| Special Assistant To Commander United States Army Space And Missile Defense Command
United States Army Sustainment Command | Deputy To The Commander
| Director Of Acquisition Center
| Executive Director For Ammunition
| Executive Director For Logcap
United States European Command | Director, Joint Interagency Coordination Group
United States Southern Command | Deputy Director Strategy And Policy
| Director Enterprise Support (ESD)
| Executive Director For Resources And Assessments
US Army Medical Department Center And School | Deputy To The Commanding General
Weapons And Material Research Directorate | Director
Department Of The Interior:
Assistant Secretary—Indian Affairs | Director Of Human Capital Management
Assistant Secretary—Policy, Management And Budget | Assistant Director For Economics
| Associate Director For Financial Policy And Operations
| Associate Director For Financial Reporting And Systems
| Chief Division Of Budget And Program Review
| Deputy Assistant Secretary—Budget And Business Management
| Deputy Assistant Secretary—Law Enforcement, Security And Emergency Management
| Deputy Chief Human Capital Officer
| Director, Office Of Financial Management And Deputy Chief Financial Officer
| Director, Office Of Human Resources
| Director, Office Of Law Enforcement And Security
| Geospatial Information Officer
| Manager, Science And Engineering
Bureau Of Indian Affairs | Deputy Director, Field Operations
Field Offices | Deputy Assistant Director, Fire And Aviation At National Interagency Fire Center (Nifc)
| Deputy Associate Director For Minerals Revenue Management
| Director, Management Services Office
| Director, Technical Services Center
| Park Manager Everglades
| Park Manager—Independence National Historic Park
| Park Manager—Yellowstone (Superintendent)
| Park Manager—Yosemite (Superintendent)
| Program Director For Asset Management
| Program Director For Audit And Compliance Management
| Regional Director
| Regional Director, Alaska Outer Continental Shelf Region
| Regional Director, Central Region
| Regional Director, Eastern Region
| Regional Director, Gulf Of Mexico Outer Continental Shelf Region
| Regional Director, Western Region
| Regional Executive—Alaska
| Regional Executive—Midwest
| Regional Executive—North Central
| Regional Executive—Northeast
| Regional Executive—Northwest
| Regional Executive—Rocky Mountain
| Regional Executive—Southeast
| Regional Executive—Southwest
| Superintendent (Park Manager), Everglades National Park
Minerals Management Service | Associate Director For Policy And Management Improvement
| Chief, Offshore Engineering And Operations Division
| Program Director For Financial And Program Management
National Park Service | Financial Advisor (Comptroller)
| Park Manager—Grand Canyon
Office Of Hearings And Appeals | Director, Office Of Hearings And Appeals
Office Of The Inspector General | Assistant Inspector General For Administrative Services And Information Management
| Assistant Inspector General For Auditing
| Assistant Inspector General For Investigations
| Chief Information Officer
| Deputy Assistant Inspector General For Administrative Services And Information Management
| Deputy Assistant Inspector General For Audits
| Deputy Assistant Inspector General For Investigations
| Deputy Inspector General
Office Of The Solicitor | Associate Solicitor For Administration
| Deputy Associate Solicitor, Division Of Land And Water Resources
| Deputy Associate Solicitor, General Law
| Deputy Associate Solicitor—Mineral Resources
| Deputy Associate Solicitor, Division Of Parks And Wildlife
| Designated Agency Ethics Official
| Director, Indian Trust Litigation Office
United States Fish And Wildlife Service | Chief, Office Of Law Enforcement
United States Geological Survey | Associate Chief Biologist For Information
| Associate Director For Administrative Policy And Services
| Associate Director For Biology
| Associate Director For Geographic Information
| Associate Director For Geography
| Associate Director For Geology
| Associate Director For Human Capital
| Associate Director For Water
| Chief Scientist For Biology
| Chief Scientist For Geography
| Chief Scientist For Geology
| Chief Scientist For Hydrology
| Chief, Geospatial Information, Integration And Analysis
| Chief, Office Of Budget And Performance
| Deputy Associate Director For Geospatial Information
| Deputy Director, United States Geological Survey
| Director, Office Of Communications And Outreach
| Executive Advisor For Land Imaging
| Regional Executive—South Central
Department Of The Interior Office Of The Inspector General:
Office Of Audits, Inspections, And Evaluations | Assistant Inspector General For Audits, Inspections, And Evaluations
| Deputy Assistant Inspector General For Compliance And Finance
Office Of General Counsel | General Counsel
Office Of Information Technology | Assistant Inspector General For Information Technology
Office Of Investigations | Assistant Inspector General For Investigations
Office Of Management | Assistant Inspector General For Management
| Deputy Assistant Inspector General For Management
Office Of Recovery And Accountability | Assistant Inspector General For Recovery Oversight
Office Of The Inspector General | Chief Of Staff
| Deputy Inspector General
Department Of The Navy:
Bureau Of Medicine And Surgery | Comptroller/Deputy Chief Of Staff For Resource Management
| Director, Total Force
Chief Of Naval Operations | Assistant Deputy Chief Of Naval Operations (Integration Of Capabilities And Resources) N8b
| Assistant Deputy Chief Of Naval Operations (Logistics)
| Assistant Deputy Chief Of Naval Operations (Manpower And Personnel)
| Associate Director, Assessment Division
| Deputy Director Chief Of Naval Operations (Communications And Networks)
| Deputy Director For Strategy And Policy
| Deputy Director, Environmental Readiness Division
| Director, Information Technology Governance And Information Resource Management
| Director, Logistics Planning And Innovation
| Director, Naval History And Heritage Command
| Director, Special Programs Division
| Director, Strategic Sealift Division
| Financial Manager And Chief Resources Officer For Manpower, Personnel, Training And Education
| Head, Campaign Analysis Branch
| Special Assistant To Principal Deputy Undersecretary Of Defense (Personnel And Readiness)
| Technical Director, Oceanographer Of The Navy
Commander, Naval Air Forces | Executive Director, Naval Air Forces
Commander, Naval Expeditionary Combat Command | Executive Director, Navy Expeditionary Combat Command
Commander, Naval Surface Forces | Executive Director, Naval Surface Forces
Commander, Navy Installations Command | Comptroller
| Counsel, Commander Navy Installations Command
| Deputy Commander
| Deputy Regional Commander (Mid-Atlantic)
| Director, Total Force Manpower
| Region Executive Director
Commander, Submarine Forces | Executive Director, Submarine Forces
Fleet And Industrial Supply Centers | Deputy Commander, Fleet And Industrial Supply Centers
Marine Corps Logistics Command Albany, Georgia | Executive Deputy, Marine Corps Logistics Command
Marine Corps Systems Command | Deputy Commander, Command, Control, Communications, Computer, Intelligence, Surveillance And Reconnaissance
| Deputy For Financial Management
| Executive Director
Military Sealift Command | Comptroller
| Counsel, Military Sealift Command
| Director, Strategic Sealift And Propositioning
| Executive Director
Naval Air Systems Command Headquarters | Assistant Commander For Contracts
| Assistant Commander For Acquisition Processes And Execution
| Assistant Commander, Corporate Operations And Total Force
| Command Information Officer
| Comptroller
| Counsel, Naval Air Systems Command
| Deputy Assistant Commander For Logistics And Industrial Operations
| Deputy Assistant Commander For Research And Engineering
| Deputy Commander, Naval Air Systems Command
| Deputy Counsel, Office Of Counsel
| Director Industrial Operations
| Director, Air Anti-Submarine Warfare, Assault And Special Mission Programs Contracts Department
| Director, Air Platform Systems
| Director, Air Vehicles And Unmanned Air Vehicles
| Director, Aviation Readiness And Resource Analysis
| Director, Avionics Department
| Director, Cost Analysis Department
| Director, Design Interface And Maintenance Planning
| Director, Enterprise Analysis And Planning
| Director, Logistics Management Integration
| Director, Propulsion And Power
| Director, Strike Weapons, Unmanned Aviation, Naval Air Programs Contracts Department
| Director, Systems Engineering Department
| Director, Tactical Aircraft And Missiles Contracts Department
| Principal Assistant For Air Warfare Acquisition Analysis And Planning
Naval Air Warfare Center Aircraft Division | Deputy Assistant Commander For Test And Evaluation/Executive Director Naval Air Warfare Center Aircraft Division/Director, Test And Evaluation (NAWCAD)
| Director, Aircraft Launch And Recovery Equipment/Support Equipment
| Director, Battle space Simulation
| Director, Flight Test Engineering
| Director, Integrated Systems Evaluation Experimentation And Test Department
Naval Air Warfare Center Training Systems Division | Director, Human Systems Department
Naval Air Warfare Center Weapons Division, China Lake, California | Director, Electronic Warfare/Combat Systems
| Director, Range Department
| Director, Software Engineering
| Director, Weapons And Energetics Department
| Executive Director, Naval Air Warfare Center Weapons Division/Director, Research Engineering
Naval Criminal Investigative Service | Criminal Investigator, Deputy Director For Management And Administration
| Criminal Investigator, Deputy Director, Naval Criminal Investigative Service
| Criminal Investigator, Director, Naval Criminal Investigative Service
| Criminal Investigator, Executive Assistant Director For Atlantic Operations
| Criminal Investigator, Executive Assistant Director For Counterterrorism
| Criminal Investigator, Executive Assistant Director For Pacific Operations
| Criminal Investigator, Executive Assistant Director For Criminal Investigations
Naval Facilities Engineering Command | Chief Engineer
| Comptroller
| Counsel, Naval Facilities Engineering Command
| Director of Assets Management
| Director Of Contracts Support
| Director Of Environment
| Director, Navy Crane Center
| Director, Special Venture Acquisition
| Executive Director
Naval Inventory Control Point | Vice Commander, Naval Inventory Control Point
Naval Meteorology And Oceanography Communications, Stennis Space Center, Mississippi | Technical/Deputy Director
Naval Research Laboratory | Associate Director Of Research For Business Operations
| Associate Director Of Research For Material Science And Component Technology
| Associate Director Of Research For Ocean And Atmospheric Science And Technology
| Associate Director Of Research For Systems
| Chief Scientist, Laboratory For Computational Physics And Fluid Dynamics
| Chief Scientist, Laboratory For Structure Of Matter
| Director Of Research
| Director, Naval Center For Space Technology
| Superintendent, Acoustics Division
| Superintendent, Center For Bio-Molecular Science And Engineering
| Superintendent, Chemistry Division
| Superintendent, Electronics Science And Technology Division
| Superintendent, Information Technology Division
| Superintendent, Marine Geosciences Division
| Superintendent, Marine Meteorology Division
| Superintendent, Materials Science And Technology Division
| Superintendent, Oceanography Division
| Superintendent, Optical Sciences Division
| Superintendent, Radar Division
| Superintendent, Remote Sensing Division
| Superintendent, Space Sciences Division
| Superintendent, Space Systems Development Department
| Superintendent, Spacecraft Engineering Department
| Superintendent, Tactical Electronic Warfare Division
| Superintendent, Plasma Physics Division
Naval Sea Systems Command | Assistant Deputy Commander, Regional Maintenance Centers
| Assistant Deputy Commander For Industrial Operations
| Assistant Deputy Commander, Maintenance, Modernization, Environment And Safety
| Command Information Officer
| Counsel, Naval Sea Systems Command
| Deputy Commander, Corporate Operations Directorate
| Deputy Commander, Human Systems Integration Directorate
| Deputy Commander/Comptroller
| Deputy Counsel, Naval Sea Systems Command
| Deputy Director For Advanced Submarine Reactor Servicing And Spent Fuel Management
| Deputy Director, Advanced Aircraft Carrier System Division
| Deputy Director, Advanced Undersea Systems Program Office
| Deputy Director, Environmental Health And Safety
| Deputy For Weapons Safety
| Director For Aircraft Carrier Design And Systems Engineering
| Director For Contracts
| Director For Machinery Systems
| Director For Ship Survivability And Structural Integrity
| Director For Submarine/Submersible Design And Systems Engineering
| Director For Surface Ship Design And Systems Engineering
| Director Of Radiological Controls
| Director, Cost Engineering And Industrial Analysis
| Director, Fleet Readiness Division
| Director, Nuclear Components Division
| Director, Office Of Resource Management
| Director, Reactor Materials Division
| Director, Reactor Plant Components And Auxiliary Equipment Division
| Director, Reactor Refueling Division
| Director, Reactor Safety And Analysis Division
| Director, Shipbuilding Contracts Division
| Director, Surface Ship Systems Division
| Director, Surface Systems Contracts Division
| Director, Undersea Systems Contracts Division
| Executive Director
| Executive Director For Logistics Maintenance And Industrial Operations Directorate
| Executive Director, Ship Design, And Engineering Directorate
| Executive Director, Surface Warfare Directorate
| Executive Director, Undersea Warfare Directorate
| Executive Director, Warfare Systems Engineering/Battle Force Systems Engineer
| Head, Advanced Reactor Branch
| Program Manager For Commissioned Submarines
Naval Shipyards | Naval Shipyard Nuclear Engineering And Planning Manager, Norfolk Naval Shipyard
| Nuclear Engineering And Planning Manager, Puget Sound Naval Shipyard
| Nuclear Engineering And Planning Manager; Pearl Harbor Naval Shipyard
| Nuclear Engineering And Planning Manager; Portsmouth Naval Shipyard
Naval Supply Systems Command Headquarters | Command Information Officer
| Counsel, Naval Supply Systems Command
| Deputy Commander, Corporate Operations
| Deputy Commander, Financial Management/Comptroller
| Director, Defense Technology Analysis Office
| Executive Director, Office Of Special Projects
| Senior Acquisition Logistician/Enterprise Resource Planning Program Manager
| Vice Commander
Naval Surface Warfare Center | Technical Director
Naval Surface Warfare Center, Carderock Division | Division Technical Director, Naval Surface Warfare Center, Carderock Division
Naval Surface Warfare Center, Corona Division | Division Technical Director, Naval Surface Warfare Center, Corona Division
Naval Surface Warfare Center, Crane Division | Division Technical Director, Naval Surface Warfare Center, Crane Indiana
Naval Surface Warfare Center, Dahlgren Division | Division Technical Director Naval Surface Warfare Center Panama City Division
| Division Technical Director, Naval Surface Warfare Center, Dahlgren Division
| Expeditionary Combat And National Response Mission Enterprise Executive
| Surface Warfare Enterprise Executive
Naval Surface Warfare Center, Indian Head Division | Aviation Enterprise Executive
| Division Technical Director, Naval Surface Warfare Center, Indian Head Division
Naval Surface Warfare Center, Port Hueneme Division | Division Technical Director Naval Surface Warfare Center Port Hueneme Division
Naval Undersea Warfare Center | Division Technical Director Naval Undersea Warfare Center
| Technical Director
| Undersea Enterprise Executive
Naval Undersea Warfare Center Division, Keyport, Washington | Division Technical Director, Naval Undersea Warfare Center, Keyport Division
Naval Undersea Warfare Center Division, Newport, Rhode Island | Corporate Business Executive
| Netwar/Forcenet Enterprise Executive
Navy Recruiting Command | Deputy Commander, Navy Recruiting Command
| Director, Research, Modeling And Analysis Division
Office Assistant Secretary Of Navy (Energy, Installations And Environment) | Assistant General Counsel (Installations And Environment)
| Director, Joint Guam Program Office
| Program Manager, Base Realignment And Closure Management Office
Office Assistant Secretary Of The Navy (Research, Development And Acquisition) | Assistant General Counsel (Research, Development And Acquisition)
| Chief Of Staff/Policy
| Chief Of Staff/Policy
| Chief Systems Engineer
| Deputy Assistant Secretary Of The Navy (Ships)
| Deputy For Test And Evaluation
| Director, Program Analysis And Business Transformation
| Executive Director (Integrated Warfare Systems)
| Executive Director, Navy International Programs Office
| Principal Civilian Deputy Assistant Secretary Of The Navy (Acquisition Workforce)
Office Of Civilian Human Resources | Director, Human Resources Operations And Customer Engagement
| Director, Human Resources Policy And Program Department
| Director, Human Resources Systems, Processes And Productivity
| Director, Office Of Civilian Human Resources
Office Of Commander, United States Fleet Forces Command/Joint Forces Command | Chief Of Staff
| Deputy Commander, Naval Network Warfare Command
| Deputy Director, Fleet Readiness And Training
| Deputy Director, Fleet Warfare Programs
| Deputy Director, Joint Operations And Global Force Management
| Deputy For Naval Air And Missile Defense Command
| Director, Fleet Manpower And Personnel
| Director, Joint Deployment, Employment, And Sustainment
| Director, Joint Prototype Pathway
| Enterprise Business Director
| Executive Director Joint Capability Development (Forward)
| Executive Director, Joint Futures Lab
| Executive Director, Joint Requirements And Integration Directorate
| Executive Director, Joint Warfare Analysis Center
| Executive Director, Joint Warfighting Center
Office Of Naval Research | Comptroller
| Counsel, Office Of Naval Research
| Director For Aerospace Science Research Division
| Director Of Innovation
| Director Of Transition
| Director, Electronics, Sensors, And Networks Research Division
| Director, Hybrid Complex Warfare Sciences Division
| Director, Life Sciences Research Division
| Director, Mathematical, Computer, And Information Sciences Division
| Director, Ocean, Atmosphere And Space Science And Technology Processes And Prediction Division
| Director, Ship Systems And Engineering Division
| Director, Undersea Weapons And Naval Materials Science And Technology Division
| Executive Director
| Executive Director For Acquisition Management
| Head, Air Warfare And Weapons Science And Technology Department
| Head, Command, Control, Communications, Intelligence, Surveillance, And Reconnaissance (C4isr) Science And Technology Department
| Head, Expeditionary Warfare And Combating Terrorism Science And Technology Department
| Head, Ocean, Battle space Sensing Science And Technology Department
| Head, Sea Warfare And Weapons Science And Technology Department
| Head, War fighter Performance Science And Technology Department
| Patent Counsel Of The Navy
Office Of The Assistant Secretary Of Navy (Financial Management And Comptroller) | Assistant General Counsel (Financial Management And Comptroller)
| Associate Director, Office Of Budget/Fiscal Management Division
| Deputy Assistant Secretary Of The Navy For Cost And Economics
| Deputy Assistant Secretary Of The Navy For Financial Operations
| Director, Budget And Policy And Procedures Division
| Director, Civilian Resources And Business Affairs Division
| Director, Investment And Development Division
| Director, Program/Budget Coordination Division
| Principal Deputy Assistant Secretary Of The Navy (Financial Management And Comptroller)
Office Of The Assistant Secretary Of Navy (Manpower And Reserve Affairs) | Assistant General Counsel (Manpower And Reserve Affairs)
| Deputy Assistant Secretary Of The Navy (Civilian Human Resources)
| Deputy Assistant Secretary Of The Navy (Reserve Affairs)
Office Of The Auditor General | Assistant Auditor General For Financial Management And Comptroller Audits
| Assistant Auditor General For Installation And Environment Audits
| Assistant Auditor General For Manpower And Reserve Affairs Audits
| Assistant Auditor General For Research, Development, Acquisition And Logistics Audits
| Auditor General Of The Navy
| Deputy Auditor General Of The Navy
Office Of The Commander, United States Pacific Command | Chief Information Officer
| Director For Forces Resources And Management
Office Of The Commander, United States Pacific Fleet | Deputy Director, Fleet Maintenance
| Deputy For Naval Air And Missile Defense Command
| Deputy For Naval Mine And Anti-Submarine Warfare Command
| Executive Director, Fleet Command, Control, Communications And Computer Systems And Command Information Officer
| Executive Director, Pacific Fleet Plans And Policy
| Executive Director, Total Force Management
Office Of The General Counsel | Assistant General Counsel (Intelligence Law)
| Special Counsel For Litigation
Office Of The Naval Inspector General | Deputy Naval Inspector General
Office Of The Secretary | Director, Office Of Program And Process Assessment
| Director, Sexual Assault Prevention And Response
Office Of The Under Secretary Of The Navy | Assistant Deputy Chief Management Officer
| Assistant For Administration
| Deputy Assistant For Administration
| Director, Maritime Domain Awareness
| Director, Navy Energy Office
| Principal Deputy Under Secretary Of The Navy (Boat Operations And Transformation)
| Senior Director For Intelligence
| Senior Director For Policy
| Senior Director, Operations Integration Group
Program Executive Officers | Deputy Program Executive Officers Air Assault And Special Mission
| Deputy Program Executive Officers For Space Systems And Executive Director, Space And Naval Warfare Systems Command, Space Field Activity
| Deputy Program Executive Officers For Strike Weapons
| Deputy Program Executive Officers For Tactical Air Programs
| Deputy Program Executive Officer For Unmanned Aviation
| Director For Above Water Sensors Directorate
| Director For Integrated Combat Systems For Integrated Warfare Systems
| Executive Director, Amphibious, Auxiliary And Sealift Ships, Program Executive Officers Ships
| Executive Director, Combatants, Program Executive Officers Ships
| Executive Director, Program Executive Officer Littoral And Mine Warfare
| Executive Director, Program Executive Office Submarines
| Executive Director, Program Executive Officers For Aircraft Carriers
| Executive Director, Program Executive Officers For Integrated Warfare Systems
| Joint Program Executive Officers For Joint Tactical Radio Systems
| Program Executive Officer For Air Anti-Submarine Warfare, Assault And Special Mission Programs
| Program Executive Officer For Command, Control, Communications, Computers And Intelligence (C4i)
| Program Executive Officer, Land Systems
| Program Executive Officers, Littoral And Mine And Warfare
| Technical Director, Program Executive Officer, Submarines
Space And Naval Warfare Systems Center | Director, Science, Technology, And Engineering
| Executive Director
| Head Communication And Information Systems Department
| Head Intelligence, Surveillance, And Reconnaissance Department
| Head, Command And Control Department
| Head, Research And Applies Sciences Department
Space And Naval Warfare Systems Center, Charleston | Technical Director
Space And Naval Warfare Systems Command | Comptroller, Business Resources Manager
| Counsel, Space And Naval Warfare Systems Command
| Deputy Chief Engineer
| Deputy Commander
| Director, Contracts
| Director, Corporate Operations/Command Information Officer
| Director, Readiness/Logistics Directorate
Strategic Systems Programs | Assistant For Missile Engineering Systems
| Assistant For Missile Production, Assembly And Operations
| Assistant For Shipboard Systems
| Assistant For Systems Integration And Compatibility
| Branch Head Reentry Systems Branch
| Branch Head, Reentry Systems Branch
| Chief Engineer
| Counsel, Strategic Systems Programs
| Director, Plans And Programs Division
| Head, Resources Branch (Comptroller) And Deputy Director, Plans And Program Division
| Principal Deputy, Strategic Systems Programs
| Technical Plans And Payloads Integration Officer
United States Marine Corps Headquarters Office | Assistant Deputy Commandant For Manpower And Reserve Affairs
| Assistant Deputy Commandant For Plans, Policies And Operations (Security)
| Assistant Deputy Commandant For Programs And Resources
| Assistant Deputy Commandant For Programs And Resources (Resources)/Director, Fiscal Division
| Assistant Deputy Commandant, Installations And Logistics
| Assistant Deputy Commandant, Installations And Logistics (E-Business And Contracts)
| Counsel For The Commandant
| Deputy Assistant Deputy Commandant Installations And Logistics (Facilities)
| Deputy Counsel For The Commandant
| Director, Manpower Plans And Policy Division
| Director, Program Assessment And Evaluation Division
| Marine Corps Business Enterprise Director
Department Of The Treasury:
Alcohol And Tobacco Tax And Trade Bureau | Administrator, Alcohol And Tobacco Tax And Trade Bureau
| Assistant Administrator Information Resources/Chief Information Officer
| Assistant Administrator, Field Operations
| Assistant Administrator, Headquarter Operations
| Assistant Administrator, Management/Chief Financial Officer
| Deputy Administrator, Alcohol And Tobacco Tax And Trade Bureau
Assistant Secretary (Tax Policy) | Deputy Director And Chief Economist
| Director, Economic Modeling And Computer Applications
Assistant Secretary For Intelligence And Analysis | Deputy Assistant Secretary For Security
Assistant Secretary For Management | Deputy Chief Financial Officer
| Director, Office Of Procurement
Assistant Secretary For Terrorist Financing | Director, Executive Office For Asset Forfeiture
Bureau Of The Public Debt | Assistant Commissioner (Financing)
| Assistant Commissioner (Office Of Information Technology)
| Assistant Commissioner (Office Of Management Services)
| Assistant Commissioner (Office Of Retail Securities)
| Assistant Commissioner (Public Debt Accounting)
| Commissioner Of The Public Debt
| Deputy Assistant Commissioner (Financing)
| Deputy Assistant Commissioner (Office Of Information Technology)
| Deputy Commissioner Of The Public Debt
| Deputy Executive Director, Administrative Resources Center
| Executive Director (Administrative Resource Center)
| Executive Director, Government Securities Regulations
| Senior Advisor
Financial Crimes Enforcement Network | Associate Director, Analysis And Liaison Division
| Associate Director, International
| Associate Director, Management Programs Division
| Associate Director, Regulatory Policy And Programs Division
| Associate Director, Technology Solutions And Services Division/Chief Information Officer
| Chief Counsel, Financial Crimes Enforcement Network
| Deputy Associate Director, Compliance And Enforcement Programs
| Deputy Director, Administration
| Director, Financial Crimes Enforcement Network
| Executive Advisor
Financial Management Service | Assistant Commissioner, Debt Management Services
| Assistant Commissioner, Federal Finance
| Assistant Commissioner, Financial Operations
| Assistant Commissioner, Governmentwide Accounting
| Assistant Commissioner, Governmentwide Accounting Operations
| Assistant Commissioner, Information Resources
| Assistant Commissioner, Management (Chief Financial Officer)
| Assistant Commissioner, Payment Management
| Assistant Commissioner, Regional Operations
| Commissioner, Financial Management Service
| Comptroller/Deputy Chief Financial Officer
| Deputy Assistant Commissioner, Governmentwide Accounting
| Deputy Assistant Commissioner, Payment Management
| Deputy Chief Information Officer
| Deputy Commissioner, Financial Management Service
| Director, Birmingham Debt Management Operations Center
| Director, Cash Management Enterprise Architecture
| Director, Cash Management Infrastructure Group
| Director, Information Services Directorate
| Director, Regional Financial Center (Austin)
| Director, Regional Financial Center (Kansas City)
| Director, Regional Financial Center (Philadelphia)
| Director, Regional Financial Center (San Francisco)
| Director, Revenue Collection Group
Fiscal Assistant Secretary | Deputy Assistant Secretary (Accounting Policy)
| Deputy Assistant Secretary For Fiscal Operations And Policy
| Fiscal Assistant Secretary
Inspector General | Assistant Inspector General For Audit
| Assistant Inspector General For Investigations
| Assistant Inspector General For Management Services
| Counsel To The Inspector General
| Deputy Assistant Inspector General For Audit (Financial Management)
| Deputy Assistant Inspector General For Audit (Program Audits)
| Deputy Assistant Inspector General For Investigations
| Senior Technical Advisor To The Inspector General
Internal Revenue Service | Accounts Management Field Director
| Accounts Management Field Director—Andover
| Accounts Management Field Director, Austin—Wage And Investment
| Accounts Management Field Director, Fresno
| Accounts Management Field Director, Fresno—Wage And Investment
| Accounts Management Field Director
| Area Director Of Information Technology
| Area Director, Field Assistance
| Area Director, Field Assistance (San Francisco)—Wage And Investment
| Area Director, Information Technology
| Area Director, Southeast
| Area Director, Stakeholder Partnership Education And Communication
| Area Director, Stakeholder, Partnership, Education And Communication
| Area Director, Stakeholder, Partnership, Education And Communications—New Orleans
| Area Director, Stakeholder, Partnership, Education, And Communication, Dallas—Wage And Investment
| Area Director, Western
| Assistant Deputy Commissioner For Operations Support
| Assistant Deputy Commissioner For Services And Enforcement
| Assistant To Director, Real Estate And Facilities Management
| Associate Chief Financial Officer For Corporate Performance Budgeting
| Associate Chief Financial Officer For Corporate Planning And Internal Control
| Associate Chief Financial Officer For Corporate Strategy
| Associate Chief Financial Officer For Internal Financial Management—National Headquarters
| Associate Chief Financial Officer For Revenue And Financial Management
| Associate Chief Information Officer For Enterprise Operations
| Associate Chief Information Officer For Information Technology Services
| Associate Chief Information Officer For Management And Finance
| Associate Chief Information Officer, Applications Development
| Associate Chief Information Officer, Cybersecurity
| Associate Chief Information Officer, End User Equipment And Services
| Associate Chief Information Officer, Enterprise Networks
| Associate Chief Information Officer, Strategy And Planning
| Business Modernization Executive
| Chief Financial Officer, Internal Revenue Service
| Chief Human Capital Officer, Internal Revenue Service
| Chief Information Officer
| Chief Of Staff, Internal Revenue Service
| Chief, Agency-Wide Shared Services
| Chief, Communications And Liaison
| Chief, Criminal Investigation
| Chief, Equal Employment Opportunity And Diversity
| Chief, Information Technology Services
| Chief, Management And Finance—Large And Mid Size Business
| Chief, Mission Assurance And Security Services
| Commissioner, Large And Mid-Sized Business Division
| Commissioner, Small Business And Self Employed
| Commissioner, Tax Exempt And Government Entities Division
| Commissioner, Wage And Investment
| Compliance Service Field Director
| Compliance Service Field Director—Kansas City
| Compliance Service Field Director—Philadelphia
| Compliance Service Field Director, Andover—Wage And Investment
| Compliance Service Field Director, Austin—Wage And Investment
| Compliance Service, Field Director—Atlanta
| Counselor
| Deputy Associate Chief Information Officer
| Deputy Associate Chief Information Officer For Cybersecurity
| Deputy Associate Chief Information Officer, Applications Development
| Deputy Associate Chief Information Officer, Business Systems Development
| Deputy Associate Chief Information Officer, End User Equipment And Services
| Deputy Associate Chief Information Officer, Enterprise Operations
| Deputy Associate Commissioner, Systems Integration
| Deputy Chief Financial Officer
| Deputy Chief Human Capital Officer, Internal Revenue Service
| Deputy Chief Information Officer For Operations
| Deputy Chief Of Staff
| Deputy Chief, Agency wide Shared Services
| Deputy Chief, Criminal Investigation
| Deputy Chief, Mission Assurance And Security Services
| Deputy Commissioner (Operations)
| Deputy Commissioner For Operations, Wage And Investment
| Deputy Commissioner For Support, Wage And Investment
| Deputy Commissioner, Large And Mid-Size Business, International
| Deputy Commissioner, Operations Support
| Deputy Commissioner, Services And Enforcement
| Deputy Commissioner, Small Business/Self-Employed
| Deputy Director, Accounts Management
| Deputy Director, Appeals
| Deputy Director, Business Systems Development Division
| Deputy Director, Customer Account Data Engine
| Deputy Director, Customer Relationships And Integration
| Deputy Director, Electronic Tax Administration
| Deputy Director, Electronic Tax Administration And Refund Credits
| Deputy Director, Employment, Talent, And Security
| Deputy Director, Enterprise Operations Services
| Deputy Director, Field Assistance
| Deputy Director, Field Specialists
| Deputy Director, Office Of Professional Responsibility
| Deputy Director, Operation Standards
| Deputy Director, Prefiling And Technical Guidance
| Deputy Director, Procurement
| Deputy Director, Program Management
| Deputy Director, Submission Processing
| Deputy Director, Submission Processing, Cincinnati—Small Business And Self Employed
| Deputy Director, Taxpayer Education And Communication
| Deputy Director, Test Assurance And Documentation
| Deputy Division Commissioner
| Deputy Division Commissioner, Tax Exempt And Government Entities
| Deputy Division Counsel #2 (Operations)/Small Business And Self Employed
| Deputy National Taxpayer Advocate
| Director Of Compliance, Atlanta—Wage And Investment
| Director Of Field Operations
| Director Of Field Operations (Southeast Area)—Criminal Investigation
| Director Of Field Operations, New York—Large And Mid Size Business
| Director Of Research
| Director, Abusive Transactions
| Director, Accounts Management, Wage And Investment
| Director, Advisory, Insolvency And Quality
| Director, Appeals Policy And Valuation
| Director, Burden Reduction And Compliance Strategies
| Director, Business Rules And Requirements Management
| Director, Business Systems Modernization Acquisition
| Director, Business Systems Planning
| Director, Business Systems Planning—Large And Mid-Size Business
| Director, Campus Collection Compliance
| Director, Campus Compliance Services
| Director, Campus Reporting Compliance
| Director, Capital Planning And Investment
| Director, Centers Of Excellence
| Director, Change Management And Release Management
| Director, Client Services Division
| Director, Collection
| Director, Collection Area
| Director, Collection Business Reengineering
| Director, Collection Policy
| Director, Communication, Assistance, Research And Education
| Director, Communications, Liaison And Disclosure
| Director, Communications, Technology And Media Industry—Large And Mid Size Business
| Director, Competitive Sourcing
| Director, Compliance, Detroit—Small Business And Self Employed
| Director, Compliance Area
| Director, Compliance Area—Denver, Small Business And Self Employed
| Director, Compliance Area, Baltimore—Small Business And Self Employed
| Director, Compliance Area, Dallas—Small Business And Self Employed
| Director, Compliance Area, Oakland—Small Business And Self-Employed
| Director, Compliance Campus Operations
| Director, Compliance Services Campus Operations
| Director, Compliance Systems Division
| Director, Contact Center Support Division
| Director, Continuity Operations
| Director, Corporate Data
| Director, Corporate Data And Systems Management Division
| Director, Correspondence Production Services
| Director, Criminal Investigation Technology Operations And Investigative Services
| Director, Customer Account Manager
| Director, Customer Account Services—Wage And Investment
| Director, Customer Applications Development
| Director, Customer Relationship And Integration
| Director, Cyber Security Operations
| Director, Cyber Security Policy And Programs
| Director, Data Strategy Implementation
| Director, Delivery Management
| Director, Detroit Computing Center
| Director, Development Services
| Director, Earned Income And Health Coverage Tax Credits
| Director, E-File Systems
| Director, Electronic Tax Administration
| Director, Emergency Management Programs
| Director, Employee Plan Determination Letter Redesign
| Director, Employee Plans
| Director, Employee Plans, Rulings, And Agreements
| Director, Employee Support Services
| Director, Employment, Talent, And Security
| Director, Enforcement
| Director, Enterprise Computing Centers
| Director, Enterprise Operations Services
| Director, Enterprise Voice Networks
| Director, Equal Employment Opportunity And Diversity
| Director, Examination Area
| Director, Examination Area, Boston
| Director, Examination Operations Support
| Director, Examination Planning And Delivery
| Director, Examination Policy
| Director, Exempt Organizations
| Director, Exempt Organizations Examinations
| Director, Exempt Organizations, Rulings And Agreements
| Director, Field Assistance—Wage And Investment
| Director, Field Assistance Area
| Director, Field Assistance Area (Phoenix)—Wage And Investment
| Director, Field Operations
| Director, Field Operations (Financial Services), Laguna Niguel
| Director, Field Operations East
| Director, Field Operations West, Appeals
| Director, Field Operations, Communications, Technology And Media—Large And Mid-Size Business
| Director, Field Operations, East, Appeals
| Director, Field Operations, Special—Wage And Investment
| Director, Field Operations—Financial Services
| Director, Field Operations—Heavy Manufacturing And Transportation
| Director, Field Operations—Natural Resources And Construction
| Director, Field Specialists—Large And Mid Size Business
| Director, Filing And Payment Compliance
| Director, Filing Systems
| Director, Financial Management Services
| Director, Fraud/Bank Secrecy Act
| Director, Global High Wealth Industry
| Director, Government Entities
| Director, Heavy Manufacturing And Transportation
| Director, Human Resources—Small Business And Self Employed
| Director, Human Resources—Wage And Investment
| Director, Individual Master File
| Director, Individual Master Files
| Director, Information Technology Infrastructure
| Director, Information Technology Security Engineering
| Director, Information Technology Services
| Director, Infrastructure Architecture And Engineering
| Director, Internal Management
| Director, Internal Management Systems Development Division
| Director, International Compliance, Strategy, And Policy
| Director, Internet Development Services
| Director, Joint Operations Center
| Director, Leadership And Education
| Director, Legislative Affairs Division
| Director, Management And Support
| Director, Management Services
| Director, Management Services And Security
| Director, Media And Publications
| Director, Media And Publications Distribution Division
| Director, Mission Assurance
| Director, Network Architecture, Engineering, And Voice
| Director, Office Of Communications
| Director, Office Of Privacy And Information Protection
| Director, Office Of Privacy, Information Protection And Data Security
| Director, Office Of Professional Responsibility
| Director, Office Of Program Evaluation And Risk Analysis
| Director, Office Of Taxpayer Burden
| Director, Online Fraud Detection And Prevention
| Director, Operational Assurance
| Director, Operational Readiness
| Director, Operational Security Program
| Director, Operations Policy And Support
| Director, Performance, Quality And Innovation—Large And Mid Size Business
| Director, Personnel Policy
| Director, Personnel Security
| Director, Personnel Services
| Director, Planning And Analysis
| Director, Planning, Research And Analysis
| Director, Portal Program Management
| Director, Portfolio Management
| Director, Pre-Filing And Technical Guidance
| Director, Procurement
| Director, Product And Partnership Development
| Director, Product Assurance
| Director, Professional Responsibility
| Director, Program Analysis Customer Account Services—Wage And Investment
| Director, Program Control And Process Management
| Director, Program Integration
| Director, Program Management And Technology
| Director, Project Services
| Director, Real Estate And Facilities Management
| Director, Refund Crimes
| Director, Regulatory Compliance
| Director, Reporting Compliance
| Director, Research
| Director, Research, Analysis And Statistics Of Income
| Director, Retail, Food, Pharmaceutical, And Health Care
| Director, Safety And Security
| Director, Security Policy, Support And Oversight
| Director, Service Delivery Management
| Director, Special Programs And Oversight
| Director, Specialty Programs
| Director, Stakeholder Liaison Field
| Director, Stakeholder, Partnership, Education And Communications
| Director, Stakeholder, Partnerships, Education, And Communications
| Director, Statistics
| Director, Strategic Planning And Program Management
| Director, Strategic Services
| Director, Strategy And Capital Planning
| Director, Strategy And Finance
| Director, Strategy And Finance—Wage And Investment
| Director, Strategy And Finance, Appeals
| Director, Strategy And Resource Management
| Director, Strategy, Criminal Investigations
| Director, Strategy, Program Management And Personnel Security
| Director, Strategy, Research And Performance Management
| Director, Strategy, Research And Program Planning
| Director, Submission Processing
| Director, Submission Processing (Cincinnati)—Wage And Investment
| Director, Tax Exempt Bonds
| Director, Tax Forms And Publications
| Director, Taxpayer Education And Communication—Small Business And Self Employed
| Director, Taxpayer Education And Communication Area, St Louis—Small Business And Self Employed
| Director, Taxpayer Education And Communication Field Operations
| Director, Taxpayer Education Area—Los Angeles
| Director, Taxpayer Education Area, Chicago—Small Business And Self Employed
| Director, Technical Services
| Director, Technical Systems Software
| Director, Test Assurance And Documentation
| Director, Treaty Administration And Tax Advisory Services
| Director, Whistleblower Office
| Director, Workforce Progression And Management
| Director, Workforce Relations
| Division Information Officer—Large And Mid Size Business
| Executive Director, Case Advocacy
| Executive Director, Systemic Advocacy—National Taxpayer Advocate
| Field Director, Accounts Management
| Field Director, Accounts Management, Wage And Investment
| Industry Director—Financial Services—Large And Mid Size Business
| Information Technology Manager, Policy And Planning
| Modernization Executive
| National Director Of Appeals
| Project Director
| Project Director—Appeals
| Project Director—Small Business And Self Employed
| Project Director (Business Requirements)
| Project Director (Small Business And Self Employed) Transition Executive)
| Project Director, Collection
| Project Director, Customer Account Data Engine
| Project Director, Employee Tax Compliance
| Project Director, National Research Study Project
| Project Director, Office Of Professional Responsibility
| Project Director, Private Debt Collection
| Project Director, Security And Law Enforcement
| Project Director, Taxpayer Communication
| Project Director, Technology Operations And Investigative Services
| Project Director, Workforce Of Tomorrow
| Project Manager
| Senior Advisor To Associate Chief Information Officer (Enterprise Network)
| Senior Advisor To The Deputy Commissioner (Operations Support)
| Senior Advisor To The Deputy Commissioner For Services And Enforcement
| Senior Advisor, Information Systems Current Processing Environment Security
| Senior Advisor, Operational Information
| Senior Counselor To The Commissioner (Tax Administration, Practice And Professional Responsibility)
| Special Agent In Charge
| Special Agent In Charge—Criminal Investigation
| Special Agent In Charge, Los Angeles
| Special Assistant To The Associate Chief Information Officer For Applications Development
| Special Assistant To The Deputy Commissioner For Services And Enforcement
| Submission Processing Field Director
| Submission Processing Field Director—Andover
| Submission Processing Field Director—Atlanta
| Submission Processing Field Director—Austin
| Submission Processing Field Director—Fresno, California
| Submission Processing Field Director—Philadelphia
| Supervisory Criminal Investigator (Project Director)
Internal Revenue Service Chief Counsel | Area Counsel (Large And Mid Size Business) (Area 2) (Heavy Manufacturing, Construction And Transportation)
| Area Counsel (Large And Mid Size Business) (Area 4) (Natural Resources)
| Area Counsel (Large And Mid Size Business) (Area 5) (Communications, Technology, And Media)
| Area Counsel (Large And Mid-Size Business) (Area 1) (Financial Services And Health Care)
| Area Counsel (Small Business And Self Employed)—Chicago
| Area Counsel (Small Business And Self Employed)—Dallas
| Area Counsel (Small Business And Self Employed)—Denver
| Area Counsel (Small Business And Self Employed)—Jacksonville
| Area Counsel (Small Business And Self Employed)—Los Angeles
| Area Counsel (Small Business And Self Employed)—New York
| Area Counsel (Small Business And Self Employed)—Philadelphia
| Area Counsel (Small Business And Self Employed) (Area 7)
| Area Counsel, Large And Mid Size Business (Area 3) (Food, Mass Retailers, And Pharmaceuticals)
| Area Counsel, Small Business And Self Employed, Area 9
| Assistant Chief Counsel (Administrative Provisions And Judicial Practice)
| Assistant Chief Counsel (Collection, Bankruptcy And Summonses)
| Assistant Chief Counsel (Disclosure And Privacy Law)
| Assistant Chief Counsel (Employee Benefits)
| Assistant Chief Counsel (Exempt Organizations, Employment Tax, And Government Entities)
| Assistant Chief Counsel (International) (Litigation)
| Associate Chief Counsel (Corporate)
| Associate Chief Counsel (Finance And Management)
| Associate Chief Counsel (Financial Institutions And Products)
| Associate Chief Counsel (General Legal Services)
| Associate Chief Counsel (Income Tax And Accounting)
| Associate Chief Counsel (International)
| Associate Chief Counsel (Pass-through And Special Industries)
| Associate Chief Counsel (Procedure And Administration)
| Associate Chief Counsel/Operating Division Counsel (Tax Exempt And Government Entities)
| Deputy Associate Chief Counsel #1 (Income Tax And Accounting)
| Deputy Associate Chief Counsel #1 (Pass-through And Special Industries)
| Deputy Associate Chief Counsel #2 (Income Tax And Accounting)
| Deputy Associate Chief Counsel (Corporate)
| Deputy Associate Chief Counsel (Finance And Management)
| Deputy Associate Chief Counsel (Financial Institutions And Products)
| Deputy Associate Chief Counsel (General Legal Services)
| Deputy Associate Chief Counsel (General Legal Services) (Labor And Personnel Law)
| Deputy Associate Chief Counsel (International Field Service And Litigation)
| Deputy Associate Chief Counsel (International Technical)
| Deputy Associate Chief Counsel (Procedure And Administration)
| Deputy Associate Chief Counsel (Strategic International Programs)
| Deputy Associate Chief Counsel #2 (Pass-through And Special Industries)
| Deputy Chief Counsel (Operations)
| Deputy Chief Counsel (Technical)
| Deputy Division Counsel (Large And Mid-Size Business)
| Deputy Division Counsel (Small Business And Self Employed)
| Deputy Division Counsel (Technical), Large And Mid-Size Business
| Deputy Division Counsel And Deputy Associate Chief Counsel (Tax Exempt And Government Entities)
| Deputy Division Counsel/Deputy Assistant Chief Counsel (Criminal Tax)
| Director, Employee Plans Examinations
| Division Counsel (Large And Mid-Size Business)
| Division Counsel (Small Business And Self Employed)
| Division Counsel (Wage And Investment)
| Division Counsel/Associate Chief Counsel (Criminal Tax)
| Senior Counsel To The Chief Counsel (Legislation)
| Special Counsel To The Chief Counsel
| Special Counsel To The National Taxpayer Advocate
Treasury Inspector General For Tax Administration | Assistant Inspector General For Audit (Headquarters Operations)
| Assistant Inspector General For Audit (Information Systems Programs)
| Assistant Inspector General For Audit (Small Business And Corporate Entities)
| Assistant Inspector General For Audit (Wage And Investment)
| Assistant Inspector General For Investigation
| Assistant Inspector General For Investigations (Field Operations)
| Associate Inspector General For Mission Support
| Counsel To The Treasury Inspector General For Tax Administration
| Deputy Assistant Inspector General For Investigations
| Deputy Inspector General
| Deputy Inspector General For Audit
| Deputy Inspector General For Inspections And Evaluations
| Deputy Inspector General For Investigations
United States Mint | Associate Director For Information Technology (Chief Information Officer)
| Associate Director For Manufacturing
| Associate Director For Policy And Management/Chief Financial Officer
| Associate Director For Sales And Marketing
| Plant Manager
| Plant Manager, Philadelphia
| Senior Advisor
Department Of The Treasury Office Of The Inspector General:
Immediate Office | Deputy Inspector General
Office Of Audit | Assistant Inspector General For Audit
Department Of The Treasury Special Inspector General For The Troubled Asset Relief Program | Chief Counsel For SIGTARP's
| Deputy Special Inspector General Operations
| Deputy Special Inspector General, Investigations
Department Of The Treasury Tax Administration Office Of The Inspector General | Assistant Inspector General Compliance And Enforcement Operations
| Assistant Inspector General For Audit
| Assistant Inspector General For Investigations
| Assistant Inspector General Management And Exempt Organizations
| Assistant Inspector General Management Planning And Workforce Development
| Assistant Inspector General Returns Processing And Accounting Services
| Associate Inspector General For Mission Support
| Chief Counsel
| Chief Information Officer
| Deputy Assistant Inspector General For Investigations
| Deputy Inspector General For Audit
| Deputy Inspector General For Inspections And Evaluations
| Deputy Inspector General For Investigations
| Principal Deputy Inspector General
Department Of Transportation:
Administrator | Assistant Administrator/Chief Safety Officer
| Chief Financial Officer
| Director Of Innovative Program Delivery
| Executive Director
Assistant Inspector General For Acquisition And Procurement Audits | Assistant Inspector General For Acquisition And Procurement Audits
Assistant Inspector General For Aviation And Special Program Audits | Assistant Inspector General For Aviation And Special Program Audits
| Deputy Assistant Inspector General For Aviation And Special Program Audits
Assistant Inspector General For Financial And Information Technology Audits | Assistant Inspector General For Financial And Information Technology Audits
Assistant Inspector General For Highway And Transit Audits | Assistant Inspector General For Highway And Transit Audits
| Deputy Assistant Inspector General For Highway And Transit Audits
Assistant Inspector General For Investigations, National Operations And Programs | Assistant Inspector General For Investigations, National Operations And Programs
| Executive Director, Washington Investigative Operations
Assistant Inspector General For Maritime Program Audits And Economic Analysis | Assistant Inspector General For Rail And Maritime Program Audits And Economic Analysis
Assistant Secretary For Administration | Assistant Secretary For Administration
Assistant Secretary For Budget And Programs | Chief Financial Officer
| Deputy Chief Financial Officer
Associate Administrator For Administration And Finance | Director, Office Of Financial Management/Deputy Chief Financial Officer
Associate Administrator For Business And Workforce Development | Associate Administrator For Ship Analysis And Cargo Preference
Associate Administrator For Enforcement | Associate Administrator For Enforcement
| Director, Office Of Defects Investigation
| Director, Office Of Vehicle Safety Compliance
Associate Administrator For Environment And Compliance | Associate Administrator For Environment And Compliance
| Deputy Associate Administrator For Environment And Compliance
Associate Administrator For Railroad Safety | Associate Administrator For Railroad Safety/Chief Safety Officer
Associate Administrator For Safety | Associate Administrator For Safety
Immediate Office Of The Administrator | Deputy Assistant Administrator/Deputy Chief Safety Officer
Office Of Acquisition Management | Director, Office Of Acquisition Management
Office Of Bus And Truck Standards And Operations | Director, Office Of Bus And Truck Standards And Operations
Office Of Chief Safety Officer | Assistant Administrator And Chief Safety Officer
Office Of Economic, Environmental Analysis And Administration | Director Of Economic, Environmental Analysis And Administration
Office Of Enforcement And Compliance | Director, Office Of Enforcement And Compliance
Office Of Inspector General | Assistant Inspector General For Administration
| Assistant Inspector General For Legal, Legislative And External Affairs
| Deputy Inspector General
Office Of Intelligence, Security And Emergency Response | Deputy Director
| Director, Office Of Intelligence, Security And Emergency Response
Office Of Pipeline Safety | Associate Administrator For Pipeline Safety
| Deputy Associate Administrator For Field Operations
| Deputy Associate Administrator For Policy And Programs
Office Of Real Estate Services | Director, Office Of Real Estate Services
Office Of Safety Assurance And Compliance | Director, Office Of Safety Assurance And Compliance
Office Of Safety Research And Development | Director, Office Of Safety Research, Development And Technology
Office Of Safety, Energy And Environment | Director
Office Of The Chief Financial Officer | Chief Financial Officer
| Deputy Chief Financial Officer And Chief Budget Officer
Office Of The Senior Procurement Executive | Senior Procurement Executive
Principal Assistant Inspector General For Auditing And Evaluation | Principal Assistant Inspector General For Auditing And Evaluation
Proceedings | Deputy Director—Legal Analysis
Department Of Transportation Office Of The Inspector General:
Assistant Inspector General For Acquisition And Procurement Audits | Assistant Inspector General For Acquisition And Procurement Audits
Assistant Inspector General For Administration | Assistant Inspector General For Administration
Assistant Inspector General For Amtrak, High Speed Rail And Economic Analysis | Assistant Inspector General For Amtrak, High Speed Rail And Economic Analysis
Assistant Inspector General For Aviation And Special Program Audits | Assistant Inspector General For Aviation And Special Program Audits
Assistant Inspector General For Financial And Information Technology Audits | Assistant Inspector General For Financial And Information Technology Audits
Assistant Inspector General For Legal, Legislative And External Affairs | Assistant Inspector General For Legal, Legislative And External Affairs
Assistant Inspector General For Special Investigations And Analysis | Assistant Inspector General For Special Investigations And Analysis
Assistant Inspector General For Surface And Maritime Program Audits | Assistant Inspector General For Surface And Maritime Program Audits
Deputy Assistant Inspector General For Aviation And Special Program Audits | Deputy Assistant Inspector General For Aviation And Special Program Audits
Deputy Assistant Inspector General For Surface And Maritime Program Audits | Deputy Assistant Inspector General For Surface And Maritime Program Audits
Deputy Inspector General | Deputy Inspector General
Principal Assistant Inspector General For Auditing And Evaluation | Principal Assistant Inspector General For Auditing And Evaluation
Principal Assistant Inspector General For Investigations | Principal Assistant Inspector General For Investigations
Department Of Veterans Affairs:
Board Of Veterans' Appeals | Director, Management, Planning And Analysis
| Principal Deputy Vice Chairman
| Vice Chairman
Department Of Veterans Affairs | Regional Counsel
National Cemetery Administration | Director, Office Of Finance And Planning
Office Of Acquisition And Materiel Management | Associate Deputy Assistant Secretary For Acquisitions
| Associate Deputy Assistant Secretary For Program Management And Operations
| Deputy Assistant Secretary For Acquisition And Materiel Management
| Executive Director, Center For Acquisition Innovation
| Executive Director/Chief Operating Officer
Office Of Acquisitions, Logistics And Construction | Associate Chief Facilities Management Officer For Resource Management
| Associate Chief Facilities Management Officer For Service Delivery
| Associate Chief Facilities Management Officer For Strategic Management
| Director, Construction And Facilities Management
| Executive Director
Office Of Asset Enterprise Management | Deputy Director, Asset Enterprise Management
Office Of Business Oversight | Director, Office Of Business Oversight
Office Of Emergency Management | Deputy Assistant Secretary For Emergency Management
Office Of Finance | Associate Deputy Assistant Secretary For Financial Systems And Operations
| Director, Financial Services Center
Office Of Human Resources Management | Associate Deputy Assistant Secretary For Human Resources Policy And Planning
Office Of Operations, Security And Preparedness | Director For Security And Law Enforcement
Office Of The Assistant Secretary For Information And Technology | Associate Deputy Assistant Secretary For Cyber Security
| Associate Deputy Assistant Secretary For Finance (Information Technology)
| Associate Deputy Assistant Secretary For Human Resources Career Development
| Associate Deputy Assistant Secretary For Information Technology Operations
| Associate Deputy Assistant Secretary For Policy, Portfolio Oversight And Execution
| Associate Deputy Assistant Secretary For Privacy And Records Management
| Deputy Assistant Secretary For Information Technology Resource Management
| Director, Veterans Affairs Automation Center, Austin, Texas
| Executive Director For Business Operations
| Executive Director For Quality And Performance
| Executive Director Oversight And Compliance
Office Of The Assistant Secretary For Management | Deputy Program Manager (Financial Systems)
| Principal Deputy Assistant Secretary For Management
| Program Manager (Financial Systems)
Office Of The General Counsel | Regional Counsel
Office Of The Inspector General | Assistant Inspector General For Auditing
| Assistant Inspector General For Healthcare Inspections
| Assistant Inspector General For Investigations
| Assistant Inspector General For Management And Administration
| Associate Director Of Medical Consultation And Review
| Counselor To The Inspector General
| Deputy Assistant Inspector General For Auditing
| Deputy Assistant Inspector General For Healthcare Inspections
| Deputy Assistant Inspector General For Investigations
| Deputy Assistant Inspector General For Management And Administration
| Deputy Inspector General
| Director Of Medical Consultation And Review
Office Of The Secretary And Deputy | Director, Office Of Employment Discrimination Complaint Adjudication
| Executive Director
Veterans Benefits Administration | Chief Financial Officer
| Deputy Chief Financial Officer
| Deputy Director For Operations
| Deputy Director For Policy And Procedures
Veterans Health Administration | Associate Chief Financial Officer For Core Financial And Logistics System And Decision Support Systems
| Associate Chief Information Officer Implementation And Training Services
| Chief Financial Officer
| Chief Operating Officer
| Chief Prosthetics And Clinical Logistics Officer
| Deputy Chief Financial Officer
| Deputy Chief Procurement Officer
| Director Veterans Canteen Service
| Director, Office Of Compliance And Business Integrity
| Financial Manager
Department Of Veterans Affairs Office Of The Inspector General:
Immediate Office Of The Inspector General | Counselor To The Inspector General
| Deputy Inspector General
Office Of The Assistant Inspector General For Audits And Evaluations | Assistant Inspector General For Audits And Evaluations
| Deputy Assistant Inspector General For Auditing
| Deputy Assistant Inspector General For Audits And Evaluations (Headquarters Management And Inspections)
Office Of The Assistant Inspector General For Healthcare Inspections | Assistant Inspector General For Healthcare Inspections
| Deputy Assistant Inspector General For Healthcare Inspections
| Medical Officer (Deputy Director Of Medical Consultation And Review)
| Medical Officer (Director Of Medical Consultation And Review)
Office Of The Assistant Inspector General For Investigations | Assistant Inspector General For Investigations
| Deputy Assistant Inspector General For Investigations (Headquarters Operations)
| Deputy Inspector General For Investigations (Field Operations)
Office Of The Assistant Inspector General For Management And Administration | Assistant Inspector General For Management And Administration
| Deputy Assistant Inspector General For Management And Administration
Environmental Protection Agency:
Air Pollution Prevention And Control Division | Director, Air Pollution Prevention And Control Division
Atlantic Ecology Division | Director, Atlantic Ecology Division
Center For Environmental Finance | Director, Center For Environmental Finance
| Director, Systems Planning And Integration Staff
Ecosystems Research Division | Director, Ecosystems Research Division
Environmental Sciences Division | Director, Environmental Sciences Division
Federal Facilities Enforcement Office | Director, Federal Facilities Enforcement Office
Federal Facilities Restoration And Reuse Office | Director, Federal Facilities Restoration And Reuse Office
Ground Water Ecosystems Restoration Division | Director, Ground Water Ecosystems Restoration Division
Gulf Ecology Division | Director, Gulf Ecology Division
Human Exposure And Atmospheric Sciences Division | Director, Human Exposure And Atmospheric Science Division
Human Studies Division | Director, Human Studies Division
Mid-Continent Ecology Division | Director, Mid-Continent Ecology Division
National Center For Environmental Assessment | Associate Director For Ecology
| Deputy Director For Management
| Director, National Center For Environmental Assessment
National Center For Environmental Assessment—Cincinnati, Ohio | Director, National Center For Environmental Assessment
National Center For Environmental Assessment—Research Triangle Park, North Carolina | Director, National Center For Environmental Assessment
National Center For Environmental Assessment—Washington, Dc | Director, National Center For Environmental Assessment
National Center For Environmental Research | Deputy Director For Management
| Director, National Center For Environmental Research
National Exposure Research Laboratory—NRTL | Deputy Director For Management
| Director, Microbiological And Chemical Assessment Research Division
| Director, National Exposure Research Laboratory
National Health And Environmental Effects Research Laboratory | Associate Director For Ecology
| Associate Director For Health
| Deputy Director For Management
| Director, National Health And Environmental Effects Research Laboratory
National Homeland Security Research Center | Deputy Director For Management, National Homeland Security Research Center
| Director, National Homeland Security Research Center
National Risk Management Research Laboratory | Deputy Director For Management
| Director, National Risk Management Research Laboratory
Office Of Acquisition Management | Deputy Director, Office Of Acquisition Management
| Director, Office Of Acquisition Management
| Director, Superfund/Resource Conservation And Recovery Act Regional Procurement Operations Division
Office Of Administration And Resources Management—Cincinnati Ohio | Director, Office Of Administration And Resources Management
Office Of Administration And Resources Management—Research Triangle Park, North Carolina | Director, Office Of Administration And Resources Management
Office Of Administrative Services | Deputy Director, Office Of Administrative Services
| Director, Facilities Management And Services Division
| Director, Office Of Administrative Services
| Director, Safety, Health And Environmental Management Division
Office Of Air Quality Planning And Standards | Deputy Director, Office Of Air Quality Planning And Standards
| Director, Air Quality Assessment Division
| Director, Air Quality Policy Division
| Director, Health And Environmental Impacts Division
| Director, Sector Policies And Programs Division
Office Of Atmospheric Programs | Director, Clean Air Markets Division
| Director, Climate Protection Partnership Division
Office Of Audit | Assistant Inspector General For Audits
Office Of Brownfield's Cleanup And Redevelopment | Director, Office Of Brownfield's Cleanup And Redevelopment
Office Of Budget | Director, Office Of Budget
Office Of Civil Enforcement | Deputy Director, Office Of Civil Enforcement
| Director, Air Enforcement Division
| Director, Office Of Civil Enforcement
Office Of Compliance | Deputy Director, Office Of Compliance
| Director, Compliance Assessment And Media Programs Division
| Director, Enforcement Targeting And Data Division
| Director, National Enforcement Training Institute
| Director, Office Of Compliance
Office Of Congressional And Public Liaison | Assistant Inspector General For Congressional And Public Liaison
Office Of Criminal Enforcement, Forensics And Training | Deputy Director, Office Of Criminal Enforcement, Forensics Training
| Director, Criminal Investigation Division
| Director, National Enforcement Investigations Center
| Director, Office Of Criminal Enforcement, Forensics And Training
Office Of Deputy General Counsel | Director, Resources Management Office
Office Of Emergency Management | Deputy Director, Office Of Emergency Management
Office Of Environmental Justice | Director, Office Of Environmental Justice
Office Of Executive Support | Director, Office Of Executive Services
Office Of Federal Activities | Director, International Compliance Assurance Division
Office Of Financial Management | Director, Office Of Financial Management
Office Of Financial Services | Director, Office Of Financial Services
Office Of Global Affairs And Policy | Director, Office Of Global Affairs And Policy
Office Of Grants And Debarment | Deputy Director, Office Of Grants And Debarment
| Director, Grants Administration Division
| Director, Office Of Grants And Debarment
Office Of Ground Water And Drinking Water | Director, Drinking Water Protection Division
| Director, Standards And Risk Management Division
Office Of Homeland Security | Director, Office Of Homeland Security
Office Of Human Capital | Assistant Inspector General For Human Capital
Office Of Human Resources | Deputy Director, Office Of Human Resources
| Director, Executive Resources Division
| Director, Office Of Human Resources
Office Of Information Analysis And Access | Deputy Director, Office Of Information Analysis And Access
Office Of Investigations | Assistant Inspector General For Investigations
Office Of Mission Systems | Assistant Inspector General For Mission Systems
Office Of Pesticide Programs | Deputy Director, Office Of Pesticides Programs (Management)
| Director, Antimicrobials Division
| Director, Biological And Economic Analysis Division
| Director, Biopesticides And Pollution Prevention Division
| Director, Environmental Fate And Effects Division
| Director, Field And External Affairs Division
| Director, Health Effects Division
| Director, Information Technology And Resources Management Division
| Director, Registration Division
| Director, Special Review And Reregistration Division
Office Of Planning, Analysis And Accountability | Director, Office Of Planning, Analysis And Accountability
Office Of Planning, Analysis And Results | Assistant Inspector General For Planning, Analysis And Results
Office Of Policy And Resource Management | Director, Office Of Policy And Resource Management
Office Of Pollution Prevention And Toxics | Director, Chemical Control Division
| Director, Economics Exposure And Technology Division
| Director, Environmental Assistance Division
| Director, Information Management Division
| Director, National Program Chemicals Division
| Director, Pollution Prevention Division
| Director, Risk Assessment Division
Office Of Program Evaluation | Assistant Inspector General For Program Evaluation
Office Of Program Management Operations | Associate Assistant Administrator (Management)
Office Of Radiation And Indoor Air | Deputy Director, Office Of Radiation And Indoor Air
| Director, Indoor Environments Division
| Director, Radiation Protection Division
Office Of Regional Counsel | Regional Counsel
Office Of Regulatory Policy And Management | Director, Office Of Regulatory Policy And Management
Office Of Resource Conservation And Recovery | Director, Materials Recovery And Waste Management Division
| Director, Program Implementation And Information Division
| Director, Resource Conservation And Sustainability Division
Office Of Resources Management And Administration | Director, Office Of Resources Management And Administration
Office Of Science And Technology | Director, Engineering And Analysis Division
| Director, Health And Ecological Criteria Division
| Director, Standards And Health Protection
Office Of Science Coordination And Policy | Director, Office Of Science Coordination And Policy
Office Of Science Policy | Director, Office Of Science Policy
Office Of Site Remediation Enforcement | Deputy Director, Office Of Site Remediation Enforcement
| Director, Office Of Site Remediation Enforcement
Office Of Superfund Remediation And Technology Innovation | Director, Assessment And Remediation Division
| Director, Resources Management Division
Office Of Technology Operations And Planning | Deputy Director, Office Of Technology Operations And Planning
| Director, National Technology Services Division
| Director, Office Of Technology Operations And Planning
Office Of Technology Solutions | Director, Office Of Technology Solutions
Office Of The Assistant Administrator For Solid Waste And Emergency Response | Director, Land Revitalization Staff
Office Of The Assistant Administrator For Administration And Resources Management | Deputy Assistant Administrator For Administration And Resources Management
| Principal Deputy Assistant Administrator For Administration And Resources Management
| Senior Policy Advisor
Office Of The Assistant Administrator For Air And Radiation | Director, Office Of Policy Analysis And Review
| Senior Advisor
| Senior Policy Advisor (Agriculture)
Office Of The Assistant Administrator For Research And Development | Director For Ecology
| Director For Sustainable Development
| Director, Office Of Scientific Information Management
Office Of The Assistant Administrator For Water | Director, American Indian Environmental Office
Office Of The Chief Financial Officer | Associate Chief Financial Officer
| Deputy Chief Financial Officer
| Senior Advisor
Office Of The Inspector General | Counsel To The Inspector General
| Deputy Inspector General
Office Of The Science Advisor | Chief Scientist To The Science Advisor
Office Of Transportation And Air Quality | Director, Advanced Technology Division
| Director, Assessment And Standards Division
| Director, Compliance And Innovative Strategies Division
| Director, Transportation And Regional Programs Division
Office Of Waste Water Management | Director, Municipal Support Division
| Director, Water Permits Division
Office Of Western Hemisphere And Bilateral Affairs | Director, Western Hemisphere And Bilateral Affairs
Office Of Wetlands, Oceans And Watersheds | Director, Assessment And Watershed Protection Division
| Director, Oceans And Coastal Protection Division
| Director, Wetlands Division
Region 1—Boston, Massachusetts | Director, Office Of Administration And Resources Management
| Director, Office Of Ecosystem Protection
| Director, Office Of Environmental Stewardship
| Director, Office Of Site Remediation Restoration
Region 10—Seattle, Washington | Assistant Regional Administrator For Management Programs
| Director, Office Of Air, Waste And Toxics
| Director, Office Of Compliance And Enforcement
| Director, Office Of Ecosystems And Communities
| Director, Office Of Environmental Cleanup
| Director, Office Of Water And Watersheds
Region 2—New York, New York | Assistant Regional Administrator For Policy And Management
| Director, Caribbean Environmental Protection Division
| Director, Enforcement And Compliance Assistance Division
| Director, Environmental Planning And Protection Division
| Director, Environmental Science And Assessment Division
| Director, Office Of Emergency And Remedial Response
Region 3—Philadelphia, Pennsylvania | Assistant Regional Administrator For Policy And Management
| Director, Air Protection Division
| Director, Chesapeake Bay Program Office
| Director, Environmental Assessment And Innovation Division
| Director, Hazardous Site Cleanup Division
| Director, Waste And Chemical Management Division
| Director, Water Protection Division
Region 4—Atlanta, Georgia | Assistant Regional Administrator For Policy And Management
| Director, Air, Pesticides And Toxics Management Division
| Director, Resource Conservation And Recovery Act Division
| Director, Science And Ecosystem Support Division
| Director, Superfund Division
| Director, Water Management Division
Region 5—Chicago, Illinois | Assistant Regional Administrator For Resources Management
| Director, Air And Radiation Division
| Director, Great Lakes National Program Office
| Director, Superfund Division
| Director, Waste, Pesticides And Toxics Division
| Director, Water Division
Region 6—Dallas, Texas | Assistant Regional Administrator For Management
| Director, Compliance Assurance And Enforcement Division
| Director, Multimedia Planning And Permitting Division
| Director, Superfund Division
| Director, Water Quality Protection Division
Region 7—Kansas City, Kansas | Assistant Regional Administrator For Policy And Management
| Director, Air, Resource Conversation And Recovery Act And Toxics Division
| Director, Environmental Services Division
| Director, Superfund Division
| Director, Water, Wetlands And Pesticides Division
Region 8—Denver, Colorado | Assistant Regional Administrator For Ecosystems Protection And Remediation
| Assistant Regional Administrator For Partnerships And Regulatory Assistance
| Assistant Regional Administrator For Technical And Management Services
Region 9—San Francisco, California | Assistant Regional Administrator For Policy And Management
| Director, Air Division
| Director, Cross Media Division
| Director, Superfund Division
| Director, Waste Management Division
| Director, Water Management Division
Water Supply And Water Resources Division | Director, Water Supply And Water Resources Division
Western Ecology Division | Director, Western Ecology Division
Environmental Protection Agency Office Of The Inspector General: | Assistant Inspector General For Audits
| Assistant Inspector General For Congressional And Public Liaison, And Management
| Assistant Inspector General For Financial Investigations
| Assistant Inspector General For Homeland Security And Customer Liaison
| Assistant Inspector General For Mission Systems
| Assistant Inspector General For Program Evaluations
| Associate Deputy Inspector General And Counsel
| Chief Of Staff
| Deputy Inspector General
Office Of Cyber Investigation And Homeland Security | Assistant Inspector General For Cyber Investigation And Homeland Security
Equal Employment Opportunity Commission:
Field Coordination Programs | Director, Field Coordination Programs
Field Management Programs | Director Field Management Programs
Office Of Field Programs | District Director (Baltimore)
| District Director (Cleveland)
| District Director (Dallas)
| District Director (Detroit)
| District Director (Los Angeles)
| District Director (Memphis)
| District Director (Miami)
| District Director (Milwaukee)
| District Director (San Francisco)
| District Director—(Atlanta)
| District Director—(Birmingham)
| District Director—(Charlotte)
| District Director—(Chicago)
| District Director—(Denver)
| District Director—(Houston)
| District Director—(Indianapolis)
| District Director—(New Orleans)
| District Director—(New York)
| District Director—(Philadelphia)
| District Director—(Phoenix)
| District Director—(San Antonio)
| District Director—(St Louis)
| National Mediation Executive Advisor
| Program Manager
Office Of The Inspector General | Inspector General
Federal Communications Commission:
Office Of Inspector General | Inspector General
Federal Energy Regulatory Commission:
Office Of Energy Projects | Director Division Of Dam Safety And Inspection
Office Of Enforcement | Chief Accountant And Director, Division Of Financial Regulations
Federal Labor Relations Authority:
Federal Service Impasses Panel | Executive Director, Federal Service Impasses Panel
Office Of Member | Chief Counsel
Office Of The Chairman | Chief Counsel
| Director, Policy And Performance Management
| Senior Advisor
| Solicitor
Office Of The Executive Director | Executive Director
Office Of The General Counsel | Deputy General Counsel
Regional Offices | Regional Director, San Francisco
| Regional Director—Atlanta
| Regional Director—Boston
| Regional Director—Dallas
| Regional Director—Washington, D.C.
Federal Maritime Commission:
Bureau Of Certification And Licensing | Director, Bureau Of Certification And Licensing
Bureau Of Enforcement | Deputy Director Bureau Of Enforcement
| Director Bureau Of Enforcement
Bureau Of Trade Analysis | Director, Bureau Of Trade Analysis
Office Of Administration | Director Of Administration
Office Of The General Counsel | Deputy General Counsel For Reports Opinions And Decisions
Office Of The Secretary | Secretary
Federal Mediation And Conciliation Service:
Office Of The Deputy Director | Director Of Field Operations
Office Of The Director | Chief Of Staff
| National Representative
Federal Retirement Thrift Investment Board:
Federal Retirement Thrift Investment Board | Associate Director Of Publications
| Associate General Counsel
| Chief Financial Officer
| Chief Information Officer
| Chief Investment Officer
| Director Of Participant Services
| Director, Office Of Research And Strategic Planning
Federal Trade Commission:
Bureau Of Competition | Deputy Director, Bureau Of Competition
Office Of Executive Director | Chief Information Officer
| Deputy Executive Director
Office Of International Affairs | Deputy Director For International Consumer Protection
Federal Trade Commission Office Of The Inspector General: | Inspector General
General Services Administration:
Federal Acquisition Service | Assistant Commissioner For Acquisition Management
| Assistant Commissioner For Assisted Acquisition Services
| Assistant Commissioner For Customer Accounts And Research
| Assistant Commissioner For General Supplies And Services
| Assistant Commissioner For Integrated Technology Services
| Assistant Commissioner For Strategic Business Planning And Process Improvement
| Assistant Commissioner For Travel, Motor Vehicle And Card Services
| Chief Information Officer
| Controller
| Deputy Assistant Commissioner For General Supplies And Services
| Deputy Assistant Commissioner For Integrated Technology Services
| Director Of Governmentwide Acquisition Contracts And Information Technology Schedule Programs
| Director Of Motor Vehicle Management
| Director Of Network Services Programs
| Director Of Supply Operations
| Director Of Travel And Transportation Services
Great Lakes Region | Regional Commissioner For Public Buildings Service
Greater Southwest Region | Regional Commissioner For Federal Acquisition Service
| Regional Commissioner For Public Buildings Service
Mid-Atlantic Region | Regional Commissioner For Federal Acquisition Service
| Regional Commissioner For Public Buildings Service
| Regional Counsel
National Capital Region | Principal Deputy Regional Commissioner For Projects And Real Property Asset Management
| Principal Deputy Regional Commissioner For Public Buildings Service
| Project Executive For Real Estate Development
| Regional Commissioner For Federal Acquisition Service
| Regional Commissioner For Public Buildings Service
New England Region | Regional Commissioner For FAS, Region 1
| Regional Commissioner For Public Buildings Service
Northeast And Caribbean Region | Regional Commissioner For Federal Acquisition Service
| Regional Commissioner For Public Buildings Service
Northwest/Arctic Region | Regional Commissioner For FAS, Region 10
| Regional Commissioner For Public Buildings Service
Office Of Citizen Services And Communications | Director Federal Citizen Information Center
Office Of Emergency Response And Recovery | Chief Emergency Response And Recovery Officer
Office Of Governmentwide Policy | Deputy Associate Administrator For Acquisition Policy
| Deputy Associate Administrator For Real Property Management
| Deputy Associate Administrator For Technology Strategy
| Deputy Associate Administrator For Travel, Transportation And Asset Management
Office Of Inspector General | Assistant Inspector General For Auditing
| Assistant Inspector General For Investigations
| Counsel To The Inspector General
| Deputy Assistant Inspector General For Investigations
| Deputy Inspector General
| Principal Deputy Assistant Inspector General For Auditing
Office Of The Administrator | Senior Procurement Advisor
Office Of The Chief Acquisition Officer | Deputy Chief Acquisition Officer
| Director Of Acquisition Integrity
| Director Of Acquisition Systems
Office Of The Chief Financial Officer | Chief Financial Officer
| Deputy Chief Financial Officer For Financial Policy And Operations
| Director Of Budget
| Director Of Financial Management Systems
Office Of The Chief Human Capital Officer | Chief Human Capital Officer
| Chief Information Officer
| Deputy Chief Information Officer
| Director Of Human Capital Management
| Director Of Human Resources Services
Office Of The Chief Information Officer | Director Of Enterprise Infrastructure
| Director Of Enterprise Management Services
| Senior Agency Information Security Officer
Pacific Rim Region | Assistant Regional Administrator For Federal Supply Service
| Assistant Regional Administrator, Federal Acquisition Service
| Principal Deputy Regional Commissioner For Public Buildings Service
| Regional Commissioner For Public Buildings Service
Public Buildings Service | Assistant Commissioner For Applied Science
| Assistant Commissioner For Budget And Financial Management
| Assistant Commissioner For Construction Programs
| Assistant Commissioner For Facilities Management And Services Programs
| Assistant Commissioner For National Customer Services Management
| Assistant Commissioner For Organizational Resources
| Assistant Commissioner For Real Estate Acquisition
| Assistant Commissioner For Real Property Asset Management
| Deputy Assistant Commissioner For Real Estate Portfolio Management
| Deputy Assistant Commissioner For Real Property Disposal
| Deputy Assistant Commissioner For Vendor Alliance And Vendor Acquisition
| Director Of Federal High-Performance Green Buildings
| Program Executive
Rocky Mountain Region | Regional Commissioner For FAS, Region 8
| Regional Commissioner For Public Buildings Service
Southeast Sunbelt Region | Deputy Regional Commissioner For Real Estate Design, Construction And Development
| Regional Commissioner For Federal Acquisition Service
| Regional Commissioner For Public Buildings Service
The Heartland Region | Regional Commissioner For Federal Acquisition Service
| Regional Commissioner For Public Buildings Service
Merit Systems Protection Board:
Atlanta Regional Office | Regional Director, Atlanta
Central Region, Chicago Regional Office | Regional Director, Chicago
Dallas Regional Office | Regional Director, Dallas
Northeast Region, Philadelphia Regional Office | Regional Director, Philadelphia
Office Of Financial And Administrative Management | Director, Financial And Administrative Management
Office Of Information Resources Management | Director, Information Resources Management
Office Of Policy And Evaluation | Director, Office Of Policy And Evaluation
Office Of Regional Operations | Director, Office Of Regional Operations
Office Of The Clerk Of The Board | Clerk Of The Board
Washington, Dc Region, Washington Regional Office | Regional Director, Washington, D.C.
Western Region, San Francisco Regional Office | Regional Director, San Francisco
National Aeronautics And Space Administration:
Aeronautics Research Mission Directorate | Director Strategy Communications And Program Integration
| Director, Aeronautics Technology Division
| Director, Airspace Systems Program Office
| Director, Aviation Safety Program Office
| Director, Fundamental Aeronautics
| Director, Mission Support Office
| Director, Mission Support Office
| Director, Resources Management Office
Aero physics | Chief, National Aeronautics And Space Administration Systems Division
Aerospace | Chief, Army/National Aeronautics And Space Administration Rotorcraft Division
Ames Research Center | Ames Research Center Liaison For University Affiliated Research Center
| Assistant To The Director
| Assistant To The Director For Aviation Safety
| Associate Director For Astrobiology And Space Programs
| Associate Director For Institutional Management And Engineering
| Associate Director For Institutions And Research
| Associate Director For Space Programs And Projects
| Associate Director For Systems Management And Planning
| Chief Counsel
| Chief Financial Officer
| Chief Information Officer
| Chief, Aviation Systems Division
| Chief, Computational Sciences Division
| Chief, Flight Vehicle Research And Tech Division
| Chief, Intelligent Systems Division
| Chief, Space Technology Division
| Chief, Spacecraft Design Center
| Deputy Associate Director For Institutions And Research
| Deputy Director Ames Research Center
| Deputy Director For Research
| Deputy Director Of Aeronautics
| Deputy Director Of Project Management And Engineering
| Deputy Director, Center Operations
| Deputy Director, Exploration Technology
| Director Of Center Operations
| Director Of Engineering
| Director, Aeronautics Test Program
| Director, Exploration Technology Directorate
| Director, National Aeronautics and Space Administration, Astrobiology Institute
| Director, New Ventures And Communications Directorate
| Director, Office Of Safety, Environment And Mission Assurance
| Director, Programs And Projects Directorate
| Director, Project Management And Engineering
| Human Capital Director
| Procurement Officer
| Special Assistant To The Director
Applied Engineering And Technology Directorate | Chief, Electrical Systems Division
| Chief, Information Systems Division
| Chief, Instrument Systems And Technology Division
| Chief, Mechanical System Division
| Chief, Mission Engineering And Systems Analysis Division
| Deputy Director Of Applied Engineering And Technology
| Deputy Director Of Applied Engineering And Technology For Planning And Business Management
Ares Projects Office | Deputy Manager, Ares Projects Office
| Manager, Ares Projects Office
| Manager, First Stage Office
| Manager, Upper Stage Engine Office
| Manager, Upper Stage Office
| Manager, Vehicle Integration Office
Astrobiology And Space Research | Chief, Life Sciences Division
| Chief, Space Science And Astrobiology Division
| Deputy Director Of Astrobiology And Space Research
| Director Of Astrobiology And Space Research
| Director Of Science
Astrophysics Division | Deputy, Director, Astrophysics Division
| Director, Astrophysics Division
Cape Canaveral Spaceport Management | Executive Director, Cape Canaveral Spaceport Management Office
Center Operations | Deputy Director, Center Operations
| Director Center Operations
Chief Of Strategic Communications | Director, Business And Administration Operations
Comptroller | Chief Financial Officer/Comptroller
| Deputy Chief Financial Officer
Constellation Program Office | Assistant Orion Project Manager, Program Planning And Control, Constellation
| Assistant To The Director For Constellation
| Associate Program Manager For Lunar Formulation
| Constellation Program Deputy For The Orion Project
| Deputy Director, Program Planning And Control, Constellation
| Deputy Manager, Constellation Office
| Deputy Manager, Orbiter Project Office
| Director, Operation Integration, Constellation Program
| Director, Program Planning And Control, Constellation
| Director, Safety Reliability And Quality Assurance, Constellation
| Director, Systems Engineering And Integration, Constellation
| Director, Test And Verification, Constellation Program
| Manager For Technology Integration, Constellation
| Manager, Advanced Projects Office, Constellation Program
| Manager, Constellation Program
| Manager, Crew Exploration Vehicle Office, Constellation Program
| Transition Manager, Operations And Test Integration Office, CX Program
Dryden Flight Research Center | Aerospace Engineer (Chief Engineer)
| Associate Director For Operations
| Associate Director For Programs
| Chief Counsel
| Chief Financial Officer (Financial Manger)
| Chief Information Officer
| Deputy Associate Director For Operations
| Deputy Associate Director For Programs
| Deputy, Director, Aerospace Projects
| Director Flight Ops Directorate
| Director For Safety And Mission Assurance
| Director Research Systems Directorate
| Director, Aerospace Project Directorate
| Program Manager For Sofia
Earth Science Division | Deputy Director, Earth Science
| Program Director Research And Analysis Program
| Program Director Science Division
Engineering | Assistant Manager, Advanced Development Office
| Assistant To The Director
| Chief Avionic Systems Division
| Chief Energy Systems Division
| Chief Engineer Space Station Program
| Chief, Aeroscience And Flight Mechanics Division
| Chief, Automation, Robotics And Simulation Division
| Chief, Crew And Thermal Systems Division
| Chief, Structural Engineering Division
| Deputy Chief, Avionic Systems Division
| Deputy Director Of Engineering For Flight
| Deputy Director, Engineering
| Deputy Manager For Exploration
| Director, Engineering
| Manager, Advanced Development Office
| Manager, Engineering Services And Management Integration Office
| Manager, Program Engineering Integration Office
| Manager, Systems Architecture And Integration Office
| Senior Project Manager
| Senior System Engineer
Engineering Directorate | Assistant To The Chief Engineer
| Assistant To The Director, Engineering
| Associate Director For Operations
| Associate Director For Technical Management
| Chief Engineer
| Chief, Chief Engineer Office
| Chief, Mechanical And Fluid Systems Division
| Chief, Power And Avionics Division
| Chief, Systems Engineer
| Chief, Systems Engineering And Analysis Division
| Deputy Chief Engineer
| Deputy Director Of Engineering And Technical Services
| Deputy Director, Engineering Directorate
| Deputy Manager, Propulsion Systems Department
| Deputy Manager, Space Systems Department
| Deputy Manager, Spacecraft And Vehicle Systems Department
| Director Of Engineering And Technical Services
| Manager, Materials And Processes Laboratory
| Manager, Mission Operations Laboratory
| Manager, Propulsion Systems Department
| Manager, Space Systems Department
| Manager, Spacecraft And Vehicle Systems Department
| Manager, Test Laboratory
| Shuttle Propulsion Chief Engineer
Eva Project Office | Manager Eva Project Office
| Manager, Constellation Eva Systems Project
Exploration Systems Mission Directorate | Assistant Associate Administrator For Administration
| Assistant Associate Administrator, Strategic Integration And Management
| Director Business Operations Division
| Director, Advanced Capabilities Division
| Director, Directorate Integration Office
| Director, Mission Integration Division
| Director, Resources Management Office
| Director, Strategic Integration And Management Office
| Manager, Advanced Space Technology Program
| Manager, Strategic Planning
| Special Assistant, Program Development
External Programs | Director, External Programs
External Relations | Assistant Director, External Relations
| Deputy Director, External Relations And Business Development
| Director, External Relations
Facilities And Test Directorate | Associate Director For Infrastructure Assessment
| Chief Facilities And Test Engineering Division
| Deputy Director Of Faculties And Test
| Director Of Facilities And Test
Flight Assurance | Deputy Director Of Systems Safety And Mission Assurance
| Director Of Systems Safety And Mission Assurance
Flight Crew Operations | Assistant Director, Flight Crew Operations
| Chief Astronaut Office
| Chief, Aircraft Operations Division
| Deputy Director, Flight Crew Operations
| Director, Flight Crew Operations
Flight Projects | Associate Director For Astrophysics Projects Division
| Associate Director For Earth Science Projects Division
| Associate Director For Earth Science Technology Office (ESTO)
| Associate Director For Exploration And Space Communications Projects Division
| Associate Director For Explorers And Heliophysics Projects Division
| Associate Director For James Webb Space Telescope Project
| Deputy Associate Director For Communications And Navigation
| Deputy Associate Director For Earth Science Operational Projects
| Deputy Associate Director For Earth Science Projects Division
| Deputy Associate Director For Exploration And Operational Systems
| Deputy Associate Director For Explorers And Heliophysics Science Projects Division
| Deputy Associate Director For Space Science Operations
| Deputy Director For Planning And Business Management
| Deputy Director Of Flight Projects
| Director Of Flight Projects
Glenn Research Center | Associate Director For Technical Planning, Policy, Analysis And Evaluation
| Chief Financial Officer
| Chief, Office Of Acquisition
| Director Of Center Operations
| Director, Systems Management Office
| Plum Brook Station Manager
Goddard Space Flight Center | Assistant Director For Advanced Concepts
| Special Assistant To Deputy Director
| Special Assistant To The Director
Heliophysics Division | Deputy, Director, Heliophyiscs Division
| Director, Heliphysics Division
| Program Director, Science Information And Telecommunications Systems
Human Resources | Director Of Human Capital Management
| Director, Human Resources Office
Independent Technical Authority And Systems Management | Director, Independent Technical Authority And Systems Management
Information Resources | Assistant To The Director
| Deputy Director, Information Systems
| Director, Information Resources
Information Sciences And Technology | Chief, Human Factors Research And Technology Division
Information Technology | Deputy Director For Operations
Information Technology And Communications Services | Director, Information Technology And Communications Services
International Space Station And Payload Processing | Director, International Space Station/Payload Processing
Johnson Space Center | Assistant Director For Space Flight Awareness
| Assistant Director For University Research And Affairs
| Assistant To The Director, Engineering
| Associate Director (Management)
| Associate Director (Space Development And Commerce)
| Associate Director (Technical)
| Chief Engineer
| Chief Financial Officer
| Chief Information Officer
| Chief Knowledge Officer
| Chief Of Staff, International Space Station
| Chief Of Staff, Office Of The Director
| Deputy Associate Administrator, Strategic Program Planning
| Deputy Chief Engineer
| Deputy Chief Information Officer
| Director Of Human Resources
| Director Of Technical Transfer And Commercialization
| Director, Astromaterials Research And Exploration Science
| Director, External Relations
| Manager For International Operations
| Manager, Advanced Planning
| Manager, Exploration Programs Office
| Manager, Lunar Lander Project Office
| Technical Assistant To The Program Manager, ISSP
Kennedy Space Center | Associate Director For Business Operations, John F Kennedy Space Center
| Associate Director For Engineering And Technical Operations
| Associate Director, International Space Station And Spacecraft Processing
| Associate Program Manager, Constellation Program At KSC
| Chairperson, Engineering Services Contract Source Evaluation Board
| Chief Financial Officer
| Chief Medical Officer
| Chief, Electrical Division, Engineering Directorate
| Chief, Mechanical Division, Engineering Directorate
| Deputy Director, International Space Station And Spacecraft Processing Directorate
| Deputy Director, Center Operations
| Deputy Director, Constellation Project Office
| Deputy Director, Constellation Space Transportation Planning Office
| Deputy Director, Launch Vehicle Processing Directorate
| Deputy Director, Management, Constellation Project Office
| Deputy Director, Management, Engineering Development
| Deputy Director, Management, Engineering Directorate
| Deputy Director, Technical, Engineering Development
| Deputy Director, Technical, Engineering Directorate
| Director, Advanced Planning
| Director, Center Operations
| Director, Constellation Project Office
| Director, Constellation Space Transportation Planning Office
| Director, Design And Development Systems Engineering Office, Engineering Directorate
| Director, Engineering Development
| Director, Engineering Directorate
| Director, International Space Station And Spacecraft Processing Directorate
| Director, John F Kennedy Space Center
| Director, Launch Vehicle Processing Directorate
| Director, Operational Systems Engineering Office, Engineering Directorate
| Manager, Constellation Ground System Project Office, Constellation Project Office
| Manager, Flight And Ground Project Office, Constellation Space Transportation Planning Office
| Manager, Launch Vehicle Project, Constellation Space Transportation Planning Office
| Manager, Spacecraft Flight Hardware Project
| Special Assistant For Engineering And Technical Operations
| Special Assistant To The Deputy Director
| Special Assistant To The Director
Kennedy Space Center Exploration Office | Director, Kennedy Space Center Exploration Office
Langley Research Center | Associate Director For Airborne Systems
| Associate Director For Special Programs
| Associate Director, Langley Research Center
| Chief Financial Officer
| Chief Information Officer
| Deputy Director For Advanced Projects
| Deputy Director For Programs
| Deputy Director For Safety
| Deputy Director, National Aeronautics And Space Administration Engineering And Safety Center
| Deputy Director, Research And Technology Directorate
| Deputy Director, Research And Technology Program Implementation
| Deputy Director, Research And Technology Test Operations
| Deputy Director, Safety And Mission Assurance Office
| Deputy Director, Systems Engineering Directorate
| Director, Advanced Planning And Partnership Office
| Director, Aeronautics Research Directorate
| Director, Center Operations Directorate
| Director, Earth System Science Pathfinder Program Office
| Director, Exploration And Space Operations Directorate
| Director, Exploration Technology Development Program Office
| Director, Flight Projects Directorate
| Director, Flight Research Services Directorate
| Director, Ground Facilities And Testing Directorate
| Director, National Aeronautics And Space Administration Engineering And Safety Center
| Director, Office Of Human Resources
| Director, Office Of Procurement
| Director, Office Of Strategic Communications And Education
| Director, Research And Technology Directorate
| Director, Safety And Mission Assurance Office
| Director, Science Directorate
| Director, Systems Analysis And Advanced Concepts Directorate
| Director, Systems Engineering Directorate
| Manager, Management And Technical Support Office
| Manager, Systems Engineering Office
| Senior Advisor For Composites
| Special Assistant To The Director
Launch Services Program | Deputy Manager, Launch Services Program
| Director, Expendable Launch Vehicle Launch Services
| Manager, Launch Services Program
MAF Transition Office | Chief Operating Officer, Michaud Assembly Facility
| Transition Manager, Michaud Assembly Facility
Management Operations | Associate Director For Acquisition
| Deputy Director Of Management Operations
Marshall Space Flight Center | Assistant For Project Management And Development
| Business Integration Executive
| Deputy Director Flight Projects Office
| Special Assistant To The Director For Special Projects
Mission Operations | Assistant Director For Operations
| Chief Engineer, Mission Operations Directorate
| Chief Flight Director Office
| Chief, Advanced Operations And Development Division
| Chief, Engineering Projects
| Chief, Space Transportation Vehicle Division
| Chief, Systems Division, Mission Operations Directorate
| Deputy Director, Mission Operations
| Director, Mission Operations
National Aeronautics and Space Administration, Safety Center | Director, Audits And Assessments
| Director, Technical Excellence
National Aeronautics and Space Administration, Shared Service Center | Deputy Director, National Aeronautics And Space Administration Shared Services Center
| Director, Business And Administration
| Executive Director Of National Aeronautics And Space Administration Shared Service Center
National Aeronautics And Space Administration | Chief, Small Satellite Programs Office
| Deputy Director For Science
| Director Of Strategic Management And Advanced Planning
| Director, Strategic Communications And Development Directorate
| Senior Technical Advisor To The Director
| Special Assistant For Education
| Special Assistant To The Administrator
Office Of Center Operations | Deputy Director, Office Of Center Operations
| Director, Office Of Center Operations
| Special Assistant To The Director, Office Of Center Operations
Office Of Chief Education Officer | Assistant Associate Administrator For Education
| Deputy Assistant Administrator For Integration
| Deputy Chief Education Officer
| Director Elementary And Secondary Education Division
Office Of Chief Information Officer | Deputy Chief Information Officer
Office Of Communications | Assistant Administrator For Procurement
| Assistant Administrator For Legislative And Intergovernmental Affairs
| Deputy Assistant Administrator For Legislative Affairs
| Deputy Associate Administrator For Legislative Affairs
| Director Media Services Division
Office Of External Relations | National Aeronautics And Space Administration Spain Representative
Office Of Human Capital | Deputy Director, Office Of Human Capital
| Director, Office Of Human Capital
| Special Assistant To Director, Office Of Human Capital
Office Of Inspector General | Assistant Inspector General For Audits
| Assistant Inspector General For Investigation
| Assistant Inspector General For Management And Planning
| Counsel To The Inspector General
| Deputy Assistant Inspector General For Audits
| Director, Computer And Technology Crimes Office
| Director, Technical Services Office
Office Of Institutions And Management | Director, Logistics Division
| Director, Shared Capability Asset Program
| Director, Strategic Capability Asset Program
| Senior Advisor For Security Protection
Office Of Institutions Management | Assistant Administrator For Human Capital Management
| Assistant Administrator For Procurement
| Assistant Administrator, Small/Disadvantaged Business Utilization
| Assistant Administrator For Security And Program Protection
| Deputy Assistant Administrator For Policy
| Deputy Assistant Administrator For Human Capital Management
| Director Environmental Management Division
| Director, Analysis Division
| Director, Contract Management Division
| Director, Facilities Engineering And Real Property Division
| Director, Headquarters Information Technology And Communications Division
| Director, Human Resource Management Division
| Director, Program Operations Division
| Director, Programs, Planning And Evaluation Division
| Director, Strategic Capability Asset Program
| Director, Workforce Management And Development Division
| Director, Workforce Strategy Division
| Director, Workforce Systems And Accountability Division
Office Of Legislative And Intergovernmental Affairs | Assistant Administrator For Legislative And Intergovernmental Affairs
| Director, Space Operations Division
| Director, Space Science And Aeronautics Division
| Manager, International Technology Transfer Policy
Office Of Procurement | Assistant Director Business Management
| Deputy Director, Office Of Procurement
| Director, Office Of Procurement
| Special Assistant To The Director
Office Of Program Analysis And Evaluation | Deputy Associate Administrator
| Deputy Director, Strategic Investment Division
| Deputy Director, Strategic Investments Division
| Deputy Director, Technical, Independent Program, Assessment
| Director, Independent Program Assessment Office
| Director, Agency Study Teams
| Director, Cost Analysis Division
| Director, Studies And Analysis Division
| Senior Study Analyst
Office Of Program And Institutional Integration | Deputy Director Of The Office Of Program And Institutional Integration
| Director Of Program And Institutional Integration Office
Office Of Safety And Mission Assurance | Chief, Safety And Mission Assurance Office
| Deputy Chief Safety And Mission Assurance Officer
| Director, Mission Support Division
| Director, Review And Assessment Division
| Director, Safety And Assurance Requirements Division
| Senior Advisor For Safety And Mission Assurance
Office Of Security Management And Safeguards | Assistant Administrator For Security Management
| Deputy Assistant Administrator For Security And Program Protection
| Deputy Assistant Administrator For Security Management And Safeguards
Office Of Strategic Analysis And Communications | Director, Office Of Strategic Analysis And Communications
Office Of The Associate Director | Associate Director, George C Marshall Space Flight Center
Office Of The Chief Engineer | Armd, Chief Engineer
| Deputy Chief Engineer, Advanced Planning, Integration, And Engineering Support
| Deputy Chief Engineer, Program And Project Management Policy And Support
| Exploration Systems Mission Directorate Chief Engineer
| Science Mission Chief Engineer
| Senior Advisor
Office Of The Chief Financial Officer | Chief Financial Officer
| Deputy Chief Financial Officer
Office Of The Chief Financial Officer/Comptroller | Comptroller
| Deputy Chief Financial Officer
| Deputy Chief Financial Officer for Resources (Comptroller)
| Director For Performance Reporting
| Director, Business Integration
| Director, Center Fiscal Operations
| Director, Financial Management
| Director, Quality Assurance
| Director, Resource Planning Division
| Director, Strategic Management And Planning
| Senior Advisor To The Deputy Chief Financial Officer
Office Of The Chief Information Officer | Chief, Computer Services Division
| Deputy CIO For It Security
Office Of The Deputy Director | Associate Program Manager, Constellation Program
| Senior Executive For Technology And Integration
Office Of The Director | Deputy Manager, Constellation Program
| Special Assistant To The Director
Planetary Science Division | Deputy Director, Planetary Science Division
| Director, Planetary Science Division
| Mars Exploration Program Director
Procurement | Director, Procurement Office
Research And Development Services | Chief Systems Engineering Division
| Chief, Wind Tunnel Operations Division
Research And Technology Directorate | Chief, Aeropropulsion Division
| Chief, Communications, Instrumentation And Controls Division
| Chief, Materials And Structures Division
| Chief, New Business And Partnership Office
| Chief, Power And On-Board Propulsion Division
| Chief, Structures And Materials Division
Safety And Mission Assurance | Assistant To The Director, Safety And Mission Assurance
| Associate Director For Agency Occupational Health Program
| Associate Director For Safety And Mission Assurance
| Associate Director For Technical, Safety And Mission Assurance
| Deputy Director, Safety And Mission Assurance
| Director, Safety And Mission Assurance
Safety And Mission Assurance Directorate | Deputy Director For Program Assurance
| Deputy Director, Safety And Mission Assurance Directorate
| Director, Office Of Safety, Environmental And Mission Assurance
| Director, Safety And Mission Assurance Directorate
Science And Mission Systems Office | Chief Operating Officer, National Space Science And Technology Center
| Chief Scientist (Aerospace Technology, Science Program Management)
| Deputy Manager, Science And Mission Systems Office
| Manager, Lunar Program And Projects Office
| Manager, Science And Mission Systems Office
| Manager, Science Programs And Projects Office
Science Mission Directorate | Assistant Associate Administrator For Technology
| Associate Director, Solar System Exploration Division
| Associate Director, Sun-Earth Connection Division
| Deputy Associate Administrator For Management
| Deputy Associate Administrator For Programs
| Deputy Associate Administrator For Technology
| Deputy Director, For Programs, Earth Science Division
| Director, Applications Division
| Director, Strategic Integration And Management Division
| Senior Advisor
Sciences And Exploration | Associate Director For Advanced Concepts And Planning
| Chief, Goddard Institute For Space Studies
| Chief, Laboratory For Atmospheres
| Deputy Director Of Sciences And Exploration
| Deputy Director Of Sciences And Exploration For Planning And Business Management
| Deputy Director, Astrophysics Science Division
| Deputy Director, Earth Sciences Division
| Deputy Director, Solar System Exploration Division
| Deputy For Planetary Science
| Director Of Sciences And Exploration
| Director, Astrophysics Science Division
| Director, Earth Sciences Division
| Director, Heliophysics Science Division
| Director, Solar System Exploration Division
Shuttle Processing | Deputy Director, Shuttle Processing
| Director Of Shuttle Processing
Shuttle Propulsion Office | Deputy Manager, Shuttle Propulsion Office
| Management Liaison For Exploration
| Manager, External Tank Project
| Manager, Propulsion Systems Engineering And Integration Office
| Manager, Reusable Solid Rocket Booster Project
| Manager, Shuttle Propulsion Office
| Manager, Space Shuttle Main Engine Project, Shuttle Propulsion Office
Space And Life Sciences | Assistant Director For Engineering
| Assistant Director For Flight Programs
| Assistant Director For Space Medicine
| Assistant Director, Space And Life Sciences
| Associate Director, Space And Life Sciences
| Associate Director, Technical
| Chief, Medical Sciences Division
| Deputy Associate Director, Biological Sciences And Applications
| Deputy Director, Requirements, Planning, And Integration
| Deputy Director, Space And Life Sciences
| Director, Space Life Sciences
| Manager Of Operations And Integration
| Manager, Human Research Program
Space Flight Systems Directorate | Chief, Advanced Flight Projects Office
| Deputy Director, Space Flight Systems
Space Operations Mission Directorate | Assistant Associate Administrator For Space Shuttle Program
| Assistant Associate Administrator For International Space Station
| Assistant Associate Administrator For Launch Services
| Assistant Associate Administrator For Resources Management And Analysis Office
| Assistant Associate Administrator For Space Shuttle Program
| Deputy Assistant Administrator For Program Integration
| Deputy Associate Administrator For Space Communications And Navigation
| Director, International Space Station And Space Shuttle Program Resource
| Manager, Rocket Propulsion Test Program Office
| Space Operations Mission Directorate Transition Manager
Space Physics | Senior Scientist Program Executive For Review And Evaluation
Space Shuttle Program | Assistant Manager Space Shuttle Program
| Associate Manager, SSP
| Deputy Manager, Space Shuttle Program
| Deputy Manager, Space Shuttle Program (Technical)
| Deputy Space Shuttle Program Manager For Kennedy Space Center
| Manager For Space Shuttle Program Development
| Manager Launch Integration (Kennedy Space Center)
| Manager, Orbiter Project Office
| Manager, Safety And Mission Assurance Office
| Manager, Space Shuttle Business Office
| Manager, Space Shuttle Flight Operations And Integration
| Manager, Space Shuttle Management Integration And Planning Office
| Manager, Space Shuttle Program
| Manager, Space Shuttle Program Integration
| Manager, Space Shuttle Systems Engineering And Integration Office
| Space Operations Commercialization Manager
Space Station Program Office | Associate Manager, International Space Station External Integration Office
| Associate Program Manager, International Space Station
| Deputy Manager, International Space Station Program
| Deputy Manager, SSP
| Deputy Program Manager For Technical Development
| Director, Human Space Flight Program—Russia
| Manager, Avionics And Software Office
| Manager, External Relations Office, International Space Station
| Manager, International Space Station Payloads Office
| Manager, International Space Station Program
| Manager, Mission Integration And Operations Office
| Manager, Operations Integration
| Manager, Program Integration Office
| Manager, Program Planning And Control Office, International Space Station
| Manager, Research Programs
| Manager, Safety And Mission Assurance/Program Risk Office, ISSP
| Manager, Vehicle Office
| Technical Assistant For External Reviews
| Technical Assistant To The Manager, Space Station Program
Spaceport Services | Assistant Director, Center Operations
| Associate Director, Center Operations And Chief Medical Officer
| Director, Center Operations
Stennis Space Center | Associate Director
| Deputy Director, Engineering And Science Directorate
| Deputy Director, Stennis Space Center
| Director, Applied Sciences Directorate
| Director, Business Management Directorate
| Director, Center Operations Directorate
| Director, Engineering And Science Directorate
| Director, Projects Directorate
| Senior Advisor To The Director
| Special Assistant To The Director
White Sands Test Facility | Manager, National Aeronautics And Space Administration White Sands Test Facility
National Aeronautics And Space Administration Office Of The Inspector General: | Assistant Inspector General For Auditing
| Assistant Inspector General For Investigations
| Assistant Inspector General For Management And Planning
| Counsel To The Inspector General
| Deputy Inspector General
National Archives And Records Administration:
Archivist Of United States And Deputy Archivist Of The United States | Deputy Archivist Of The United States
Office Of Administration | Assistant Archivist For Administration
Office Of Information Services | Assistant Archivist For Information Services
Office Of Presidential Libraries | Assistant Archivist For Presidential Libraries
Office Of Records Services—Washington, Dc | Assistant Archivist For Records Services
Office Of Regional Records Services | Assistant Archivist For Regional Records Services
Office Of The Federal Register | Director Of The Federal Register
Office Of The Inspector General | Inspector General
National Capital Planning Commission:
National Capital Planning Commission Staff | Chief Operating Officer
| Deputy Executive Director
| Executive Director
| General Counsel
National Endowment For The Arts:
| Chief Information Officer
| Deputy Chairman For Management And Budget
| Director, Research And Analysis
National Endowment For The Arts Office Of The Inspector General: | Inspector General
National Endowment For The Humanities: | Assistant Chairman For Planning And Operations
National Labor Relations Board:
Division Of Administration | Deputy Director, Division Of Administration
| Director, Division Of Administration
Division Of Advice | Associate General Counsel, Division Of Advice
| Deputy Associate General Counsel, Division Of Advice
Division Of Enforcement Litigation | Deputy Associate General Counsel, Appellate Court Branch
| Director, Office Of Appeals
Division Of Operations Management | Assistant General Counsel
| Assistant To General Counsel
| Associate General Counsel, Division Of Operation-Management
| Deputy Associate General Counsel, Division Of Operations-Management
National Labor Relations Board | Deputy Associate General Counsel, Division Of Enforcement Litigation
Office Of The Board Members | Chief Information Officer
| Deputy Executive Secretary
| Executive Secretary
| Inspector General
Regional Offices | Regional Director Region 2, New York
| Regional Director, Region 1, Boston, Massachusetts
| Regional Director, Region 10, Atlanta, Georgia
| Regional Director, Region 11, Winston Salem, North Carolina
| Regional Director, Region 12, Tampa, Florida
| Regional Director, Region 13, Chicago, Illinois
| Regional Director, Region 14, Saint Louis, Missouri
| Regional Director, Region 15, New Orleans, Louisiana
| Regional Director, Region 16, Fort Worth, Texas
| Regional Director, Region 17, Kansas City, Kansas
| Regional Director, Region 18, Minneapolis, Minnesota
| Regional Director, Region 19, Seattle, Washington
| Regional Director, Region 20, San Francisco, California
| Regional Director, Region 21, Los Angeles, California
| Regional Director, Region 22, Newark, New Jersey
| Regional Director, Region 24, Hato Rey, Puerto Rico
| Regional Director, Region 25, Indianapolis, Indiana
| Regional Director, Region 26, Memphis, Tennessee
| Regional Director, Region 27, Denver, Colorado
| Regional Director, Region 28, Phoenix, Arizona
| Regional Director, Region 29, Brooklyn, New York
| Regional Director, Region 3, Buffalo, New York
| Regional Director, Region 30, Milwaukee, Wisconsin
| Regional Director, Region 31, Los Angeles, California
| Regional Director, Region 32, Oakland, California
| Regional Director, Region 34, Hartford, Connecticut
| Regional Director, Region 4, Philadelphia, Pennsylvania
| Regional Director, Region 5, Baltimore, Maryland
| Regional Director, Region 6, Pittsburgh, Pennsylvania
| Regional Director, Region 7, Detroit, Michigan
| Regional Director, Region 8, Cleveland, Ohio
| Regional Director, Region 9, Cincinnati, Ohio
National Science Foundation:
Antarctic Infrastructure And Logistics Division | Division Director, Antarctic Infrastructure And Logistics
Budget Division | Deputy Director
| Division Director
Directorate For Biological Sciences | Deputy Assistant Director
| Executive Officer
Directorate For Computer And Information Science And Engineering | Deputy Assistant Director
| Executive Officer
| Senior Staff Associate
Directorate For Education And Human Resources | Deputy Assistant Director For Integrative Activities
Directorate For Engineering | Senior Advisor
Directorate For Mathematical And Physical Sciences | Deputy Assistant Director
| Executive Officer
| Senior Advisor
| Senior Science Associate
Directorate For Social, Behavioral And Economic Sciences | Deputy Assistant Director
Division Of Acquisition And Cooperative Support | Division Director
Division Of Administrative Services | Deputy Division Director
| Division Director
Division Of Atmospheric And Geospace Sciences | Head (University Corporation For Atmospheric Research) Lower Atmospheric Facilities Oversight Section
Division Of Chemical, Bioengineering, Environmental, And Transport Systems | Deputy Division Director
| Senior Advisor
Division Of Civil, Mechanical, And Manufacturing Innovation | Deputy Division Director
Division Of Earth Sciences | Section Head, Deep Earth Processes
Division Of Engineering Education And Centers | Deputy Division Director (Education)
| Senior Staff Associate
Division Of Environmental Biology | Deputy Division Director
Division Of Financial Management | Deputy Division Director, Division Of Financial Management
| Division Director And Deputy Chief Financial Officer
Division Of Grants And Agreements | Division Director
Division Of Human Resource Management | Deputy Division Director
| Division Director
Division Of Industrial Innovation And Partnerships | Senior Advisor
Division Of Information Systems | Deputy Division Director
Division Of Institutional And Award Support | Deputy Division Director
| Division Director
Division Of Integrative Organismal Systems | Deputy Division Director
Division Of Materials Research | Deputy Division Director
| Executive Officer
Division Of Mathematical Sciences | Deputy Division Director
| Executive Officer
Division Of Ocean Sciences | Section Head, Integrative Programs Section
Division Of Physics | Executive Officer
Division Of Research On Learning In Formal And Informal Settings | Senior Advisor For Research
National Science Board | Senior Policy Officer
Office Of Budget, Finance And Award Management | Deputy Director—Management, Operations And Policy
| Deputy Director-Planning, Coordination And Analysis
| Director, Budget, Finance And Award And Chief Financial Officer
| Senior Advisor
Office Of Equal Opportunity Programs | Director, Office Of Equal Opportunity Programs
Office Of Information And Resource Management | Deputy Director
| Director
| Senior Advisor
| Senior Staff Associate
Office Of Integrative Activities | Senior Advisor
| Senior Advisor (Level-Ii)
| Senior Scientist
Office Of International Science And Engineering | Deputy Office Head
| Senior Staff Associate
Office Of The Director | Senior Advisor
| Senior Staff Associate
Office Of The General Counsel | Deputy General Counsel
Office Of The Inspector General | Assistant Inspector General For Audit
| Associate Inspector General For Audit
| Associate Inspector General For Investigations
| Deputy Inspector General
| Inspector General
National Transportation Safety Board:
Office Of Administration | Director, Office Of Administration
Office Of Aviation Safety | Chief Scientist Aeronautical Engineering
| Deputy Director, Office Of Aviation Safety
| Deputy Director, Regional Operations
| Director Office Of Aviation Safety
Office Of Chief Financial Officer | Chief Financial Officer
Office Of Chief Information Officer | Chief Information Officer
Office Of Highway Safety | Director, Office Of Highway Safety
Office Of Management | Deputy Managing Director
| Managing Director
Office Of Marine Safety | Director, Office Of Marine Safety
Office Of Railroad, Pipeline And Hazardous Materials Investigations | Deputy Director, Office Of Railroad, Pipeline And Hazardous Materials Safety
| Director, Office Of Railroad, Pipeline And Hazardous Materials Investigations
Office Of Research And Engineering | Deputy Director Office Of Research And Engineering
| Director Office Of Research And Engineering
Office Of Safety Recommendations And Advocacy | Director Office Of Safety Recommendations And Accomplish
Nuclear Regulatory Commission:
Advisory Committee On Reactor Safeguards/Advisory Committee On Nuclear Waste And Materials | Deputy Executive Director
Computer Security Office | Chief Information Security Officer/Director, Computer Security Office
Deputy Director For Engineering And Corporate Support | Associate Director For Engineering And Safety Systems
Deputy Director For Reactor Safety Programs | Associate Director For Operating Reactor Oversight And Licensing
| Deputy Director For Reactor Safety Programs
Division Of Component Integrity | Deputy Director, Division Of Component Integrity
| Director, Division Of Component Integrity
Division Of Construction Inspection And Operational Programs | Deputy Director, Division Of Construction Inspection And Operational Programs
| Director, Division Of Construction Inspection And Operational Programs
Division Of Engineering | Deputy Director, Division Of Engineering
| Director, Division Of Engineering
Division Of Fuel Cycle Safety And Safeguards | Deputy Director, Fuel Facility Licensing Directorate
| Deputy Director, Special Projects And Technical Support Directorate
| Director, Division Of Fuel Cycle Safety And Safeguards
Division Of High Level Waste Repository Safety | Deputy Director, Licensing And Inspection Directorate
| Deputy Director, Technical Review Directorate
| Director, Division Of High Level Waste Repository Safety
Division Of Inspection And Regional Support | Deputy Director, Division Of Inspection And Regional Support
| Director, Division Of Inspection And Regional Support
Division Of Intergovernmental Liaison And Rulemaking | Deputy Director, Division Of Intergovernmental Liaison And Rulemaking
| Director, Division Of Intergovernmental Liaison And Rulemaking
Division Of License Renewal | Deputy Director, Division Of License Renewal
| Director, Division Of License Renewal
Division Of Materials Safety And State Agreements | Deputy Director, Licensing And Inspection Support Directorate
| Deputy Director, National Materials Program Directorate
| Director, Division Of Materials Safety And State Agreements
Division Of New Reactor Licensing | Deputy Director For Infrastructure And Policy
| Deputy Director For Licensing Operations
| Director, Division Of New Reactor Licensing
Division Of Operating Reactor Licensing | Deputy Director, Division Of Operating Reactor Licensing
| Director, Division Of Operating Reactor Licensing
Division Of Policy And Rulemaking | Deputy Director, Division Of Policy And Rulemaking
| Director, Division Of Policy And Rulemaking
Division Of Preparedness And Response | Deputy Director For Emergency Preparedness
| Deputy Director For Incident Response
| Director, Division Of Preparedness And Response
Division Of Risk Analysis | Deputy Director, Division Of Risk Analysis
| Director, Division Of Risk Analysis
Division Of Risk Assessment | Deputy Director, Division Of Risk Assessment
| Director, Division Of Risk Assessment
Division Of Safety Systems | Deputy Director, Division Of Safety Systems
| Director, Division Of Safety Systems
Division Of Safety Systems And Risk Assessment | Deputy Director, Division Of Safety Systems And Risk Assessment
| Director, Division Of Safety Systems And Risk Assessment
Division Of Security Operations | Deputy Director For Security Oversight
| Deputy Director For Security Programs
| Director, Division Of Security Operations
Division Of Security Policy | Deputy Director For Material Security
| Deputy Director For Reactor Security And Rulemaking
| Director, Division Of Security Policy
Division Of Site And Environmental Reviews | Deputy Director, Division Of Site And Environmental Reviews
| Director, Division Of Site And Environmental Reviews
Division Of Spent Fuel Storage And Transportation | Deputy Director, Licensing And Inspection Directorate
| Deputy Director, Technical Review Directorate
| Director, Division Of Spent Fuel Storage And Transportation
Division Of Systems Analysis | Deputy Director, Division Of Systems Analysis
| Director, Division Of Systems Analysis
Division Of Waste Management And Environmental Protection | Deputy Director, Decommissioning And Uranium Recovery Licensing Directorate
| Deputy Director, Environmental Protection And Performance Assessment Directorate
| Director, Division Of Waste Management And Environmental Protection
Office Of Administration | Associate Director For Space Planning And Consolidation
| Deputy Director, Division Of Administrative Services
| Deputy Director, Office Of Administration
| Director, Division Of Administrative Services
| Director, Division Of Contracts
| Director, Division Of Facilities And Security
Office Of Commission Appellate Adjudication | Director, Office Of Commission Appellate Adjudication
Office Of Federal And State Materials And Environmental Management Programs | Deputy Director, Office Of Federal And State Materials And Environmental Management Programs
| Director, Program Planning, Budgeting, And Program Analysis Staff
Office Of Information Services | Deputy Director, Office Of Information Services
| Director, Business Process Improvement And Applications Division
| Director, Information And Records Services Division
| Director, Infrastructure And Computer Operations Division
| Director, Program Management, Policy Development And Analysis Staff
Office Of Investigations | Deputy Director, Office Of Investigations
Office Of New Reactors | Deputy Director, Office Of New Reactors
| Director, Advanced Reactor Program
| Director, Program Management, Policy Development And Planning Staff
Office Of Nuclear Material Safety And Safeguards | Director, Program Planning, Budgeting, And Program Analysis Staff
Office Of Nuclear Reactor Regulation | Deputy Director For Engineering And Corporate Support
| Director, Program Management, Policy Development And Planning Staff
Office Of Nuclear Regulatory Research | Director, Program Management, Policy Development And Analysis Staff
Office Of Nuclear Security And Incident Response | Deputy Director, Office Of Nuclear Security And Incident Response
| Director, Program Management, Policy Development, And Analysis Staff
| Special Assistant
Office Of Small Business And Civil Rights | Director, Office Of Small Business And Civil Rights
Office Of The Chief Financial Officer | Controller
| Deputy Chief Financial Officer
| Deputy Director, Division Of Planning, Budget, And Analysis
| Director Division Of Budget
Office Of The General Counsel | Director, Commission Adjudicatory Technical Support Program
Region I | Deputy Director, Division Of Reactor Projects
| Deputy Director, Division Of Reactor Safety
| Deputy Regional Administrator
| Director Division Of Reactor Safety
| Director, Division Of Nuclear Materials Safety
| Director, Division Of Reactor Projects
Region II | Deputy Director, Division Of Construction Inspection
| Deputy Director, Division Of Construction Projects
| Deputy Director, Division Of Fuel Facility Inspection
| Deputy Director, Division Of Reactor Projects
| Deputy Director, Division Of Reactor Safety
| Deputy Regional Administrator For Construction
| Deputy Regional Administrator For Operations
| Director, Division Of Construction Inspection
| Director, Division Of Construction Projects
| Director, Division Of Fuel Facility Inspection
| Director, Division Of Reactor Projects
| Director, Division Of Reactor Safety
Region III | Deputy Director, Division Of Reactor Projects
| Deputy Director, Division Of Reactor Safety
| Deputy Regional Administrator
| Director, Division Of Nuclear Materials Safety
| Director, Division Of Reactor Projects
| Director, Division Of Reactor Safety
Region IV | Deputy Director, Division Of Reactor Projects
| Deputy Director, Division Of Reactor Safety
| Deputy Regional Administrator
| Director Division Of Reactor Projects
| Director, Division Of Nuclear Materials Safety
| Director, Division Of Reactor Safety
Nuclear Regulatory Commission Office Of The Inspector General:
Assistant Inspector General For Audits | Assistant Inspector General For Audits
Assistant Inspector General For Investigations | Assistant Inspector General For Investigations
Nuclear Regulatory Commission Office Of The Inspector General: | Deputy Inspector General
Occupational Safety And Health Review Commission:
Office Of The Executive Director | Executive Director
Office Of Government Ethics: | Deputy Director For Administration
| Deputy Director For Administration And Information Management
| Deputy Director For Agency Programs
| Deputy Director, For Government Relations And Special Projects
| Deputy General Counsel
Office Of Management And Budget:
Budget Review | Assistant Director For Budget Review
| Chief Budget Analysis Branch
| Chief, Budget Concepts Branch
| Chief, Budget Review Branch
| Chief, Budget Systems Branch
| Deputy Assistant Director For Budget Analysis And Systems
| Deputy Assistant Director For Budget Review And Concepts
| Deputy Chief Budget Analysis Branch
| Deputy Chief, Budget Review Branch
Energy, Science And Water Division | Chief Science And Space Programs Branch
| Chief, Energy Branch
| Chief, Water And Power Branch
| Deputy Associate Director For Energy And Science Division
General Counsel | Associate General Counsel For Budget
Health Division | Chief Health And Financing Branch
| Chief, Health And Human Services Branch
| Chief, Medicaid Branch
| Chief, Medicare Branch
| Chief, Public Health Branch
| Deputy Associate Director For Health
Housing, Treasury And Commerce Division | Chief, Commerce Branch
| Chief, Housing Branch
| Chief, Treasury Branch
| Deputy Associate Director For Housing, Treasury And Commerce
Human Resource Programs | Chief, Education Branch
| Chief, Income Maintenance Branch
| Chief, Labor Branch
| Chief, Personnel Policy Branch
| Deputy Associate Director For Education, Income Maintenance And Labor
| Deputy Associate Director, Education And Human Resources Division
| Senior Advisor
International Affairs Division | Chief, Economic Affairs Branch
| Chief, State/United States International Affairs Branch
| Deputy Associate Director For International Affairs
Legislative Reference Division | Assistant Director Legislative Reference
| Chief, Economics, Science And Government Branch
| Chief, Labor, Welfare, Personnel Branch
| Chief, Resources-Defense-International Branch
National Security Division | Chief Operations And Support Branch
| Chief Veteran Affairs Branch
| Chief, Command, Control, Communications, And Intelligence Branch
| Chief, Force Structure And Investment Branch
| Deputy Associate Director For National Security
Natural Resource Programs | Senior Advisor
Natural Resources Division | Chief Interior Branch
| Chief, Agricultural Branch
| Chief, Environment Branch
| Deputy Associate Director For Natural Resources
Office Of E-Government And Information Technology | Chief Architect
Office Of Federal Financial Management | Chief Federal Financial Systems Branch
| Chief, Financial Integrity And Analysis Branch
| Chief, Financial Standards And Grants Branch
| Senior Advisor To The Director
Office Of Federal Procurement Policy | Associate Administrator
| Associate Administrator (Acquisition Policy)
| Associate Administrator For Acquisition Implementation
| Associate Administrator For Procurement Law And Legislation
| Deputy Administrator For Federal Procurement Policy
Office Of Information And Regulatory Affairs | Chief Statistical Policy Branch
| Chief, Health, Transportation And General Government
| Chief, Information Policy And Technology Branch
| Chief, Natural Resources And Environment Branch
| Senior Advisor
Office Of The Director | Assistant Director For Management And Operations
| Deputy Assistant Director For Management
| Deputy Associate Director For Economic Policy
| Senior Advisor To The Deputy Director For Management
Transportation, Homeland, Justice And Services Division | Chief Transportation Branch
| Chief, Homeland Security
| Chief, Justice Branch
| Chief, Transportation/General Services Administration Branch
| Deputy Associate Director, Transportation, Homeland, Justice And Services
Office Of National Drug Control Policy:
National Youth Anti-Drug Media Campaign | Associate Deputy Director For State, Local And Tribal Affairs (National Youth Anti-Drug Media Campaign)
Office Of Supply Reduction | Assistant Deputy Director Of Supply Reduction
| Associate Director For Intelligence
Office Of Personnel Management:
Center For Contracting, Facilities, And Administrative Services | Deputy Associate Director For Contracting, Facilities, And Administrative Services
Center For Financial Services | Associate Chief Financial Officer For Center For Financial Services
Center For Information Services And Chief Information Officer | Deputy Associate Director And Chief Information Officer
Center For Merit System Accountability | Deputy Associate Director For Merit System Accountability
Center For Retirement And Insurance Services | Assistant Director For Retirement And Insurance Services Support Services
| Assistant Director For Retirement Services Programs
Center For Security And Emergency Actions | Deputy Associate Director For Security And Emergency Actions
Center For Workforce Planning And Policy Analysis | Chief Actuary
Center For Workforce Relations And Accountability Policy | Deputy Associate Director For Workforce Relations And Accountability Policy
Federal Investigative Services Division | Deputy Associate Director For Investigative Program Operations
Office Of The Chief Financial Officer | Chief Financial Officer
| Deputy Chief Financial Officer
Office Of The Inspector General | Assistant Inspector General For Audits
| Assistant Inspector General For Investigations
| Assistant Inspector General For Policy, Resources Management, And Oversight
| Deputy Assistant Inspector General For Audits
| Deputy Inspector General
Office Of Science And Technology Policy:
Office Of Science And Technology Policy | Deputy Chief Of Staff And Assistant Director
Office Of Special Counsel:
Headquarters, Office Of Special Counsel | Associate Special Counsel For Investigation And Prosecution
| Associate Special Counsel For Legal Counsel And Policy
| Associate Special Counsel Planning And Oversight
| Chief Financial Officer And Director Of Administrative Services
| Director Of Management And Budget
| Director, Office Of Planning And Analysis
| Senior Associate Special Counsel For Investigation And Prosecution
Office Of The Secretary Of Defense:
Assistant To The Secretary Of Defense For Nuclear And Chemical And Biological Defense Programs | Deputy Assistant To The Secretary Of Defense (Nuclear Matters)
| Deputy Assistant To The Under Secretary Of Defense (Chemical And Biological Defense)
Defense Advanced Research Projects Agency | Deputy Director, Advanced Technology Office
| Deputy Director, Defense Advanced Research Project Agency
| Deputy Director, Defense Advanced Research Projects Agency/Director, Defense Science Office
| Deputy Director, Tactical Technology Office
| Director, Advanced Technology Office
| Director, Contracts Management Office
| Director, Information Processing Technology Office
| Director, Office Of Management Operations
| Director, Special Projects Office
| Joint Applications Study Group Program Manager
Defense Contract Audit Agency | Assistant Director, Operations
| Assistant Director, Policy And Plans
| Deputy Director, Defense Contract Audit Agency
| Deputy Regional Director, Western Region
| Director, Defense Contract Audit Agency
| Director, Field Detachment
Defense Contract Management Agency | Chief Information Officer
| Deputy Director, Defense Contract Management Agency
| Deputy Director, Defense Contract Management Agency District Boston
| Deputy Executive Director, Contract Management Operations
| Deputy General Counsel
| Director, Defense Contract Management Agency
| Director, Defense Contract Management Agency District Los Angeles
| Director, Defense Contract Management Agency—East
| Director, Defense Contract Management Agency—West
| Executive Director, Contract Management Operations
| Executive Director, Financial And Business Operations And Comptroller
| Executive Director, Ground Systems And Munitions Division
| Executive Director, Naval Sea Systems Division (Boston Division)
| Executive Director, Program Support And Customer Relations
| General Counsel
Defense Human Resources Activity | Chief Actuary
| Deputy Director For Advisory Services, Defense Human Resources Activity
| Deputy Director, Defense Manpower Data Center
| Director, Civilian Personnel Management Service
| Director, Defense Manpower Data Center
Defense Information Systems Agency | Brac Transition Executive
| Business Systems Executive
| Chief Engineer, Information Systems Security
| Chief Executive For Information Technology
| Chief Financial Executive/Comptroller
| Chief Information Officer
| Chief Technology Officer
| Chief, Center For Network Services
| Chief, Policy, Plans, And Appropriated Programs Division
| Chief, Transport Engineering Center
| Component Acquisition Executive
| Congressional Liaison Officer
| Deputy Chief Financial Executive/Comptroller
| Deputy Director, Net Centric Enterprise Services
| Director For Manpower, Personnel And Security
| Director For Network Services
| Director For Procurement And Chief, Defense Information Technology Contracting Organization
| Director For Strategic Planning And Information
| Inspector General
| Principal Director For Computing Services
| Principal Director For Network Services
| Principal Director, Global Information Grid Operations
| Professor Of Information Science
| Program Executive Officer, Information Assurance Networks Operations
| Program Executive Officer, Satcom Teleport And Services
| Program Executive Officer, Satcom, Teleport And Services
| Systems Engineering Transformation Executive
| Test And Evaluation Executive
| Vice Director For Network Services
| Vice Principal Director, Global Information Grid Combat Support
Defense Logistics Agency | Chief Financial Officer
| Deputy Director, Logistics Operations And Readiness
| Deputy Commander Defense Distribution Center
| Deputy Commander, Defense Supply Center—Philadelphia
| Deputy Commander, Defense Supply Center, Columbus
| Deputy Commander, Defense Supply Center—Richmond
| Deputy Director, Customer Operations And Readiness
| Deputy Director, Defense Energy Support Center
| Deputy Director, Information Operations/Chief Technical Officer
| Deputy General Counsel (Administration)
| Director Defense Logistics Agency Accountability Office
| Director, Defense Energy Support Center
| Director, Defense Reutilization And Marketing Services
| Director, Information Operations/Chief Technical Officer
| Executive Director Human Resources
| Executive Director, Aviation Contracting And Acquisition Management
| Executive Director, Brac Implementation
| Executive Director, Enterprise Solutions
| Executive Director, Material Policy, Process, And Assessment
| General Counsel
| Principal Deputy Comptroller
| Program Executive Officer
Defense Security Cooperation Agency | Chief Information Officer/Principal Director For Information Technology
| Principal Director For Strategy
Defense Security Service | Chief Financial Officer
| Deputy Director For Industrial Security
| Deputy Director For Security Education, Training, And Awareness
| Deputy Director, Defense Security Service
| Director For Industrial Security
| Director, Defense Security Service
| Director, Personnel Security Clearance Office
Defense Threat Reduction Agency | Associate Director, Business Enterprise
| Associate Director, Operations Enterprise
| Chief, Operational Applications Division
| Chief, Simulation And Test Division
| Deputy Associate Director, Business Enterprise
| Deputy Director, On-Site Inspection
| Deputy Director, Operations Directorate
| Director For Electronics And Systems
| Director, Chemical-Biological Defense Technologies Directorate
| Director, Counter Weapons Of Mass Destruction Technologies
| Director, Counterproliferation Support And Operations
| Director, Nuclear Technologies Directorate
| Director, System Applications Division
Deputy Under Secretary Of Defense (Acquisition And Technology) | Assistant Deputy Under Secretary Of Defense (Acquisition Process And Policies)
| Assistant Director, Land Systems
| Deputy Director (Missile Warfare)
| Deputy Director Air Warfare
| Deputy Director For Cost, Price And Finance
| Deputy Director Naval Warfare
| Deputy Director, Assessments And Support
| Deputy Director, Acquisition Management
| Deputy Director, Acquisition Workforce And Career Management
| Deputy Director, Contract Policy And International Contracting
| Deputy Director, Defense Acquisition Regulations System
| Deputy Director, Developmental Test And Evaluation
| Deputy Director, Land Warfare And Munitions
| Deputy Director, Program Acquisition And Contingency Contracting
| Deputy Director, Strategic Sourcing
| Deputy Director, Treaty Compliance
| Director, Defense Procurement And Acquisition Policy
| Special Assistant Concepts And Plans
| Technical Director, Force Development
Director, Operational Test And Evaluation | Deputy Director For Live Fire Test And Evaluation
Missile Defense Agency | Chief Engineer, Ground-Based Midcourse Defense
| Deputy Director, Joint National Integration Center
| Deputy For Acquisition Management
| Deputy For Engineering
| Deputy Program Director For Battle Management, Command And Control
| Deputy Program Director, BC
| Director For Advanced Technology
| Director For Systems Engineering And Integration
| Director, Contracting
| Executive Director
| Program Director For Battle Management, Command And Control
| Program Director, Ground Missile Defense
| Program Director, Ground-Based Midcourse Defense
| Program Director, Multiple Kill Vehicle
| Program Director, Targets And Countermeasures
Office Assistant Secretary Of Defense (Health Affairs) | Deputy Chief, Tricare Acquisitions Directorate
| Director, Information Management, Technology And Reengineering/Military Health System Chief Information Officer
| General Counsel
| Regional Director, Tricare Regional Office—North
| Regional Director, Tricare Regional Office—South
Office Of Assistant Secretary Of Defense (Public Affairs) | Deputy Director, American Forces Information Service
| Director Armed Forces Radio And Television Service
| Director, Defense Media Activity
Office Of Assistant Secretary Of Defense (Reserve Affairs) | Principal Director (Manpower And Personnel)
Office Of Director Of Administration And Management | Assistant Director, Law Enforcement
| Director, Pentagon Force Protection Agency
| Principal Deputy Director, Pentagon Force Protection Agency
Office Of Inspector General | Assistant Inspector General Administrative Investigations
| Assistant Inspector General For Acquisition And Contract Management
| Assistant Inspector General For Administration And Management
| Assistant Inspector General For Audit Policy And Oversight
| Assistant Inspector General For Inspections And Evaluations
| Assistant Inspector General For Investigative Policy And Oversight
| Assistant Inspector General For Readiness And Operations Support
| Assistant Inspector General, Defense Financial Auditing Service
| Assistant Inspector General, Office Of Communications And Congressional Liaison
| Deputy Director, Defense Criminal Investigative Service
| Deputy Inspector General For Auditing
| Deputy Inspector General For Inspections And Policy And Oversight
| Deputy Inspector General For Intelligence
| Deputy Inspector General For Investigations
| Director, Defense Criminal Investigative Service—Assistant Inspector General For Investigations
| General Counsel And Assistant Inspector General For The Office Of Legal Counsel
| Principal Audit Inspector General For Auditing
| Principal Deputy Assistant Inspector General, Defense Financial Auditing Service
| Principal Deputy Inspector General
Office Of The Assistant Secretary Of Defense (Global Strategic Affairs) | Deputy Director, Defense Technology Security Administration
Office Of The Assistant Secretary Of Defense (Special Operations/Low Intensity Conflict And Interdependent Capabilities) | Director, Resources
Office Of The Director Of Defense Research And Engineering | Assistant Deputy Under Secretary Of Defense (Full Dimensional Protection)
| Director For Biological Systems
| Director For Information Technology
| Director For Science And Technology Plans And Programs
| Director For Technology Transition
| Director For Weapons Systems
| Director, Plans And Programs
| Director, Space And Sensor Technology
| Principal Deputy Director, Defense Research And Engineering/Director, Plans An Programs
Office Of The General Counsel | Deputy General Counsel (Inspector General)
| Director Defense Office Of Hearings And Appeals
| Director, Office Of Litigation
Office Of The Joint Chiefs Of Staff | Deputy Director For Wargaming, Simulation And Analysis
Office Of The Secretary | Assistant To The Secretary Of Defense For Intelligence Oversight
Office Of The Under Secretary Of Defense (Acquisition, Technology, And Logistics) | Deputy Director, Acquisition Management
| Deputy Director, Enterprise Information And OSD Studies
| Deputy Director, Resource Analysis
| Director (Planning And Analysis)
| Director For Administration
| Director, Acquisition Resources And Analysis
| Director, Environmental Readiness And Safety
| Director, Pacific Armaments Cooperation
| Principal Deputy, Acquisition Resources And Analysis
Office Of The Under Secretary Of Defense (Comptroller) | Assistant Deputy Chief Financial Officer
| Deputy Chief Financial Officer
| Deputy Director For Operations
| Deputy Director For Program And Financial Control
| Director, Program And Financial Control
Office Of The Under Secretary Of Defense (Policy) | Foreign Relations And Defense Policy Manager
Regional Managers | Assistant Director, Integrity And Quality Control
| Deputy Regional Director Central Region
| Deputy Regional Director Eastern Region
| Deputy Regional Director Mid Atlantic Region
| Deputy Regional Director Northeastern Region
| Regional Director, Central
| Regional Director, Eastern
| Regional Director, Mid-Atlantic
| Regional Director, Northeastern
| Regional Director, Western
Washington Headquarters Services | Deputy Director, Defense Facilities Directorate
| Deputy Director, Human Resources Directorate
| Director, Acquisition And Procurement Office
| Director, Defense Facilities Directorate
| Director, Defense Facilities Directorate/Principal Deputy To The Director, Washington Headquarters Services
| Director, Freedom Of Information And Security Review
| Director, Human Resources Directorate
Office Of The Secretary Of Defense Office Of The Inspector General:
Acquisition And Contract Management | Assistant Inspector General For Acquisition And Contract Management
Administrative Investigations | Deputy Inspector General Administrative Investigations
Audit Policy And Oversight | Assistant Inspector General For Audit Policy And Oversight
Defense Business Operations | Assistant Inspector General For Defense Business Operations
| Deputy Director, Defense Business Operations
Defense Criminal Investigative Service | Deputy Director, Defense Criminal Investigative Service
| Director, Defense Criminal Investigative Service-Assistant Inspector General For Investigations
Deputy Inspector General For Administrative Investigations | Deputy Inspector General For Special Plans And Operations
Deputy Inspector General For Auditing | Deputy Inspector General For Auditing
Deputy Inspector General For Intelligence | Deputy Inspector General For Intelligence
Deputy Inspector General For Investigations | Deputy Inspector General For Investigations
Deputy Inspector General For Policy And Oversight | Deputy Inspector General For Policy And Oversight
Executive Assistant Director Defense Criminal Investigative Service | Executive Assistant Director, Defense Criminal Investigative Service
Inspections And Evaluations | Assistant Inspector General For Inspections And Evaluations
Investigative Policy And Oversight | Assistant Inspector General For Investigative Policy And Oversight
Office Of Administration And Management | Assistant Inspector General For Administration And Management
Office Of Communications And Congressional Liaison | Assistant Inspector General, Office Of Communications And Congressional Liaison
Office Of The General Counsel | General Counsel
Office Of The Principal Deputy Inspector General For Auditing | Principal Assistant Inspector General For Auditing
Office Of The Secretary Of Defense Office Of The Inspector General: | Principal Deputy Inspector General
Readiness, Operations And Support | Assistant Inspector General For Readiness, Operations And Support
Office Of The United States Trade Representative:
Industry, Market Access And Telecommunications | Assistant United States Trade Representative For Industry, Market Access And Telecommunications
Labor | Assistant United States Trade Representative For Labor
South Asian Affairs | Assistant United States Trade Representative For South Asian Affairs
Railroad Retirement Board:
Board Staff | Assistant Inspector General For Audit
| Assistant Inspector General For Investigations
| Chief Actuary
| Chief Financial Officer
| Chief Information Officer
| Chief Of Technology Service
| Deputy General Counsel
| Director Of Administration
| Director Of Field Service
| Director Of Fiscal Operations
| Director Of Hearings And Appeals
| Director Of Operations
| Director Of Policy And Systems
| Director Of Programs
| General Counsel
Selective Service System:
Office Of The Director | Senior Advisor To The Director
Small Business Administration:
Auditing Division | Assistant Inspector General For Auditing
Investigations Division | Assistant Inspector General For Investigations
Management And Policy Division | Assistant Inspector General For Management And Policy
Office Of Business Development | Associate Administrator For Business Development
Office Of Capital Access | Deputy Associate Administrator For Capital Access
Office Of Entrepreneurial Development | Deputy Associate Administrator For Entrepreneurial Development
Office Of Equal Employment Opportunity And Civil Rights Compliance | Assistant Administrator For Equal Employment Opportunity And Civil Rights Compliance
Office Of Field Operations | District Director
Office Of Financial Assistance | Assistant Administrator For Portfolio Management
| Deputy Associate Administrator For Financial Assistance
| Director Of Financial Assistance
Office Of Government Contracting And Business Development | Director Of Business Development
Office Of Hearings And Appeals | Assistant Administrator For Hearings And Appeals
Office Of Human Capital Management | Chief Human Capital Officer
Office Of Policy, Planning And Liaison | Associate Administrator For Procurement Policy And Liaison
Office Of Surety Guarantees | Director For Surety Bonds And Guarantees Programs
Office Of The Chief Financial Officer | Associate Administrator For Performance Management And Chief Financial Officer
| Deputy Chief Financial Officer
Office Of The General Counsel | Associate General Counsel For Financial Law And Lender Oversight
| Associate General Counsel For General Law
| Associate General Counsel For Procurement Law
| Associate General Counsel Litigation
Office Of The Inspector General | Counsel To The Inspector General
| Deputy Inspector General
Small Business Administration Office Of The Inspector General: | Assistant Inspector General For Auditing Division
| Assistant Inspector General For Investigations
| Assistant Inspector General For Management And Policy
| Counsel To The Inspector General
| Deputy Inspector General
Social Security Administration:
Office Of Acquisition And Grants | Associate Commissioner For Acquisition And Grants
| Deputy Associate Commissioner For Acquisition And Grants
Office Of Appellate Operations | Deputy Executive Director, Office Of Appellate Operations
| Executive Director, Office Of Appellate Operations
Office Of Audit | Assistant Inspector General For Audit
| Deputy Assistant Inspector General For Audit
| Deputy Assistant Inspector General For Audit (Program Audits And Evaluations)
Office Of Budget | Associate Commissioner For Budget
| Deputy Associate Commissioner For Budget
Office Of Budget, Finance And Management | Assistant Deputy Commissioner For Budget, Finance And Management
Office Of Civil Rights And Equal Opportunity | Associate Commissioner For Civil Rights And Equal Opportunity
Office Of Disability Adjudication And Review | Assistant Deputy Commissioner For Disability Adjudication And Review
| Deputy Commissioner For Disability Adjudication And Review
Office Of Disability Determinations | Associate Commissioner For Disability Determinations
Office Of Federal Reviewing Official | Chief Federal Reviewing Official
Office Of Financial Policy And Operations | Associate Commissioner, Office Of Finance Policy And Operations
| Deputy Associate Commissioner Financial Policy And Operations
| Deputy Associate Commissioner For Financial Policy And Operations (Payments, Conference Management And Travel)
Office Of General Law | Associate General Counsel For General Law
| Deputy Associate General Counsel For General Law
Office Of Investigations | Assistant Inspector General For Investigations
| Deputy Assistant Inspector General For Investigations (Field Operations)
| Deputy Assistant Inspector General For Investigations (National Investigative Operations)
Office Of Labor-Management And Employee Relations | Associate Commissioner For Labor-Management And Employee Relations
| Deputy Associate Commissioner For Labor-Management And Employee Relations
Office Of Medical And Vocational Expertise | Associate Commissioner For Medical And Vocational Expertise
Office Of Personnel | Associate Commissioner For Personnel
| Deputy Associate Commissioner For Personnel
Office Of Program Law | Deputy Associate General Counsel For Program Law
Office Of Public Disclosure | Executive Director For Public Disclosure
Office Of Quality Performance | Assistant Deputy Commissioner For Quality Performance
| Deputy Commissioner For Quality Performance
Office Of Technology And Resource Management | Assistant Inspector General For Technology And Resource Management
Office Of Telecommunications And Systems Operations | Assistant Associate Commissioner For Enterprise Information Technology Services Management
| Associate Commissioner For Telecommunications And Systems Operations
| Deputy Associate Commissioner For Telecommunications And Systems Operations
| Deputy Associate Commissioner For Telecommunications And Systems Operations (Systems Operations)
| Deputy Associate Commissioner For Telecommunications And Systems Operations (Telecommunications)
Office Of The Chief Actuary | Chief Actuary
| Deputy Chief Actuary (Long-Range)
| Deputy Chief Actuary (Short-Range)
Office Of The Chief Information Officer | Associate Chief Information Officer For Information Technology Investment Management
| Deputy Chief Information Officer
Office Of The Inspector General | Assistant Inspector General For External Relations
| Counsel To The Inspector General
| Deputy Inspector General
Social Security Administration Office Of The Inspector General:
Immediate Office Of The Inspector General | Deputy Inspector General
Office Of Audit | Assistant Inspector General For Audit
| Deputy Assistant Inspector General For Audit (Financial Systems And Operations Audits)
| Deputy Assistant Inspector General For Audit (Program Audit And Evaluations)
Office Of Counsel To The Inspector General | Counsel To The Inspector General
Office Of External Relations | Assistant Inspector General For External Relations
Office Of Investigations | Assistant Inspector General For Investigations
| Deputy Assistant Inspector General For Investigations (FO)
| Deputy Assistant Inspector General For Investigations (NIO)
Office Of Technology And Resource Management | Assistant Inspector General For Technology And Resource Management
Trade And Development Agency:
Office Of The Director | Assistant Director For Policy And Programs
United States Agency For International Development:
Bureau For Africa | Deputy Assistant Administrator
Bureau For Democracy, Conflict, And Humanitarian Assistance | Deputy Assistant Administrator
| Deputy Director, Office Of Foreign Disaster Assistance
| Deputy Director, OMA
Bureau For Foreign Assistance | Senior Coordinator
Bureau For Global Health | Deputy Assistant Administrator
Bureau For Management | Chief Financial Officer, Office Of Financial Management
| Chief Information Officer
| Deputy Assistant Administrator
| Deputy Chief Financial Officer
| Deputy Chief Financial Officer
| Deputy Director
| Deputy Director For OAA Policy, Support, And Evaluation
| Deputy Director, OAA Operations
| Director, Office Of Administrative Service
| Director, Office Of Management, Policy, Budget And Performance
Office Of Equal Opportunity Programs | Director Office Of Equal Opportunity Programs
Office Of Security | Director, Office Of Security
Office Of Small And Disadvantaged Business Utilization | Director, Office Of Small And Disadvantage Business Utilization
Office Of The Inspector General | Assistant Inspector General For Management
| Counselor To The Inspector General
| Deputy Assistant Inspector General For Audit
| Deputy Inspector General
| Supervisory Auditor
| Supervisory Criminal Investigator
United States International Trade Commission:
Office Of External Relations | Director, Office Of External Relations
Office Of Industries | Director, Office Of Industries
Office Of Investigations | Director, Office Of Investigations

Office of Personnel Management.
John Berry,
Director.

[FR Doc. 2010-19094 Filed 8-4-10; 8:45 am]

BILLING CODE 6325-39-P